DEPARTMENT OF COMMERCE

National Oceanic and Atmospheric Administration

50 CFR Part 660

[Docket No. 031216314-4068-02; I.D. 112803A]

RIN 0648-AR54

Magnuson-Stevens Act Provisions; Fisheries Off West Coast States and in the Western Pacific; Pacific Coast Groundfish Fishery; Annual Specifications and Management Measures

AGENCY: National Marine Fisheries Service (NMFS), National Oceanic and Atmospheric Administration (NOAA), Commerce.

ACTION: Final rule.

SUMMARY: NMFS issues this final rule to implement the 2004 fishery specifications and management measures for groundfish taken in the U.S. exclusive economic zone (EEZ) off the coasts of Washington, Oregon, and California. This final rule includes the levels of the acceptable biological catch (ABC) and optimum yields (OYs). The commercial OYs (the total catch OYs reduced by tribal allocations and by amounts expected to be taken in recreational and resource survey compensation fisheries) in this rule are allocated between the limited entry and open access fisheries and between different sectors of the limited entry fleet. Management measures for 2004 are intended to: Achieve but not exceed OYs; prevent overfishing; rebuild overfished species; reduce and minimize the bycatch and discard of overfished and depleted stocks; provide equitable harvest opportunity for both recreational and commercial sectors; and, within the commercial fisheries, achieve harvest guidelines and limited entry and open access allocations to the extent practicable.

DATES: The amendments to 50 CFR part 660 are effective March 1, 2004, except for amendments to § 660.370, which are effective April 8, 2004. These specifications and management measures are effective from March 1, 2004, through December 31, 2004.

ADDRESSES: Copies of the Final Environmental Impact Statement (FEIS) for this action are available from Donald McIsaac, Executive Director, Pacific Fishery Management Council (Council), 7700 NE Ambassador Place, Portland, OR 97220, phone: 503-820-2280. Copies of additional reports referred to in this document may also be obtained from the Council. Copies of the Record of Decision (ROD), final regulatory flexibility analysis (FRFA), and the Small Entity Compliance Guide are available from D. Robert Lohn, Administrator, Northwest Region (Regional Administrator), NMFS, 7600 Sand Point Way, NE., Seattle, WA 98115-0070.

FOR FURTHER INFORMATION CONTACT: Yvonne deReynier or Becky Renko (Northwest Region, NMFS), phone: 206-526-6150; fax: 206-526-6736 and; e-mail: yvonne.dereynier@noaa.gov, becky.renko@noaa.gov.

SUPPLEMENTARY INFORMATION:

Electronic Access

The final rule also is accessible via the Internet at the Office of the Federal Register's Web site at http://www.access.gov/fr/index.html. Background information and documents are available at the NMFS Northwest Region Web site at http://www.nwr.noaa.gov/1sustfsh/gdfsh01.htm and at the Council's Web site at http://www.pcouncil.org/groundfish/ gfspex/gfspex04.html.

Background

A proposed rule to implement the 2004 specifications and management measures for Pacific Coast groundfish was published on January 8, 2004 (69 FR 1380). NMFS requested public comment on the proposed rule through February 9, 2004. During the comment period on the proposed rule, NMFS received four letters of comment, which are addressed later in the preamble to this final rule. See the preamble to the proposed rule for additional background information on the fishery and on this final rule.

The Pacific Coast Groundfish Fishery Management Plan (FMP) requires that fishery specifications for groundfish be biennially or annually evaluated and revised, as necessary, that OYs be specified for species or species groups in need of particular protection, and that management measures designed to achieve the OYs be published in the Federal Register and made effective by January 1, the beginning of the fishing year. To ensure that new 2004 fishery management measures were effective January 1, 2004, NMFS published an emergency rule announcing final management measures for January-February 2004 (69 FR 1322, January 8, 2004). Annual specifications for 2004 and management measures for March-December 2004 were proposed in a separate rule, also published on January 8, 2004 (69 FR 1380).

Specifications and management measures announced in this final rule for 2004 are designed to rebuild overfished stocks through constraining direct and incidental mortality, to prevent overfishing, and to achieve as much of the OYs as practicable for more abundant groundfish stocks managed under the FMP.

Comments and Responses

During the comment period for the 2004 specifications and management measures, which ended on February 9, 2004, NMFS received four letters of comment. Three of these letters of comment addressed different portions of the proposed rule and were received from: a non-governmental organization representing environmental interests, the California Department of Fish and Game (CDFG), and the Council. NMFS also received a letter of comment from a non-governmental organization representing trawl vessel operators that, in part, addressed the proposed rule. Comments received on the proposed rule are addressed here:

Comment 1: In November, we asked the Council's Groundfish Management Team (GMT) to calculate whether the trawl trip limits could be increased given that 91 limited entry trawl vessels were to be removed from the fleet by early December. We asked for a 200 percent increase in trawl trip limits, but we have seen only a token increase for the first quarter of the year. We demand that the current trawl trip limits be overturned so that the trawl fleet can have higher trip limits immediately.

Response: In December 2004, NMFS bought 91 trawl vessels and their limited entry permits out of the West Coast groundfish fisheries. The funds for this purchase were provided by a Congressional appropriation and will, in part, be re-paid by the fishing fleets affected by the reduction in number of participants (groundfish trawl, pink shrimp trawl, Dungeness crab trap/pot).

At the November 2003 Council meeting, several groundfish trawlers had made comments on the Council floor that they would appreciate a NMFS review of 2004 trawl trip limits in light of the expected trawl permit/vessel buyback program. These trawl fishery participants believed that the vessel/permit buyback program would successfully reduce capacity in the fleet enough to warrant an increase in trawl trip limits.

After hearing the trawl industry's comments, Council members suggested that NMFS look only at increasing trip limits for the Dover sole, shortspine thornyhead, longspine thornyhead, sablefish (DTS) complex species. DTS complex species tend to aggregate for spawning in the winter and may be taken in the winter with lower bycatch of overfished species. Also, DTS are deepwater species and fishing for these species usually occurs offshore of the ranges of overfished continental shelf species.

Following the Council meeting, the NMFS Northwest Fisheries Science Center (NWFSC) looked at the historic fishing effort of each of the vessels removed from the groundfish trawl fishery through the buyback program. NMFS then calculated the amount of each DTS species that would likely be taken by the remaining fleet operating under the trip limits initially recommended by the Council for 2004. Based on that calculation, NMFS expected that the now-reduced fleet would take notably less of each of the DTS species than if the buyback program had not occurred. NMFS then calculated expected harvest by the reduced fleet if the agency were to implement DTS trip limits that were 50 percent higher than those recommended by the Council in September 2003. Under that scenario, the reduced fleet operating with increased trip limits was still expected to harvest less of each DTS complex species (sablefish—63 percent, longspine thornyhead—77 percent, shortspine thornyhead—74 percent, Dover sole—72 percent) than the whole fleet would have harvested with the initially recommended trip limits. NMFS further expected that the reduced fleet operating with increased DTS trip limits would still take smaller amounts of overfished species than the whole fleet would have taken with the initially recommended trip limits.

Given the expected DTS catch levels under a 50 percent increase in trip limits, however, it is clear that a 200 percent increase in trip limits would have allowed the current fleet to exceed even the expected harvest levels of the pre-buyback fleet. NMFS, the Council, and its advisory bodies will have several opportunities during the 2004 fishing season to review the effects of the buyback's effort reduction on the current fleet's expected harvesting behavior. Thus, NMFS will implement for March-April the 50 percent-increased DTS trip limits it had proposed and expects that the Council's 2004 inseason management process will accommodate any trawl trip limit increases that may be possible through the remainder of the year.

Comment 2: With Oregon Department of Fish and Wildlife (ODFW), Oregon trawlers have developed a small footrope trawl net design with a cutback headrope. Nets of this design can catch flatfish while avoiding encounters with most roundfish. If fishermen are using a conservation tool, the cutback headrope trawl, they should be allowed to have higher trip limits than those currently set for small footrope trawl vessels.

Response: Many flatfish species are abundant and support important Pacific Coast groundfish fisheries. Flatfish species such as Dover sole, petrale sole, English sole, rex sole, and arrowtooth flounder have historically been caught by vessels using trawl gear in depths of 50-150 fathoms (91-274 meters). Many of these areas are within the Trawl Rockfish Conservation Area (RCA) where fishing with bottom trawl gear is prohibited.

In 2001 and 2002, ODFW worked on developing a trawl net design with a cutback headrope that was intended to be more selective for flatfish species while resulting in lower catch rates of overfished rockfish species. (A trawl net with a “cutback headrope” is one in which the curve of the headrope away from the trawl tow lines is deeper than the curve of the footrope away from those same lines.) During this research, ODFW scientists contracted commercial fishing vessels and did comparative testing between the new net and net configurations that are typically used in the fishery. Significant reductions in the catch of overfished rockfish species relative to flatfish catch were observed in hauls where the new net was used. Because this net design meets the requirements of small footrope bottom trawl gear as defined by regulations at 50 CFR part 660, it has the potential to become an effective way for fishers to reduce the bycatch rates of overfished rockfish species in the flatfish fisheries.

To understand how the new net performed under normal commercial fishing conditions, further testing was necessary over a broader range of the fishery. In 2003, ODFW and CDFG applied for and were issued exempted fishing permits (EFPs) to collect data needed to measure the selectivity of the new trawl net design when used by commercial fishers. Vessels fishing under the EFP were allowed to operate in the Trawl RCA. To encourage participation, increased trip limits for flatfish were available to the vessels that were willing to modify their existing gear or purchase new gear that was consistent with the design requirements and who were willing to carry an observer or sampler on board their vessel during all EFP fishing. For 2004, ODFW, CDFG and Washington Department of Fish and Wildlife (WDFW) have applied for EFPs to collect additional data that can be used to assess the selectivity of the new net over a broader range of areas.

Because 2003 was the first year in which data was collected through the use of EFPs, and because the EFP fishing did not end until October 2003, a full assessment of the selectivity of the new net under normal fishing conditions was not available at the Council's June and September meetings, when the 2004 management measures were developed. When the data analysis is completed and made available to the Council and NMFS, consideration may be given to measures like differential trip limits for users of lower bycatch gear that further the management objectives defined under the FMP.

Comment 3: When a vessel carries an observer on board, the vessel should be allowed to exceed its trip limits for each species by the amount of discard estimated for that species. Species with low trip limits or “no-take” species should not be discarded, but should be landed for scientific purposes and then processed and sold. Fish discarded because the vessel operator is highgrading his catch of a particular species in order to retain only the highest-priced size fish of that species should be retained and donated to charity.

Response: The West Coast Groundfish Observer Program (WCGOP) is a scientific observation program intended to collect data from fishing vessels operating in a normal mode of fishing. If vessels were essentially permitted to take higher limits than those targeted by unobserved vessels in the fleet, then the observed vessels would not be operating in a normal fishing mode. Data from those vessels' activities would then be less useful as a snapshot of the fishing behavior of the fleet as a whole. Additionally, vessel operators would lack incentives to develop methods to reduce their discards if they could simply retain their overages and profit from them. In order to implement the program described in the comment, NMFS would have to place an observer on every vessel and the agency does not now have, nor does it anticipate having, funds to deploy observers on every vessel. The feasibility of a regulations allowing full retention of rockfish species is under examination through EFP programs. If the results of these EFP programs show that a full retention program can be implemented and effectively monitored, full retention regulations that meet the scope of Federal groundfish management objectives may be adopted for specific portions of the groundfish fleet.

Observers already retain scientific samples from overfished and other groundfish species that would have otherwise been discarded. At-sea sampling is preferable to at-dock sampling because the fish are not yet mixed in the hold and can be identified with a particular tow/haul, noting location, depth and other haul-defining data. Data that can be identified to a particular haul generally provide better quality information than when fish are sampled from a delivery comprised of several different hauls, which may be from different fishing locations.

Landings overages are currently confiscated by the states and such fish may be sold to the benefit of the state or donated to charity. NMFS’ preference, of course, would be to reduce incentives for highgrading, rather than encouraging highgrading through allowing landings of size-related discards. To that end, NMFS has recently announced a new EFP application from ODFW to examine revisions to the market categories of key target species such as Dover sole, sablefish, thornyheads, and rockfish (February 2, 2004, 69 FR 5837.) NMFS currently supports bycatch donation programs in the at-sea whiting fisheries, and through EFPs in the shore-based whiting fishery and the arrowtooth and other flatfish trawl fisheries.

Comment 4: The harvest levels NMFS has proposed for nearly all of the overfished species fail to comply with the Magnuson-Stevens Fishery Conservation and Management Act (Magnuson-Stevens Act) at 304(e)(4)(A) because they do not rebuild these species within the shortest period possible.

Response: NMFS believes that the OY levels specified for overfished species in this final rule are consistent with the legal requirements of the Magnuson-Stevens Act and with the national standard guidelines. The Magnuson-Stevens Act does not state that rebuilding must be completed in the shortest time possible, rather it requires the time for rebuilding to be as short as possible, taking into account certain factors. The Magnuson-Stevens Act, section 304(e)(4)(A), and the national standards guideline at 50 CFR 600.310(e)(4)(A) recognize the following factors that enter into the specification of a time period for rebuilding: The status and biology of the stock or stock complex; interactions between stocks or stock complexes and the marine ecosystem; the needs of fishing communities; recommendations of international organizations in which the U.S. is a participant; and management measures under an international agreement in which the U.S. participates.

According to the national standard guidelines at 50 CFR 600.310(e)(ii)(B)(2), if the year the stock would be rebuilt in the absence of fishing (TMIN) is 10 years or less, then the specified time period for rebuilding may be adjusted upward to the extent warranted by the needs of fishing communities and recommendations of international organizations in which the U.S. is a participant. However, the rebuilding period may not exceed 10 years unless international agreements that the United States is a party to dictate otherwise.

Of the nine overfished groundfish stocks, lingcod was the only species in which TMIN was estimated to be 10 years or less. As permitted by the Magnuson-Stevens Act and the national standard guidelines, the needs of the fishing community were taken into consideration when the rebuilding period for lingcod was established. It should be noted that the difference between the TMIN rebuilding year of 2007 and the TTARGET rebuilding year of 2009 intended to be achieved by these harvest specifications is just 2 years.

According to the national standard guidelines at 50 CFR 600.310(e)(4)(ii)(B)(3), if TMIN is 10 years or greater, “then the specified time period for rebuilding (TTARGET) may be adjusted upward to the extent warranted by the needs of fishing communities and recommendations by international organizations in which the U.S. participates, except that no such upward adjustment can exceed the rebuilding period calculated in the absence of fishing mortality, plus one mean generation time or equivalent period based on the species' life-history characteristics (TMAX).” No harvest specifications have been set such that they would allow rebuilding periods for any of the other overfished species to exceed TMAX.

Comment 5: The harvest levels NMFS has proposed for overfished species conflict with NMFS's “Technical Guidance on the Use of Precautionary Approaches to Implementing National Standard 1 of the Magnuson-Stevens Fishery Conservation and Management Act” (Technical Guidance). They conflict with the Technical Guidance because that document directs the agency to select harvest levels that have at least a 90-percent probability of rebuilding before TMAX and that result in a rebuilding period no longer than the midpoint between TMIN and TMAX.

Response: The Technical Guidance has been provided by NMFS “for those aspects of scientific fishery management advice that have biological underpinnings, such as the response of fish to exploitation. The drafting team recognizes that there are many other important aspects to managing fisheries, such as socioeconomic factors, which are key to defining optimum yield, and which Fishery Management Councils must consider.” As such, the Technical Guidance does not direct NMFS, but rather makes suggestions on how to use scientific information to implement the policy guidance of the Magnuson-Stevens Act and the national standard guidelines to achieve the biological goals of national standard 1.

The Technical Guidance at page 38 suggests addressing uncertainty with the guideline that “rebuilding plans be designed to possess a 50-percent or higher chance of achieving BMSY within TTARGET years, and a 90-percent or higher chance of achieving BMSY within TMAX years.” Harvest levels finalized by this action have been set such that overfished species would have a 50-percent chance of achieving BMSY within TTARGET years. However, only harvest levels for darkblotched and yelloweye rockfish have been set such that their rebuilding plans would have a greater than 90-percent chance of achieving BMSY within TMAX years. Each species was considered individually in its species-specific rebuilding analysis.

As discussed in the preamble to the proposed rule for this action (69 FR 1380, January 8, 2004,) the rebuilding measures for the remaining overfished West Coast groundfish species except whiting have the following probabilities of achieving BMSY within TMAX years: Pacific ocean perch (POP), >70 percent; canary rockfish, 60 percent; lingcod, 60 percent; bocaccio, ≥70 percent; cowcod, 55 percent, and; widow rockfish, 60 percent. NMFS will discuss whiting and its probability of achieving BMSY in a separate Federal Register document once the Council has reviewed and discussed the recently completed whiting stock assessment, and has recommended whiting ABC and OY levels for 2004. These probabilities of rebuilding and the harvest levels associated with them were set to achieve rebuilding, but also to acknowledge that these species are usually taken with other, co-occurring and more abundant species. OY levels for overfished species are set to allow some level of fishing for the more abundant stocks that co-occur with overfished species. At the same time, management measures such as conservation areas are set to minimize opportunities for the vessels targeting more abundant stocks to intercept overfished species. This approach to multi-species management is consistent with the Magnuson-Stevens Act and meets the criteria in the Act at section 304(e)(4) and the national standard guidelines at 600.310(e)(4)(ii).

According to the national standard guidelines at 50 CFR 600.310(e)(4)(ii)(B)(3), if TMIN is 10 years or greater, “then the specified time period for rebuilding [TTARGET] may be adjusted upward to the extent warranted by the needs of fishing communities and recommendations by international organizations in which the United States participates, except that no such upward adjustment can exceed the rebuilding period calculated in the absence of fishing mortality, plus one mean generation time or equivalent period based on the species' life-history characteristics [TMAX].” While the Technical Guidance at page 38 suggests that TTARGET be set no higher than the midpoint between TMIN and TMAX, adopting that as a binding criterion in all cases would not be consistent with the Magnuson-Stevens Act. It would not be consistent with the Magnuson-Stevens Act because it would not allow the criteria in the Act at section 304(e)(4) and the national standard guidelines at 600.310(e)(4)(ii) to be taken into account. For further discussion on this issue, see the preamble to the Amendment 16-1 final rule (69 FR 8861, February 26, 2004.)

Comment 6: NMFS has proposed to implement a new and greatly increased harvest level for bocaccio that is based on a new stock assessment and a series of assumptions that are not precautionary. NMFS has also unreasonably rejected the proposal of the State of California that the 2004 OY for bocaccio be 199 mt rather than 250 mt, claiming that bocaccio will be managed to a 199 mt catch level.

Response: The assertion that the proposed harvest of 250 mt is “not precautionary” is not supported by the evidence. Of the three rebuilding scenarios (modeled using STARb1, STARb2 and STATc) considered in the assessment, a 250 mt harvest is associated with a 70 percent probability of successful rebuilding within the prescribed timeframe in the worst of the three cases (STARb2). Thus the proposed harvest level is actually precautionary in two ways. First, the probability of rebuilding within TMAX is at least 70 percent, which is substantially higher than the minimum required probability level of 50 percent, and second, because this harvest policy is based on the worst case scenario, two out of the three rebuilding scenarios place the probability at even greater than 70 percent.

The proposed OY is larger than previous OY levels. The new OY, however, is based on the most recent (2003) stock assessment results. This assessment incorporates the most recent fishery and survey data, and revises some aspects of the stock assessment model, including the assumed rate of natural mortality. The assessment was peer reviewed both by a panel of experts and by the Council's Scientific and Statistical Committee (SSC), and constitutes the best currently available science. To base the proposed OY on previous assessments that do not include the most recent data would violate the Magnuson-Stevens Act requirement (section 301(a)(2)) to use the best available scientific information.

The Magnuson-Stevens Act, section 304(e)(4)(A), and the national standard guidelines at 50 CFR 600.310(e)(4)(A) recognize a number of factors that enter into the specification of a time period for rebuilding, including: the status and biology of the stock or stock complex; interactions between stocks or stock complexes and the marine ecosystem; the needs of fishing communities; recommendations of international organizations in which the U.S. is a participant; and management measures under an international agreement in which the U.S. participates.

NMFS believes that choosing the Council-preferred alternative is consistent with the Magnuson-Stevens Act requirements (including section 301(a)(2) requiring a basis of the best scientific information) and is a reasonable and precautionary accommodation that meets both biological needs of the stock for rebuilding and the needs of the fishing communities.

Comment 7: NMFS has proposed to implement a widow rockfish OY with only a 60 percent probability of rebuilding and has ignored any OY options with a higher probability of rebuilding success. Moreover, the harvest alternatives that NMFS considered for widow rockfish are misleading and confusing because they are based on different modeling assumptions. These assumptions suggest that a higher level of fishing harvest would result in faster rebuilding of the species, which is plainly untrue.

Response: Stock assessments report on the health of a stock and include information used to maintain or restore stock size. Stock assessments include information about the biology of the species as well as information about the fishing activities on the stock. Fishery independent data contributes valuable biological information to the stock assessment, including age structure of the stock, trends in abundance, mortality rates, growth rates, and spawning behavior. Reliable fishery dependent data, including sufficient landings and effort data can be used to detect changes in the relative abundance of the stock, but with less certainty than when fishery independent data are available. When a stock assessment is conducted, stock assessment scientists must use the best available information to estimate the most suitable values for inclusion in the stock assessment model.

Because widow rockfish are commonly caught with mid-water trawl gear, not the bottom trawl gear that is used for the triennial bottom trawl survey, fishery data has been used for the stock abundance indices. However, reduced trip limits and other fishery restrictions have resulted in little and non-comparable fishery data being available for the years after 1999. The absence of a fishery independent stock size index and the lack of reliable fishery dependent data indices of stock size are limiting factors in assessing the status of widow rockfish.

To address data deficiencies and modeling uncertainties, a range of model scenarios based on different groupings of the following three variables were prepared and presented to the Council and its advisory bodies: (1) Whether recruitment should be pre-specified for 2003-2005 based on a midwater juvenile trawl survey, (2) the methods by which future recruitment estimates should be generated, and (3) what range of power coefficient should be used to analyze the midwater juvenile trawl survey. As described in the proposed rule preamble, the SSC considered the different model scenarios and identified a preference for a model scenario in which recruitment was pre-specified and a stock recruitment relationship was also used. The SSC recommendation narrowed the model scenarios to three (identified as models 7, 8, and 9 in the rebuilding analysis). The SSC discussed the use of power coefficients to estimate juvenile indices, but concluded that the different values were equally likely, leaving no statistical basis for choosing among them. The SSC did, however, determine that there was a biological basis for recommending a power coefficient range between 2.0 and 4.0.

Growth of the spawning stock biomass depends on the rate at which juvenile fish mature and enter the fishery (recruitment) as well as the applied exploitation rates. The range of accepted models produce different expected levels of future recruitment and will result in different levels of expected growth in the spawning stock. This range of reasonable values was reviewed by the SSC and Stock Assessment Review panels as the best available information. A more conclusive determination was not possible with the available data.

The simplicity of the commenter's statement that modeling assumptions suggest that a higher level of fishing harvest would result in faster rebuilding of the species fails to recognize how recruitment levels influence the results. Plausible higher future recruitment levels support both faster rebuilding and a higher level of fishing harvest during rebuilding. The reverse assumptions would apply for lower levels of recruitment.

The Council considered three OYs based on each of the three model scenarios (7, 8, and 9) with the application of a fishing exploitation rate for 2004 that corresponded with a 60 percent probability of rebuilding the stock to BMSY by 2042 (TMAX). For 2004, the Council recommended the mid-range OY of 284 mt with a corresponding ABC of 3,460, with a target rebuilding date (TTARGET) of 2037. Given the complexity in identifying the most suitable model, NMFS believes that holding TMAX and TTARGET constant to those applied in 2003 was reasonable, particularly considering that Amendment 16-3, which will provide a rebuilding plan for widow rockfish, will be prepared through the Council in early 2004 and considers a full range of rebuilding probabilities.

Comment 8: NMFS has proposed to increase the fishing rates for POP and darkblotched rockfish, which would delay rebuilding of these species. Maintaining the previous catch rates would have rebuilt these species faster. The increase violates the Magnuson-Stevens Act requirements to rebuild species as quickly as possible.

Response: The proposed rule for the 2004 fishery specifications and management measures, which was published on January 8, 2004, contained revisions to the harvest control rules for POP and darkblotched rockfish from what had been published in the Amendment 16-2 proposed rule on December 5, 2003 (68 FR 67998). The POP rebuilding parameters published in the Amendment 16-2 proposed rule were based on a 2000 stock assessment that resulted in a target rebuilding year of 2027 and a harvest control rule of F=0.0082. The 2004 OY presented in the proposed rule to implement the 2004 fishery specifications and management measures was based on a new stock assessment prepared in 2003. Because POP rebuilding parameters such as the unfished biomass and BMSY were updated with the new stock assessment, the POP harvest control rule was revised to F=0.0257 from F=0.0082. However, the target rebuilding year (2027) is the same as was announced for POP in the Amendment 16-2 proposed rule. Similarly, the darkblotched rockfish rebuilding parameters in the Amendment 16-2 proposed rule were based on a 2000 stock assessment that had resulted in a target rebuilding year of 2030 and a harvest control rule of F=0.027. The 2004 OY presented in the proposed rule to implement the 2004 fishery specifications and management measures was based on a new stock assessment that was prepared in 2003 and results in the same target rebuilding year (2030) as was announced in the Amendment 16-2 proposed rule for the darkblotched rockfish rebuilding plan. However, because other rebuilding parameters such as the unfished biomass and BMSY were updated with the new stock assessment, the harvest control rule was revised to F=0.032 from F=0.027. Based on the new stock assessments, there were modest increases in the harvest rates for these species and harvest levels in 2004 are higher than in 2003. Nonetheless, the projected times for rebuilding for these species have not changed. Although the stock may rebuild faster if the harvest rates had been held to the same rates as in 2003, that is not required by the Magnuson-Stevens Act, as explained above in the response to Comment 4. The Magnuson-Steven Act does not state that rebuilding must be completed in the shortest time possible, rather it requires that time for rebuilding to be as short as possible, taking into account certain factors. NMFS and the Council considered the appropriate factors discussed in the response to Comment 4, above, in setting the 2004 harvest levels.

Comment 9: NMFS has not given proper consideration to the effect of Pacific whiting harvest on other overfished species, presumably because NMFS has yet to decide on the 2004 whiting OY. NMFS cannot reasonably conclude that its proposed management measures will be sufficient to constrain the mortality of overfished species that co-occur with whiting if it does not yet know the whiting harvest levels.

Response: A new whiting stock assessment and rebuilding analysis will be available to the Council at its March 2004 meeting in Tacoma, Washington. The upcoming whiting stock assessment incorporates additional fishery dependent data collected since the last stock assessment, and new fishery independent data from the 2003 hydroacoustical survey and pre-recruit survey work. These added data points are expected to provide much needed information both on changes to the spawning stock biomass since the 1999 year class began entering the fishery, and on potential future whiting recruitment.

In anticipation of the new stock assessment and given the small amount of whiting that is typically landed under trip limits prior to the April 1 start of the primary season, the Council delayed adoption of a final ABC and OY until the results of the new stock assessment and rebuilding analysis are available at its March 2004 meeting. The Council will recommend the ABC and OY in March and it will be implemented through a final rule that is separate from the final rule for the rest of these groundfish specifications and management measures.

In anticipation of the new assessment, the Council considered and the EIS analyzed a range of ABCs and OYs that were expected to encompass results of the new stock assessment. This range was consistent with historical values. The four ABC and OY options considered by the Council were: an ABC of 94,000 mt with an OY of 74,100 mt, which represents 50 percent of the 2003 ABC and OY; an ABC of 188,000 mt with an OY of 148,200 mt, which was the 2003 ABC and OY; an ABC of 282,000 mt with an OY of 222,300 mt, which is 50 percent greater than the 2003 ABC and OY; and an ABC of 325,000 mt with an OY of 250,000 mt, which was a value recommended by the Council. The Council recommended a preferred OY of 250,000 mt to accommodate possible high end estimates that could result from the 2004 stock assessment, while recognizing the limitations that incidental catch of widow rockfish is likely to have on harvest levels of whiting.

NMFS believes that proper consideration was given to the effect of Pacific whiting harvest on other overfished species. In June 2003, the Council asked the GMT to review widow rockfish bycatch in the whiting fishery. At the September Council meeting (Exhibit C.6.0 Supplemental GMT report 3), the GMT reported that historical data from 1998-2002, indicated that the availability of the whiting OY would likely need to be constrained to around 120,000 mt to stay within the widow rockfish OY of 284 mt. The 2004 alternative scorecards presented in the Draft Environmental Impact Statement (DEIS) (Tables 2.2.2-1, 2.2.3-1, 2.2.4-1, and 2.2.5-1) display the estimated mortality for each overfished species resulting from the alternative whiting OYs. The scorecard for Council's preferred alternative estimates the amount of each overfished species, except widow rockfish, that would be taken by the whiting fishery participants under the medium OY of 148,000 mt. For widow rockfish, the maximum availability of this species to the whiting fisheries was identified as being 200.5 mt regardless of the whiting OY from the new assessment. The impacts of the alternative whiting OYs were also discussed in section 4.2.1.2 of the DEIS, with particular attention being given to the impacts on widow rockfish.

The 2004 management measures adopted for overfished species were designed to result in total mortality levels that are lower than that species' OY, which effectively creates an OY buffer. Providing this OY buffer for overfished species will allow for flexibility in establishing a whiting OY while reducing the risk of exceeding an OY. Because scorecards are updated throughout the year as new information becomes available, the estimates of the incidental catch of overfished species will be adjusted when the final whiting OY is adopted, and will be updated as necessary during the fishing year. Whiting is a unique fishery in that it is a mid-water trawl fishery, takes little bycatch, and has a high level of catch monitoring (in 2003, nearly 100 percent of the hauls were sampled in the at-sea processing fishery and about 30 percent of the shore-based landings were sampled). NMFS believes that the 2004 management measures, including the use of OY buffers and inseason adjustments, will be sufficient to keep the mortality of overfished species that co-occur with whiting within the established OYs. If NMFS finds that the final OY recommendation for whiting is significantly different from the range of OYs that was analyzed in the DEIS, new information addressing the impacts will be provided. When approving the final OY for whiting, NMFS will ensure that the projected harvests of overfished species will not exceed their OYs.

Comment 10: NMFS has failed to give adequate consideration to past levels of actual fishing catch in setting the 2004 harvest specifications. NMFS has failed to assess and disclose the total levels of fishing mortality for overfished species in 2002 and 2003, which means that it and the public lack the information necessary to determine whether lower harvest levels might be necessary to compensate for past overharvests. Without this information, NMFS also does not know whether the proposed management measures for 2004 are likely to keep fishing mortality at or below the necessary levels.

Response: NMFS develops and implements the annual specifications and management measures through a notice-and-comment rulemaking and with a National Environmental Policy Act analysis, such as an EIS. For the 2004 fisheries, the Council began much of its work in April 2003 and finalized its recommendations in early September 2003. NMFS published its proposed rule to implement the 2004 specifications and management measures on January 8, 2004, and will make this action final by March 1, 2004.

NMFS, the State fisheries agencies, and the Council monitor fisheries landings inseason. Commercial fisheries landings are monitored by a fish ticket system managed by the three States. State fish ticket data is compiled by the Pacific States Marine Fisheries Commission (PSMFC). Estimated commercial landings amounts are provided to the agencies and the public via the Pacific Fisheries Information Network (PacFIN), which has its Web site at http://www.psmfc.org/pacfin. Fish ticket data available through PacFIN are not up-to-the-minute. For example, if a person were to check the PacFIN Web site on March 15th for total coastwide catch of widow rockfish, the estimates available would not include all widow rockfish landed up through March 14th. Depending on State funding and staffing levels, groundfish landings may be recorded in PacFIN anywhere from several days to a few months after the landings have been made. For this reason, fishery managers must estimate current landings levels of a particular species by extrapolating what we know has already been landed out to an estimate based on several different variables, such as past harvest rates in particular months, number of vessels participating in the fishery in those months, etc. With the time delays in this landings monitoring system, the Council making its recommendations in September 2003 and even NMFS finalizing its decision in March 2004 would not have fully up-to-date landings information from the 2003 commercial fisheries. For this reason, the December 2003 FEIS for this action based its analyses on the more complete landings estimates from 2002 and prior years. The partial 2003 data that was available at the time that the analysis was conducted would not have accurately depicted 2003 annual landings.

In this comment, the commenter refers to fishing “catch,” not to fishing landings. The State fish ticket system and PacFIN monitor commercial fisheries landings. These systems do not include fish taken at sea and lost or discarded. While NMFS monitors total catch levels through at-sea observer sampling programs, the agency does not have the staff, funding, or technology to monitor the thousands of trawl tows and trap and longline hauls that result in the fishery's total commercial catch. Instead, NMFS monitors a portion of the commercial fleet through observers and extrapolates total catch for the fleet based on modeling observer data with fish ticket and other data. In the preamble to the proposed rule for this action, NMFS described a bycatch model that is used both pre-season to develop management measures and inseason to modify management measures. This model is a “total catch” model, i.e. it calculates the total expected catch, not just fish that are actually landed. The model is updated annually with new WCGOP data. Observer data from the 2001-2002 fisheries was used to develop 2004 management measures and discard estimates. NMFS just completed its analysis of 2002-2003 WCGOP data (http://www.nwfsc.noaa.gov/research/divisions/fram/Observer/), and that analysis will inform the Council's inseason management for 2004, and development of the 2005-2006 fishery specifications and management measures.

Recreational fisheries are also monitored inseason, although monitoring methods vary by State. As with the commercial fisheries, PSMFC maintains a database for recreational fisheries, the Recreational Fisheries Information Network (RecFIN). Estimates of recreational fisheries catch and landings are available on the Internet at http://www.recfin.org/. All three States deploy port samplers for at-dock sampling of recreational groundfish fisheries. Even more so than in commercial fisheries, recreational fisheries data may not be available to fisheries managers until several months after the subject fishing trips have occurred. Because the States of Washington and Oregon have smaller coastlines and smaller populations than California, they tend to directly sample a much greater proportion of their recreational fisheries catch than California does.

In past years, California has relied on NMFS' Marine Recreational Fisheries Statistical Survey (MRFSS) for its estimates of recreational fisheries catch. MRFSS uses a telephone survey of the general population to determine which persons in the population are anglers, and, of the anglers, how much of which species they are catching and landing. MRFSS was initially designed as an annual sampling program that would provide a snapshot of an entire year's harvest of different recreational species. Because MRFSS was the only tool for estimating recreational catch, the Council has used it for inseason management in recent years. In developing the 2004 fishery specifications and management measures, NMFS and the state agencies used RecFIN data, including MRFSS data for California, from 2002 and prior years. Data from the 2003 fisheries is not yet complete and was even less complete when the 2004 fisheries regulations were developed. Partial data from 2003 was not used both because the data delivery times from the three States varies and because the database managers do not release the data as complete until several months after the fisheries have occurred. However, NMFS has used preliminary data from 2003 to adjust 2004 lingcod management measures in this final rule in order to immediately address early evidence of excessive harvest in 2003 of lingcod, an overfished species. Reasons for this are explained below in the response to Comment 12.

Recreational fisheries data needs have increased notably since the Council first began managing the fisheries to rebuild overfished stocks in 2000. All three States, the Council, and NMFS have been concerned that data generated from MRFSS was not accurate or timely enough to support inseason management of recreational fisheries. Over 2002-2003, the agencies met through the PSMFC's RecFIN Data Committee and worked together to update their monitoring programs so as to better meet the coastwide need for improved recreational fisheries catch data. PSMFC reported to the Council on the planned changes to recreational fisheries data gathering in the three States at the Council's November 2003 meeting. All three States have eliminated MRFSS as a sampling tool, focusing instead on at-dock sampling and angler interviews. While California will continue to use telephone interviews as one of its data-gathering methods, its survey population will be licensed California anglers, not the entire population of the State of California. California will also be increasing its at-dock sampling presence and providing some on-board observation of charterboats. Oregon and Washington will also be replacing their MRFSS general-population surveys with surveys specific to licensed anglers, and with increased at-dock and at-sea monitoring.

Finally, in addition to commenting on the timeliness of the data used in developing 2004 fishery regulations, the commenter questioned whether overall 2004 harvest levels would need to be adjusted based on 2003 fisheries catch. The purpose of harvest limits is to achieve, “on a continuing basis, the OY from each fishery” (50 CFR 600.310(a).) It is not NMFS' practice to adjust OYs for one year by the overages or underages from previous years. NMFS makes adjustments to OYs after conducting an assessment of the population of a particular species, an assessment that occurs every 2-4 years. (Previously, NMFS had been on a 3-year stock assessment cycle. With the adoption of Amendment 17, the science and management cycle has shifted from annual to biennial management. Under the biennial management cycle, stock assessments will be conducted every 2-4 years. The decisions on which stock assessments to do which year will depend on the status of the stocks, and the availability of data and stock assessment personnel. In the years between assessments, NMFS and the Council address over- and under-harvests by adjusting management measures to try to achieve, but not exceed, OYs (OYs of several of the more abundant stocks will, of necessity, not be achieved in order to protect co-occurring overfished species.) Management measures are adjusted inseason using the best available scientific information. For example, although the 2002-2003 WCGOP data was not available until January 2004, it will be incorporated into the bycatch model for use in management of the 2004 fisheries. Additionally, as 2003 fisheries data are finalized, 2003 management measures will be evaluated for whether they were effective at keeping the fisheries within expected harvest levels for each 2-month management period. Management measures for 2004 will be evaluated and, if necessary, adjusted inseason based in part on the effectiveness of the 2003 management measures. For example, at the March 2004 Council meeting, the GMT will be considering inseason revisions to management measures for 2004 and will be informed, in part, by estimates of effectiveness of management measures for 2003. In this final rule, the preliminary 2003 information has been used to adjust the proposed California recreational fisheries management measures for lingcod, as discussed in the response to Comment 12. This is being done now rather than as an inseason adjustment after consideration by the Council at the March or April Council meeting because NMFS believes that the preliminary data from the 2003 season indicate that stricter management measures will be required to keep harvests within the 2004 OY, and because the magnitude of the necessary changes are such that they should be made as early in the year as possible. A more complete discussion of these changes is found in the response to Comment 12. Changes must also be made in California state regulations for the area between the shore and 3-miles from shore, and making the changes in the Federal rules now provides the opportunity for the California Fish and Game (Commission) to consider these changes at its meeting on March 4 and 5.

Comment 11: The proposed specifications fail to adopt all practicable bycatch reduction measures, particularly failing to adopt individual vessel discard caps. On a related matter, NMFS has failed to establish adequate bycatch assessment requirements for the fishery because there are no bycatch assessment requirements in the proposed specifications.

Response: These fishery specifications and management measures are not the only regulations that affect West Coast groundfish fisheries and vessel discard caps are not the only potential tool for reducing bycatch. In addition, these management measures contain many provisions to reduce discard as described here. In the past several years, NMFS has implemented a variety of bycatch reduction programs. The agency has supported full retention or full utilization EFP programs for the Washington arrowtooth flounder trawl, yellowtail rockfish trawl and longline dogfish fisheries, and for the California flatfish trawl fishery. Shorter-than-year-round fishing seasons have been set for various species and sectors of the groundfish fleet in order to protect different overfished groundfish species. Amendment 14 to the FMP implemented a permit stacking program for the limited entry fixed gear fleet. In 2003, NMFS implemented a buyback of limited entry trawl vessels and their permits, reducing the limited entry groundfish trawl fleet by about one-third. NMFS has implemented gear modification requirements that restrict the use of trawl gear in rockier habitat where many overfished species are found and constrain the catching capacity of recreational fishing gear. Higher groundfish landings limits have been made available for trawl vessels using gear or operating in areas where overfished species are less likely to be taken. Species-to-species landings limit ratios have been thoroughly re-examined in a groundfish bycatch model first introduced in 2002 and modified and used to develop management measures in each intervening year as new observer program data became available. The RCAs first implemented in September 2002 and implemented with this action for 2004 are large time/area closures that affect the entire West Coast and are specifically designed to reduce the incidental catch of overfished groundfish species in fisheries targeting more abundant stocks.

“Discard caps” generally refers to a management tool whereby an entire fishery, or fishing by an individual vessel, is halted when discard quotas for designated species are reached. Administration of such a system requires real-time information on discards as the fishery progresses, either through comprehensive, direct observation by fishery observers, or for a fleetwide discard cap, by a combination of observer and landings data that can be extrapolated to yield a real-time reliable estimate of discards. There is no data collection system in place on which to base a system of discard caps. NMFS has examined discard caps more fully in a Draft Environmental Impact Statement on bycatch management in the West Coast groundfish fisheries, a draft of which was made available to the public on February 27, 2004 (69 FR 9314).

These 2004 fishery specifications and management measures regulate the activities of fishery participants. Bycatch assessment, which is comprised of bycatch monitoring and the modeling of the data derived from bycatch monitoring programs, is the responsibility of NMFS and other government agencies. NMFS has a bycatch monitoring program in place, the WCGOP, and groundfish vessels are required to participate in that program under 50 CFR 660.360. NMFS NWFSC manages that program and models the data derived from the program to estimate bycatch and discard in the groundfish fisheries. See the preamble to the proposed rule for this action for further explanation of the agency's bycatch modeling (January 8, 2004, 69 FR 1380). The regulations implemented by this action are not the only regulations governing the fishery. By not including bycatch assessment requirements in this particular action, NMFS has not failed to assess bycatch. As discussed here, NMFS has already implemented the necessary bycatch monitoring program and is using data from that program to assess bycatch and discard levels and to manage the fishery.

Comment 12: NMFS admits that there were substantial overharvests in the California recreational fisheries in 2003, but has failed to propose any changes to the 2004 management measures that would avoid similar overharvests in 2004. NMFS has failed to conduct an adequate inquiry into whether the 2003 revisions to recreational fisheries management have been sufficient to constrain total mortality for lingcod and other overfished species to the levels necessary in order to avoid further exceeding the fishing harvest levels NMFS has proposed for 2004. It is not appropriate to wait until the April 2004 Council meeting to make revisions to the California recreational fisheries management measures and revisions to the management of those fisheries must be made now.

Response: NMFS agrees that it is necessary to make revisions to the California recreational fisheries management measures as soon as possible. Therefore, NMFS has consulted with CDFG on potential regulatory revisions, and has determined that additional restrictive regulatory measures are needed to protect lingcod. Of the 925 mt of estimated lingcod landings and dead discard in the 2003 recreational fisheries, 681 mt were estimated to have been taken by vessels operating in waters between the Oregon/California border (42° N. lat.) and Point Conception, CA (34°27′ N. lat.). These estimates are taken from RecFIN's MRFSS and estimates for landings in the latter months of 2003 are considered preliminary.

Recreational fisheries tend to be concentrated in waters closer to shore where they are easily accessed by vessels on day trips. Thus, in order to effectively reduce recreational take of lingcod, both State and Federal regulations need to be revised. NMFS discussed with CDFG how to revise both State and Federal regulations to reduce recreational lingcod landings as quickly as possible. Under California State law, State regulations may be changed on an emergency basis to conform to Federal regulations. Thus, NMFS is revising Federal regulations with this final rule, and CDFG is initiating its emergency regulations process to alter recreational fisheries regulations for lingcod inside State waters. State regulatory changes would otherwise take 4-5 months, under the State's notice-and-comment procedures. Under the expedited emergency procedures, these changes could be made by late March 2004.

Under the proposed regulations for recreational groundfish fisheries off California, fishing in both state and Federal waters would have been closed between 40°10′ N. lat. and 34°27′ N. lat. for the months of March and April, but open north of 40°10′ N. lat. to the border with Oregon. Coastwide, the current lingcod size limit is 24 inches (61 cm) and there is a 2-fish bag limit for lingcod. With this final rule, NMFS will revise the recreational lingcod size and bag limits such that on April 1, 2004, the size limit will be increased to 30 inches (77 cm) and the daily bag limit will be decreased to one fish per day. This increase in size limit and reduction in bag limit will apply to recreational fisheries off the entire coast of California, from the Oregon/California border to the California/Mexico border. CDFG has estimated that, given current information about recreational effort off California in recent years, these changes would result in the fisheries taking 291 mt in 2004. This is 55.8 mt less than the 346.8 mt of lingcod that was estimated pre-season to be taken in this fishery in 2004.

NMFS believes that revising the regulations that particularly affect the California recreational fishery is appropriate because these regulatory revisions are specifically aimed at the fishery with the greatest contribution to overall lingcod landings in 2002 and 2003. These changes are needed, in part, to prevent the closure of other recreational and commercial fisheries early in the year to prevent total lingcod catch from exceeding lingcod harvest levels.

The Commission will meet on March 4-5, 2004. At that meeting, CDFG will propose State regulatory revisions to match these new Federal regulations. Once the Commission has approved the changes, CDFG will be able to implement the regulatory revisions within 2-3 weeks. NMFS expects that this issue will be discussed at the upcoming March 8-12, 2004 Council meeting, at which time CDFG may have an expected implementation date. NMFS expects that California will be able to make these changes by the end of March. If for some reason California cannot make the anticipated changes in a timely manner, NMFS will immediately initiate further changes in the groundfish fishery regulations in order to keep the lingcod mortality under the lingcod OY for 2004.

Preliminary 2003 data indicate that lingcod was the only overfished species with its ABC exceeded in 2003. As 2003 fisheries data is finalized and the bycatch model is updated, the Council and NMFS will look at whether further 2004 inseason adjustments need to be made for recreational and commercial fisheries. In addition, CDFG is developing further measures to reduce the pace of both groundfish harvest in general and lingcod harvest in particular in 2004, some of which are dealt with below in Comment 13. The State expects to implement a series of management changes in the spring and summer to provide greater protection for lingcod and other groundfish species, with particular attention to nearshore and shelf rockfish species. NMFS anticipates that, as it has done in the past, CDFG will bring its recommendations to the Council for discussion and adoption as inseason actions during 2004.

Comment 13: The CDFG requests that NMFS consider implementing a recreational and commercial groundfish fisheries closure at Cordell Bank for 2004. The bank habitat supports large populations of many species of rockfish, including canary rockfish. This action is requested to help reduce incidental fisheries landings of canary rockfish and other overfished species, and to be consistent with state groundfish regulations in effect for 2004. Based on data from a 1988-1998 CDFG study of recreational charterboat fishing, the relative catch of overfished rockfish species from the Cordell Bank area was notably higher than for other fishing grounds off central California. Catches of widow, bocaccio, canary, and yelloweye rockfish and lingcod comprised 27 percent of the landings from Cordell Bank, as compared to 15 percent of landings from all other areas. Federal regulations for the Cordell Bank area currently close waters around the bank deeper than 30 fm (55 m). State regulations, however, close recreational fishing within a 5-nautical mile radius around Cordell Bank, located at 38°02′ N. lat., 123°25′ W. long. The combination of current state and Federal regulations currently allows fishing in waters shallower than 30 fm (55 m) in this area of high canary rockfish abundance. We are requesting that NMFS implement Federal regulations similar to state regulations, such that recreational and commercial fishing would be closed at all times for rockfish, lingcod, cabezon, greenlings of the species Hexagrammos, California scorpionfish, California sheephead, and ocean whitefish.

Response: NMFS agrees with this recommendation but notes that immediate implementation of the full scope of CDFG's recommendations may not be practical or possible. The groundfish FMP does not cover California sheephead, ocean whitefish or greenlings of the species Hexagrammos other than kelp greenling (Hexagrammos decagrammus). Fisheries for these species are managed by the State of California, are covered by California regulations, and will not be addressed via Federal regulation.

With this final rule, NMFS will implement this closure for the recreational fisheries only, which have the greater effect on overfished species and which are currently subject to RCA boundaries that do not conflict with the suggested closure. If NMFS were to implement this recommendation for commercial fisheries at this time, the Cordell Bank closure would intersect with several different Trawl RCA and Non-trawl RCA boundaries. These intersections would create a series of confusing closed and open areas such that groundfish fisheries would be entirely closed where the current RCAs and the Cordell Bank closure intersect, but closed only for certain species in waters covered only by the Cordell Bank closure and not by the RCAs. NMFS and CDFG are discussing how to revise the commercial RCA boundaries so that the boundaries for Cordell Bank closure may be incorporated within the RCAs. NMFS expects that these boundary revisions would be discussed at either the March or April Council meetings and implemented through Federal inseason action.

Comment 14: The Council sent a letter of comment to note that, at its November meeting, it had recommended that NMFS implement regulations for non-trawl limited entry vessels that would prohibit those vessels from operating within the non-trawl RCAs except in cases when those vessels are transiting the non-trawl RCAs.

Response: As discussed in the proposed rule for this action, NMFS accepted the Council's recommendation from its November meeting and included the prohibition in its proposed rule to implement the 2004 specifications and management measures. Because this revision was recommended at the November Council meeting, NMFS did not implement the provision via emergency rule for January-February 2004. NMFS agrees with the Council's recommendation and has implemented the provision at 50 CFR 660.306(bb).

Changes From the Proposed Rule

This final rule is revising the Pacific Coast Groundfish Specifications and Management Measures for March-December 2004, which were set forth in the proposed rule published in the Federal Register on January 8, 2004 (69 FR 1380). This final rule includes changes made in a correction document to the Specifications and Management Measures implemented via emergency rule for January-February 2003 (69 FR 4084, January 28, 2004). Changes to the emergency rule included: A clarification that where the phrase “North and South” is used in Table 5 (North), that refers to north and south of 40°10′ N. lat.; a correction in Table 5 (South) that between 40°10′ N. lat. and 34°27′ N. lat., the Trawl RCA is measured from the mainland coast of California, between boundary lines approximating the 75 fm (137 m) and 150 fm (274 m) depth contours; a correction to a typographic error in one of the coordinates for the boundary line approximating the 60-fm (110-m) depth contour around the Channel Islands.

In addition, this final rule makes the changes described above in the responses to Comments 12 and 13. In response to comments from CDFG and the public, NMFS has made the following revisions from the proposed rule to regulations affecting fisheries off California: Closed recreational fisheries off California for rockfish, lingcod, cabezon, kelp greenling, and California scorpionfish within a 5-nm radius around Cordell Bank, located at 38°02′ N. lat., 123°25′ W. long.; clarified that the recreational fisheries closure around the Farallon Islands applies only to fisheries for rockfish, lingcod, cabezon, kelp greenling, and California scorpionfish, rather than to all groundfish; implemented a 1 fish bag limit and a 30 inch (77 cm) size limit beginning April 1, 2004, for recreational lingcod fisheries off California.

Finally, this final rule also makes changes to Federal regulations. In 50 CFR 660.302, Federal regulations provide definitions for different terms used in groundfish regulation and management. For many years, NMFS has also provided definitions of terms in the annual specifications and management measures implementing final rules at section IV.A. In some cases, the definitions provided in the specifications and management measures have been more precise than or have added to the definitions provided at 50 CFR 660.302. This practice is confusing. Thus, NMFS has amended 50 CFR 660.302 to revise the definitions for the terms “Closure,” “Fishery management area,” and “Trip limits,” and has added a definition for “Legal fish” to conform to those provided herein at IV.A. These revisions and additions in no way change the effect of Federal regulations on the groundfish fishery, they simply ensure that the same language is used wherever those definitions are found. These definitions were included in the proposed specifications and management measures and are included here in the management measures, and also at 50 CFR part 660.

The definition for “Trip limit” that has been incorporated into 50 CFR 660.302 is more detailed than the definition for this term previously found in 50 CFR 660.302. Among other things, this definition details specific types of trip limit periods, such as the 2-month “major” cumulative limit periods. Federal regulations at 660.335(e)(3)(i) restrict the frequency of permit transfers such that they are made effective only on the first date of a major cumulative limit period. This final rule also revises that sub-paragraph to clarify the start dates for the major cumulative limit periods as they are defined under 50 CFR 660.302. Again, this is a minor change and in no way alters the effect of Federal groundfish regulations on fishery participants.

At 50 CFR 660.304, coordinates are provided for management areas, including conservation areas. The final rule at 68 FR 62374 (November 4, 2003) inadvertently mis-labeled sub-paragraph § 660.304(c)(2)(ii) as § 660.304(c)(2)(2). This final rule corrects that labeling mistake. Further, that same final rule inadvertently neglected to characterize the Yelloweye Rockfish Conservation (YRCA) as a Groundfish Conservation Area (GCA) and set the YRCA apart from other GCAs in paragraph § 660.304(d). This final rule corrects that mistake by re-designating § 660.304(d) as § 660.304(c)(3).

I. Final Specifications

Final fishery specifications include ABCs, the designation of OYs (which may be represented by harvest guidelines (HGs) or quotas for species that need individual management), and the allocation of commercial OYs between the open access and limited entry segments of the fishery. These specifications include fish caught in State ocean waters (0-3 nautical miles (nm) offshore) as well as fish caught in the EEZ (3-200 nm offshore).

BILLING CODE 3510-22-P

BILLING CODE 3510-22-C

II. Fisheries Allocations

Since 1994, the non-tribal commercial groundfish fishery has been divided into limited entry and open access sectors, each with its own set of allocations and management measures. Species or species group allocations between the two sectors are based on the relative amounts of a species or species group taken by each component of the fishery during the 1984-1988 limited entry permit qualification period (50 CFR 660.332). The FMP allows suspension of this allocation formula for overfished species when changes to the traditional allocation formula are needed to better protect overfished species (FMP, section 5.3.2). Historically, groundfish species and/or species groups have not been allocated between the commercial and recreational fisheries. Fishery managers have instead estimated the amount that would be taken in the recreational fisheries and have set that amount aside before determining the allowable harvest for the non-tribal commercial sectors. Species-specific allocations for 2004, including recreational fishery set asides and research catch deductions from total catch OYs, are provided in the footnotes to Tables 1a and 1b. Following the procedures specified in the FMP, the Regional Administrator calculated the amounts of allocations that are presented in Tables 1a and 1b of this document. Unless otherwise specified, the limited entry and open access allocations would be treated as harvest guidelines in 2004. There may be slight discrepancies from the Council's recommendations due to rounding.

III. 2004 Management Measures

Federal and State Jurisdiction

The management measures herein, as well as Federal regulations at 50 CFR part 660, subpart G, govern groundfish fishing vessels of the United States in the U.S. EEZ from 3-200 nautical miles offshore off the coasts of Washington, Oregon, and California. The States of Washington, Oregon, and California retain jurisdiction in State waters from 0-3 miles offshore. This is true even though boundaries of some fishing areas cross between Federal and State waters. Under their own legal authorities, the States generally conform their State regulations to the Federal management measures, so the management measures that apply to Federal and State waters are the same. This is not true in every case, however, and fishers are advised to consult State as well as Federal regulations if they intend to fish in both State and Federal waters.

Groundfish stocks are distributed throughout Federal and State waters. Therefore, the Federal harvest limits (OYs) include fish taken in both Federal and State waters, as do vessel trip limits for individual groundfish species. Other Federal management measures related to federally-regulated groundfish fishing also apply to landings and other shoreside activities in Washington, Oregon, and California.

Trip Limit Tables and Management Measures

Management measures for limited entry and open access commercial fisheries and recreational fisheries are found in section IV. Boundary line coordinates for RCAs are designated at IV.A.(17). Cumulative trip limits are set into tables, with explanations in section IV. Tables for each fishing sector are separated into northern and southern area tables. The industry is cautioned not to rely on the tables alone. The text in section IV. provides cumulative trip limit definitions and periods, size limit definitions and conversions, and other information that cannot be readily included in a table but must be understood in order to correctly use the tables. The sablefish allocations and nontrawl sablefish management, Pacific whiting allocations and seasons, and “per trip” limits for black rockfish off Washington State are presented in text in paragraphs IV.B. Trip limits for exempted trawl gear in the open access fishery (Table 5 and paragraph IV.C.), recreational management measures (paragraph IV.D.), and tribal allocations and management measures (paragraph V.) still remain in the text.

IV. NMFS Actions

For the reasons stated above, the Assistant Administrator for Fisheries, (AA), NMFS, concurs with the Council's recommendations and announces the following management actions for 2004, including measures that are unchanged from 2003 and new measures. In addition to the measures described herein, the states of Washington, Oregon, and California may have additional regulations that apply to vessels fishing in State waters or registered to any of those States.

A. General Definitions and Provisions

The following definitions and provisions apply to the 2004 management measures, unless otherwise specified in a subsequent Federal Register document:

(1) Trip limits. Trip limits are used in the commercial fishery to specify the maximum amount of a fish species or species group that may legally be taken and retained, possessed, or landed, per vessel, per fishing trip, or cumulatively per unit of time, or the number of landings that may be made from a vessel in a given period of time, as follows:

(a) A per trip limit is the total allowable amount of a groundfish species or species group, by weight, or by percentage of weight of legal fish on board, that may be taken and retained, possessed, or landed per vessel from a single fishing trip.

(b) A daily trip limit is the maximum amount of a groundfish species or species group that may be taken and retained, possessed, or landed per vessel in 24 consecutive hours, starting at 0001 hours local time (l.t.). Only one landing of groundfish may be made in that 24-hour period. Daily trip limits may not be accumulated during multiple day trips.

(c) A weekly trip limit is the maximum amount of a groundfish species or species group that may be taken and retained, possessed, or landed per vessel in 7 consecutive days, starting at 0001 hours l.t. on Sunday and ending at 2400 hours l.t. on Saturday. Weekly trip limits may not be accumulated during multiple week trips. If a calendar week includes days within two different months, a vessel is not entitled to two separate weekly limits during that week.

(d) A cumulative trip limit is the maximum amount of a groundfish species or species group that may be taken and retained, possessed, or landed per vessel in a specified period of time without a limit on the number of landings or trips, unless otherwise specified. The cumulative trip limit periods for limited entry and open access fisheries, which start at 0001 hours l.t. and end at 2400 hours l.t., are as follows, unless otherwise specified:

(i) The 2-month periods are: January 1-February 29, March 1-April 30, May 1-June 30, July 1-August 31, September 1-October 31, and, November 1-December 31.

(ii) One month means the first day through the last day of the calendar month.

(iii) One week means 7 consecutive days, Sunday through Saturday.

(e) As stated at 50 CFR 660.302 (in the definition of “Landing”), once the offloading of any species begins, all fish aboard the vessel are counted as part of the landing and must be reported as such.

(f) The cumulative trip limits in section IV.B. and C., including Tables 3-5 of this proposed rule, must not be exceeded.

(2) Fishing ahead. Unless the fishery is closed, a vessel that has landed its cumulative or daily limit may continue to fish on the limit for the next legal period, so long as no fish (including, but not limited to, groundfish with no trip limits, shrimp, prawns, or other nongroundfish species or shellfish) are landed (offloaded) until the next legal period. As stated at 50 CFR 660.302 (in the definition of “landing”), once the offloading of any species begins, all fish aboard the vessel are counted as part of the landing. Fishing ahead is not allowed during or before a closed period (see paragraph IV.A.(7)). See paragraph IV.A.(9) for information on inseason changes to limits.

(3) Weights. All weights are round weights or round-weight equivalents unless otherwise specified.

(4) Percentages. Percentages are based on round weights, and, unless otherwise specified, apply only to legal fish on board.

(5) Legal fish. “Legal fish” means fish legally taken and retained, possessed, or landed in accordance with the provisions of 50 CFR part 660, the Magnuson-Stevens Act, any document issued under part 660, and any other regulation promulgated or permit issued under the Magnuson-Stevens Act.

(6) Size limits, length measurement, and weight limits.

(a) Size limits and length measurement. Unless otherwise specified, size limits in the commercial and recreational groundfish fisheries apply to the “total length,” which is the longest measurement of the fish without mutilation of the fish or the use of force to extend the length of the fish. No fish with a size limit may be retained if it is in such condition that its length has been extended or cannot be determined by these methods. For conversions not listed here, contact the state where the fish will be landed.

(i) Whole fish. For a whole fish, total length is measured from the tip of the snout (mouth closed) to the tip of the tail in a natural, relaxed position.

(ii) “Headed” fish. For a fish with the head removed (“headed”), the length is measured from the origin of the first dorsal fin (where the front dorsal fin meets the dorsal surface of the body closest to the head) to the tip of the upper lobe of the tail; the dorsal fin and tail must be left intact.

(iii) Filets. A filet is the flesh from one side of a fish extending from the head to the tail, which has been removed from the body (head, tail, and backbone) in a single continuous piece. Filet lengths may be subject to size limits for some groundfish taken in the recreational fishery off California (see paragraph IV. D.). A filet is measured along the length of the longest part of the filet in a relaxed position; stretching or otherwise manipulating the filet to increase its length is not permitted.

(b) Weight limits and conversions. The weight limit conversion factor established by the state where the fish is or will be landed will be used to convert the processed weight to round weight for purposes of applying the trip limit. Weight conversions provided herein are those conversions currently in use by the States of Washington, Oregon and California and may be subject to change by those states. Fishery participants should contact fishery enforcement officials in the State where the fish will be landed to determine that State's official conversion factor. To determine the round weight, multiply the processed weight times the conversion factor.

(c) Sablefish. The following conversion applies to both the limited entry and open access fisheries when trip limits are in effect for those fisheries. For headed and gutted (eviscerated) sablefish, the weight conversion factor is 1.6 for headed and gutted sablefish.

(d) Lingcod. The following conversions apply in both limited entry and open access fisheries.

(i) For lingcod with the head removed, the minimum size limit is 19.5 inches (49.5 cm), which corresponds to 24 inches (61 cm) total length for whole fish.

(ii) The weight conversion factor for headed and gutted lingcod is 1.5. The conversion factor for lingcod that has only been gutted with the head on is 1.1.

(7) Closure. “Closure,” when referring to closure of a fishery, means that taking and retaining, possessing, or landing the particular species or species group is prohibited. (See 50 CFR 660.302.) Unless otherwise announced in the Federal Register, offloading must begin before the time the fishery closes. The provisions at paragraph IV.A.(2) for fishing ahead do not apply during a closed period. It is unlawful to transit through a closed area with any prohibited species on board, no matter where that species was caught, except as provided for in the CCA at IV.A.(17)(b).

(8) Fishery management area. As defined at 50 CFR 660.302, the fishery management area for these species is the EEZ off the coasts of Washington, Oregon, and California between 3 and 200 nm offshore, bounded on the north by the Provisional International Boundary between the United States and Canada, and bounded on the south by the International Boundary between the United States and Mexico. All groundfish possessed between 0-200 nm offshore or landed in Washington, Oregon, or California are presumed to have been taken and retained from the EEZ, unless otherwise demonstrated by the person in possession of those fish.

(9) Routine management measures. Most trip, bag, and size limits, and area closures in the groundfish fishery have been designated “routine,” which means they may be changed rapidly after a single Council meeting (see 50 CFR 660.323(b)). Council meetings in 2004 will be held in the months of March, April, June, September, and November. In-season changes to routine management measures are announced in the Federal Register pursuant to the requirements of the Administrative Procedure Act (APA). Information concerning changes to routine management measures is available from the NMFS Northwest Regional Office (see ADDRESSES). Changes to trip limits are effective at the times stated in the Federal Register. Once a change is effective, it is illegal to take and retain, possess, or land more fish than allowed under the new trip limit. This means that, unless otherwise announced in the Federal Register, offloading must begin before the time a fishery closes or a more restrictive trip limit takes effect.

(10) Limited entry limits. It is unlawful for any person to take and retain, possess, or land groundfish in excess of the landing limit for the open access fishery without having a valid limited entry permit for the vessel affixed with a gear endorsement for the gear used to catch the fish (50 CFR 660.306(p)).

(11) Operating in both limited entry and open access fisheries. The open access trip limit applies to any fishing conducted with open access gear, even if the vessel has a valid limited entry permit with an endorsement for another type of gear. A vessel that operates in both the open access and limited entry fisheries is not entitled to two separate trip limits for the same species. If a vessel has a limited entry permit and uses open access gear, but the open access limit is smaller than the limited entry limit, the open access limit may not be exceeded and counts toward the limited entry limit. If a vessel has a limited entry permit and uses open access gear, but the open access limit is larger than the limited entry limit, the smaller limited entry limit applies, even if taken entirely with open access gear.

(12) Operating in north-south management areas with different trip limits. NMFS uses different types of management areas for West Coast groundfish management. One type of management area is the north-south management area, a large ocean area with northern and southern boundary lines wherein trip limits, seasons, and conservation areas follow a single theme. For example, in the area between the U.S. border with Canada and the 40°10′ N. lat. line, trip limits and conservation areas are generally intended to protect darkblotched and yelloweye rockfish while providing harvesting opportunities for northern flatfish and deepwater species. Within each north-south management area, there may be one or more conservation areas, detailed at IV.A.(17) and at 50 CFR 660.304. The provisions within this paragraph IV.A.(12) apply to vessels operating in different north-south management areas. Trip limits for a species or a species group may differ in different north-south management areas along the coast. The following “crossover” provisions apply to vessels operating in different geographical areas that have different cumulative or “per trip” trip limits for the same species or species group. Such crossover provisions do not apply to species that are subject only to daily trip limits, or to the trip limits for black rockfish off Washington (see 50 CFR 660.323(a)(1)). In 2004, the cumulative trip limit periods for the limited entry and open access fisheries are specified in paragraph IV.A(1)(d), but may be changed during the year if announced in the Federal Register pursuant to the requirements of the APA.

(a) Going from a more restrictive to a more liberal area. If a vessel takes and retains any groundfish species or species group of groundfish in an area where a more restrictive trip limit applies before fishing in an area where a more liberal trip limit (or no trip limit) applies, then that vessel is subject to the more restrictive trip limit for the entire period to which that trip limit applies, no matter where the fish are taken and retained, possessed, or landed.

(b) Going from a more liberal to a more restrictive area. If a vessel takes and retains a groundfish species or species group in an area where a higher trip limit or no trip limit applies, and takes and retains, possesses or lands the same species or species group in an area where a more restrictive trip limit applies, that vessel is subject to the more restrictive trip limit for the entire period to which that trip limit applies, no matter where the fish are taken and retained, possessed, or landed.

(c) Operating in two different areas where a species or species group is managed with different types of trip limits. During the fishing year, NMFS may implement management measures for a species or species group that set different types of trip limits (for example, per trip limits versus cumulative trip limits) for different areas. If a vessel fishes for a species or species group that is managed with different types of trip limits in two different areas within the same cumulative limit period, then that vessel is subject to the most restrictive overall cumulative limit for that species, regardless of where fishing occurs.

(d) Minor rockfish. Several rockfish species are designated with species-specific limits on one side of the 40°10 N. lat. management line, and are included as part of a minor rockfish complex on the other side of the line.

(i) If a vessel takes and retains minor slope rockfish north of 38° N. lat., that vessel is also permitted to take and retain, possess or land splitnose rockfish up to its cumulative limit south of 38° N. lat., even if splitnose rockfish were a part of the landings from minor slope rockfish taken and retained north of 38° N. lat. (Note: A vessel that takes and retains minor slope rockfish on both sides of the management line in a single cumulative limit period is subject to the more restrictive cumulative limit for minor slope rockfish during that period.)

(ii) If a vessel takes and retains minor slope rockfish south of 38° N. lat., that vessel is also permitted to take and retain, possess or land POP up to its cumulative limit north of 38° N. lat., even if POP were a part of the landings from minor slope rockfish taken and retained south of 38° N. lat. (Note: A vessel that takes and retains minor slope rockfish on both sides of the management line in a single cumulative limit period is subject to the more restrictive cumulative limit for minor slope rockfish during that period.)

(iii) If a trawl vessel takes and retains minor shelf rockfish south of 40°10′ N. lat., that vessel is also permitted to take and retain, possess, or land yellowtail rockfish up to its cumulative limits north of 40°10′ N. lat., even if yellowtail rockfish is part of the landings from minor shelf rockfish taken and retained south of 40°10′ N. lat. Yellowtail rockfish is included in overall shelf rockfish limits for limited entry fixed gear and open access gear groups. Widow rockfish is included in overall shelf rockfish limits for all gear groups. (Note: A vessel that takes and retains minor shelf rockfish on both sides of the management line in a single cumulative limit period is subject to the more restrictive cumulative limit for minor shelf rockfish during that period.)

(e) “DTS complex.” There are differential trawl trip limits for the “DTS complex” north and south of the management line at 40°10′ N. lat. Vessels operating in the limited entry trawl fishery are subject to the crossover provisions in this paragraph IV.A.(12) when making landings that include any one of the four species in the “DTS complex.”

(f) Flatfish complex. There are differential trip limits for the flatfish complex (butter, curlfin, English, flathead, petrale, rex, rock, and sand soles, Pacific sanddab, and starry flounder) north and south of the management line at 40°10′ N. lat. Vessels operating in the limited entry trawl fishery are subject to the crossover provisions in this paragraph IV.A.(12) when making landings that include any one of the species in the flatfish complex.

(13) Sorting. It is unlawful for any person to “fail to sort, prior to the first weighing after offloading, those groundfish species or species groups for which there is a trip limit, size limit, quota, or commercial OY, if the vessel fished or landed in an area during a time when such trip limit, size limit, commercial OY, or quota applied.” The States of Washington, Oregon, and California may also require that vessels record their landings as sorted on their state fish tickets. This provision applies to both the limited entry and open access fisheries. (See 50 CFR 660.306(h).) The following species must be sorted in 2004:

(a) For vessels with a limited entry permit:

(i) Coastwide—widow rockfish, canary rockfish, darkblotched rockfish, yelloweye rockfish, shortbelly rockfish, black rockfish, minor nearshore rockfish, minor shelf rockfish, minor slope rockfish, shortspine and longspine thornyhead, Dover sole, arrowtooth flounder, rex sole, petrale sole, arrowtooth flounder, other flatfish, lingcod, sablefish, and Pacific whiting

(Note: Although black rockfish, yelloweye rockfish, and darkblotched rockfish are considered minor rockfish managed under the minor shelf and minor slope rockfish complexes, respectively, they have separate OYs and therefore must be sorted by species.)

(ii) North of 40°10′ N. lat.—POP, yellowtail rockfish, and, for fixed gear, blue rockfish;

(iii) South of 40°10′ N. lat.—minor shallow nearshore rockfish, minor deeper nearshore rockfish, California scorpionfish, chilipepper rockfish, bocaccio rockfish, splitnose rockfish, and Pacific sanddabs.

(b) For open access vessels (vessels without a limited entry permit):

(i) Coastwide—widow rockfish, canary rockfish, darkblotched rockfish, yelloweye rockfish, black rockfish, minor nearshore rockfish, minor shelf rockfish, minor slope rockfish, Dover sole, arrowtooth flounder, petrale sole, rex sole, other flatfish, lingcod, sablefish, Pacific whiting, and Pacific sanddabs;

(ii) North of 40°10′ N. lat.—blue rockfish, POP, yellowtail rockfish;

(iii) South of 40°10′ N. lat.—minor shallow nearshore rockfish, minor deeper nearshore rockfish, chilipepper rockfish, bocaccio rockfish, splitnose rockfish;

(iv) South of Point Conception, CA—thornyheads.

(14) Trawl gear restrictions. Limited entry trip limits may vary depending on the type of trawl gear that is on board a vessel during a fishing trip: large footrope, small footrope, or midwater trawl gear.

(a) Types of trawl gear—Large footrope, small footrope, and midwater or pelagic trawl gears are defined at 50 CFR 660.302 and 660.322(b). Trawl vessels may include: Those vessels registered to a limited entry permit with a trawl endorsement; any vessel using trawl gear, including exempted trawl gear used to take pink shrimp, ridgeback prawns, California halibut, or sea cucumber; or any tribal vessel using trawl gear.

(b) Cumulative trip limits and prohibitions by limited entry trawl gear type—(i) Large footrope trawl. If Table 3 does not provide a large footrope trawl cumulative or trip limit for a particular species or species group, it is unlawful to take and retain, possess or land that species or species group if large footrope gear is on board. It is unlawful for any vessel using large footrope gear to exceed large footrope gear limits for any species or to use large footrope gear to exceed small footrope gear or midwater trawl gear limits for any species. It is unlawful for any vessel using large footrope gear or that has large footrope trawl gear on board to fish for groundfish shoreward of the RCAs defined at paragraph (17) of this section. The presence of rollers or bobbins larger than 8 inches (20 cm) in diameter on board the vessel, even if not attached to a trawl, will be considered to mean a large footrope trawl is on board.

(ii) Small footrope or midwater trawl gear. Cumulative trip limits for canary rockfish, widow rockfish (South of 40°10′ N. lat.,) yellowtail rockfish (North of 40°10′ N. lat.,) minor shelf rockfish (North of 40°10′ N. lat.,) minor nearshore rockfish, and lingcod, as indicated in Table 3 to section IV., are allowed only if small footrope gear or midwater trawl gear is used, and if that gear meets the specifications in paragraph IV.A.(14) and at 50 CFR 660.322. For Dover sole, longspine thornyhead, shortspine thornyhead, flatfish complex species including petrale sole, rex sole, or arrowtooth flounder there are or may be cumulative trip limits that are more restrictive for vessels using small footrope gear than for large footrope gear or midwater gear. These more restrictive limits recognize that small footrope gear may be used inshore of the RCAs and are intended to limit trawl effort in the nearshore area. Where limits are more restrictive for small footrope gear, those limits apply to and constrain any vessel using small footrope gear at any time during the cumulative limit period to which the landings limits apply.

(iii) Midwater trawl gear. North of 40°10′ N. lat., higher yellowtail and widow rockfish cumulative trip limits are available for limited entry vessels using midwater trawl gear in November-December. For the first part of the year, yellowtail and widow rockfish are only available to trawl vessels using midwater trawl gear when those vessels are fishing for Pacific whiting during the primary whiting season. Each landing that contains yellowtail or widow rockfish is attributed to the gear on board with the most restrictive trip limit for those species. Landings attributed to small footrope trawl must not exceed the small footrope limit, and landings attributed to midwater trawl must not exceed the midwater trawl limit. If a vessel has landings attributed to both types of trawls during a cumulative trip limit period, all landings are counted toward the most restrictive gear-specific cumulative limit.

(iv) More than one type of trawl gear on board. The cumulative trip limits in Table 3 must not be exceeded. A vessel may have more than one type of limited entry bottom trawl gear on board, but the most restrictive trip limit associated with the gear on board applies for that trip and will count toward the cumulative trip limit for that gear. (Example: If a vessel has large footrope gear on board, it cannot land yellowtail rockfish, even if the yellowtail rockfish is caught with a small footrope trawl.) A vessel that is trawling within a GCA with trawl gear authorized for use within a GCA may not have any other type of trawl gear on board.

(c) State landing receipts. Washington, Oregon, and California will require the type of trawl gear on board to be recorded on the state landing receipt(s) for each trip or on an attachment to the state landing receipt.

(d) Gear inspection. All trawl gear and trawl gear components, including unattached rollers or bobbins, must be readily accessible and made available for inspection at the request of an authorized officer. No trawl gear may be removed from the vessel prior to offloading. All footropes shall be uncovered and clearly visible except when in use for fishing.

(15) Permit transfers. Limited entry permit transfers are to take effect no earlier than the first day of a major cumulative limit period following the day NMFS receives the transfer form and original permit (50 CFR 660.335(e)(3)). Those days in 2004 are January 1, March 1, May 1, July 1, September 1, and November 1.

(16) Exempted fisheries. U.S. vessels operating under an exempted fishing permit (EFP) issued under 50 CFR part 600 are also subject to these restrictions, unless otherwise provided in the permit. EFPs may include the collecting of scientific samples of groundfish species that would otherwise be prohibited for retention.

(17) Groundfish Conservation Areas. Groundfish Conservation Area (GCA) means a geographic area defined by coordinates expressed in degrees latitude and longitude, created and enforced for the purpose of contributing to the rebuilding of overfished West Coast groundfish species. The Yelloweye Rockfish Conservation Area (YRCA), the Cowcod Conservation Areas (CCAs), and the depth-based Rockfish Conservation Areas (RCAs) are all Groundfish Conservation Areas.

(a) Yelloweye Rockfish Conservation Area. The YRCA is a C-shaped area off the northern Washington coast intended to protect yelloweye rockfish. The specific latitude and longitude coordinates of the YRCA are defined at § 660.304(c)(3). Recreational fishing for groundfish is prohibited within the YRCA. It is unlawful for recreational fishing vessels to take, retain, possess, or land groundfish within the YRCA.

(b) Cowcod Conservation Areas. The CCAs are two areas off the southern California coast intended to protect cowcod. The specific latitude and longitude coordinates of the Cowcod Conservation Areas (CCAs) are defined at § 660.304(c)(2). During January 1-December 31, commercial fishing is prohibited within the CCAs, except that commercial fishing for rockfish and lingcod is permitted shoreward of the 20-fm (37-m) depth contour. In general, during March 1-December 31, recreational fishing for all groundfish, except sanddabs, is prohibited within the CCAs. However, recreational fishing for the following species is permitted shoreward of the 20-fm (37-m) depth contour: the RCG complex (including all rockfish (except cowcod, canary rockfish, and yelloweye rockfish), cabezon, and kelp greenling), lingcod, California scorpionfish, and sanddabs. (Note: California state regulations also permit recreational fishing for all greenlings of the genus Hexogrammas shoreward of the 20-fm (37-m) depth contour in the CCAs.) It is unlawful to take and retain, possess, or land groundfish within the CCAs, except for species stated in this section, when those waters are open to fishing. Commercial fishing vessels may transit through the Western CCA with their gear stowed and groundfish on board only in a corridor through the Western CCA bounded on the north by the latitude line at 33°00′30″ N. lat., and bounded on the south by the latitude line at 32°59′30″ N. lat.

(c) Trawl (Limited Entry and Open Access Exempted Trawl Gears) Rockfish Conservation Area. (i) Trawl RCAs are intended to protect a complex of species, such as overfished shelf rockfish species, and have boundaries defined by specific latitude and longitude coordinates intended to approximate particular depth contours, such as 75 fm (137 m), 150 fm (274 m), and 200 fm (366 m). The trawl RCA is closed coastwide to limited entry groundfish trawl fishing, except for mid-water trawl vessels participating in the primary whiting season. The trawl RCA is also closed coastwide to open access exempted trawl fishing, except for pink shrimp trawling. Fishing with any trawl gear is prohibited within the trawl RCA coastwide, unless that vessel is participating in the primary whiting season with mid-water trawl gear, trawling with midwater gear for yellowtail or widow rockfish when that is permitted, or trawling for pink shrimp. Coastwide, it is unlawful to take and retain, possess, or land any species of fish taken with trawl gear within the trawl RCA, except as permitted for vessels participating in the primary whiting season with mid-water trawl gear or for vessels participating in the pink shrimp trawl fishery. Throughout the year, boundaries for the trawl RCA are provided in Table 3 of section IV.B. and in Table 5 of section IV.C. and may be modified by NMFS inseason pursuant to the requirements of the APA. Trawl RCA boundaries are defined by specific latitude and longitude coordinates and are provided below at paragraph (e) of this section.

(ii) Trawl vessels may transit through the trawl RCA, with or without groundfish on board, provided all groundfish trawl gear is stowed either: (1) Below deck; or (2) if the gear cannot readily be moved, in a secured and covered manner, detached from all towing lines, so that it is rendered unusable for fishing; or (3) remaining on deck uncovered if the trawl doors are hung from their stanchions and the net is disconnected from the doors. These restrictions do not apply to vessels fishing with mid-water trawl gear for Pacific whiting or taking and retaining yellowtail rockfish or widow rockfish in association with Pacific whiting caught with mid-water trawl gear or to taking and retaining yellowtail or widow rockfish with mid-water trawl gear when trip limits are authorized for those species (November-December 2004.)

(iii) If a vessel fishes in the trawl RCA, it may not participate in any fishing on that trip that is prohibited by the restrictions that apply within the trawl RCA. For example, if a vessel participates in the pink shrimp fishery within the RCA, the vessel cannot on the same trip participate in the DTS fishery outside of the RCA. Nothing in these Federal regulations supercede any State regulations that may prohibit trawling shoreward of the 3-nm state waters boundary line.

(d) Non-Trawl (Limited Entry Fixed Gear and Open Access Non-trawl Gears) Rockfish Conservation Area. (i) Non-trawl RCAs are intended to protect a complex of species, such as overfished shelf rockfish species, and have boundaries defined by specific latitude and longitude coordinates intended to approximate particular depth contours, such as 27 fm (49 m), 100 fm (183 m), and 150 fm (274 m). The non-trawl RCA is closed to non-trawl gear (limited entry or open access longline and pot or trap, open access hook-and-line, pot or trap, gillnet, set net, trammel net and spear) fishing for groundfish. Fishing for groundfish with non-trawl gear is prohibited within the non-trawl RCA. It is unlawful to take and retain, possess, or land groundfish taken with non-trawl gear within the non-trawl RCA. Limited entry fixed gear and open access non-trawl gear vessels may transit through the non-trawl RCA, with or without groundfish on board. These restrictions do not apply to vessels fishing for species other than groundfish with non-trawl gear, although non-trawl vessels on a fishing trip for species other than groundfish that occurs within the non-trawl RCA may not retain any groundfish taken on that trip. If a vessel fishes in the non-trawl RCA, it may not participate in any fishing on that trip that is prohibited by the restrictions that apply within the non-trawl RCA. For example, if a vessel participates in the salmon troll fishery within the RCA, the vessel cannot on the same trip participate in the sablefish fishery outside of the RCA. Throughout the year, boundaries for the non-trawl RCA are provided in Table 4 of section IV.B. and in Table 5 of section IV.C. and may be modified by NMFS inseason pursuant to the requirements of the APA. Non-trawl RCA boundaries are defined by specific latitude and longitude coordinates and are provided below at paragraph (e) of this section.

(e) Recreational Rockfish Conservation Area. (i) Recreational RCAs are closed areas intended to protect overfished rockfish species. Recreational RCAs may either have (1) boundaries defined by general depth contours or (2) boundaries defined by specific latitude and longitude coordinates intended to approximate particular depth contours. The recreational RCA is closed to recreational fishing for groundfish. Fishing for groundfish with recreational gear is prohibited within the recreational RCA. It is unlawful to take and retain, possess, or land groundfish taken with recreational gear within the recreational RCA. These restrictions do not apply to recreational vessels fishing for species other than groundfish with recreational gear. If a vessel fishes in the recreational RCA, it may not participate in any fishing on that trip that is prohibited by the restrictions that apply within the recreational RCA. For example, if a vessel participates in the recreational salmon fishery within the RCA, the vessel cannot on the same trip participate in the recreational groundfish fishery shoreward of the RCA. Throughout the year, boundaries for the recreational RCAs are provided in the text in section IV.D. under each State (Washington, Oregon and California) and may be modified by NMFS inseason. Recreational RCA boundaries that are defined by specific latitude and longitude coordinates are provided below at paragraph (f) of this section.

(f) RCA Boundary Coordinates. Specific latitude and longitude coordinates for RCA boundaries that approximate the depth contours selected for both trawl, non-trawl, and recreational RCAs are provided here. Also provided here are references to islands and rocks that serve as reference points for the RCAs.

(i) The 27-fm (49-m) depth contour used between 46°16′ N. lat. and 40°10′ N. lat. is defined by straight lines connecting all of the following points in the order stated:

(1) 46°16.00′ N. lat., 124°12.39′ W. long.;

(2) 46°14.85′ N. lat., 124°12.39′ W. long.;

(3) 46°03.95′ N. lat., 124°03.64′ W. long.;

(4) 45°43.14′ N. lat., 124°00.17′ W. long.;

(5) 45°23.33′ N. lat., 124°01.99′ W. long.;

(6) 45°09.54′ N. lat., 124°01.65′ W. long.;

(7) 44°39.99′ N. lat., 124°08.67′ W. long.;

(8) 44°20.86′ N. lat., 124°10.31′ W. long.;

(9) 43°37.11′ N. lat., 124°14.91′ W. long.;

(10) 43°27.54′ N. lat., 124°18.98′ W. long.;

(11) 43°20.68′ N. lat., 124°25.53′ W. long.;

(12) 43°15.08′ N. lat., 124°27.17′ W. long.;

(13) 43°06.89′ N. lat., 124°29.65′ W. long.;

(14) 43°01.02′ N. lat., 124°29.70′ W. long.;

(15) 42°52.67′ N. lat., 124°36.10′ W. long.;

(16) 42°45.96′ N. lat., 124°37.95′ W. long.;

(17) 42°45.80′ N. lat., 124°35.41′ W. long.;

(18) 42°38.46′ N. lat., 124°27.49′ W. long.;

(19) 42°35.29′ N. lat., 124°26.85′ W. long.;

(20) 42°31.49′ N. lat., 124°31.40′ W. long.;

(21) 42°29.06′ N. lat., 124°32.24′ W. long.;

(22) 42°14.26′ N. lat., 124°26.27′ W. long.;

(23) 42°04.86′ N. lat., 124°21.94′ W. long.;

(24) 42°00.10′ N. lat., 124°20.99′ W. long.;

(25) 42°00.00′ N. lat., 124°21.03′ W. long.;

(26) 41°56.33′ N. lat., 124°20.34′ W. long.;

(27) 41°50.93′ N. lat., 124°23.74′ W. long.;

(28) 41°41.83′ N. lat., 124°16.99′ W. long.;

(29) 41°35.48′ N. lat., 124°16.35′ W. long.;

(30) 41°23.51′ N. lat., 124°10.48′ W. long.;

(31) 41°04.62′ N. lat., 124°14.44′ W. long.;

(32) 40°54.28′ N. lat., 124°13.90′ W. long.;

(33) 40°40.37′ N. lat., 124°26.21′ W. long.;

(34) 40°34.03′ N. lat., 124°27.36′ W. long.;

(35) 40°28.88′ N. lat., 124°32.41′ W. long.;

(36) 40°24.82′ N. lat., 124°29.56′ W. long.;

(37) 40°22.64′ N. lat., 124°24.05′ W. long.;

(38) 40°18.67′ N. lat., 124°21.90′ W. long.;

(39) 40°14.23′ N. lat., 124°23.72′ W. long.; and

(40) 40°10.00′ N. lat., 124°17.22′ W. long.

(ii) The 30-fm (55-m) depth contour between the U.S. border with Canada and the U.S. border with Mexico is defined by straight lines connecting all of the following points in the order stated:

(1) 48°24.79′ N. lat., 124°44.07′ W. long.;

(2) 48°24.80′ N. lat., 124°44.74′ W. long.;

(3) 48°23.94′ N. lat., 124°44.70′ W. long.;

(4) 48°23.51′ N. lat., 124°45.01′ W. long.;

(5) 48°22.59′ N. lat., 124°44.97′ W. long.;

(6) 48°21.75′ N. lat., 124°45.26′ W. long.;

(7) 48°21.23′ N. lat., 124°47.78′ W. long.;

(8) 48°20.32′ N. lat., 124°49.53′ W. long.;

(9) 48°16.72′ N. lat., 124°51.58′ W. long.;

(10) 48°10.48′ N. lat., 124°52.58′ W. long.;

(11) 48°05.63′ N. lat., 124°52.91′ W. long.;

(12) 47°53.37′ N. lat., 124°47.37′ W. long.;

(13) 47°40.28′ N. lat., 124°40.07′ W. long.;

(14) 47°25.67′ N. lat., 124°34.79′ W. long.;

(15) 47°12.82′ N. lat., 124°29.12′ W. long.;

(16) 46°52.94′ N. lat., 124°22.58′ W. long.;

(17) 46°44.18′ N. lat., 124°18.00′ W. long.;

(18) 46°36.33′ N. lat., 124°15.38′ W. long.;

(19) 46°29.53′ N. lat., 124°15.89′ W. long.;

(20) 46°19.27′ N. lat., 124°14.15′ W. long.;

(21) 46°16.00′ N. lat., 124°13.13′ W. long.;

(22) 46°16.00′ N. lat., 124°13.05′ W. long.;

(23) 46°07.00′ N. lat., 124°07.01′ W. long.;

(24) 45°55.95′ N. lat., 124°02.23′ W. long.;

(25) 45°54.53′ N. lat., 124°02.57′ W. long.;

(26) 45°50.65′ N. lat., 124°01.62′ W. long.;

(27) 45°48.20′ N. lat., 124°02.16′ W. long.;

(28) 45°43.47′ N. lat., 124°01.28′ W. long.;

(29) 45°40.48′ N. lat., 124°01.03′ W. long.;

(30) 45°39.04′ N. lat., 124°01.68′ W. long.;

(31) 45°35.48′ N. lat., 124°01.89′ W. long.;

(32) 45°29.81′ N. lat., 124°02.45′ W. long.;

(33) 45°27.96′ N. lat., 124°01.89′ W. long.;

(34) 45°27.22′ N. lat., 124°02.67′ W. long.;

(35) 45°24.20′ N. lat., 124°02.94′ W. long.;

(36) 45°20.60′ N. lat., 124°01.74′ W. long.;

(37) 45°16.44′ N. lat., 124°03.22′ W. long.;

(38) 45°13.63′ N. lat., 124°02.70′ W. long.;

(39) 45°11.04′ N. lat., 124°03.59′ W. long.;

(40) 45°08.55′ N. lat., 124°03.47′ W. long.;

(41) 45°02.82′ N. lat., 124°04.64′ W. long.;

(42) 44°58.06′ N. lat., 124°05.03′ W. long.;

(43) 44°53.97′ N. lat., 124°06.92′ W. long.;

(44) 44°48.89′ N. lat., 124°07.04′ W. long.;

(45) 44°46.94′ N. lat., 124°08.25′ W. long.;

(46) 44°42.72′ N. lat., 124°08.98′ W. long.;

(47) 44°38.16′ N. lat., 124°11.48′ W. long.;

(48) 44°33.38′ N. lat., 124°11.54′ W. long.;

(49) 44°28.51′ N. lat., 124°12.03′ W. long.;

(50) 44°27.65′ N. lat., 124°12.56′ W. long.;

(51) 44°19.67′ N. lat., 124°12.37′ W. long.;

(52) 44°10.79′ N. lat., 124°12.22′ W. long.;

(53) 44°09.22′ N. lat., 124°12.28′ W. long.;

(54) 44°00.22′ N. lat., 124°12.80′ W. long.;

(55) 43°51.56′ N. lat., 124°13.17′ W. long.;

(56) 43°44.26′ N. lat., 124°14.50′ W. long.;

(57) 43°33.82′ N. lat., 124°16.28′ W. long.;

(58) 43°28.66′ N. lat., 124°18.72′ W. long.;

(59) 43°23.12′ N. lat., 124°24.04′ W. long.;

(60) 43°20.49′ N. lat., 124°25.90′ W. long.;

(61) 43°16.41′ N. lat., 124°27.52′ W. long.;

(62) 43°14.23′ N. lat., 124°29.28′ W. long.;

(63) 43°14.03′ N. lat., 124°28.31′ W. long.;

(64) 43°11.92′ N. lat., 124°28.26′ W. long.;

(65) 43°11.02′ N. lat., 124°29.11′ W. long.;

(66) 43°10.13′ N. lat., 124°29.15′ W. long.;

(67) 43°09.27′ N. lat., 124°31.03′ W. long.;

(68) 43°07.73′ N. lat., 124°30.92′ W. long.;

(69) 43°05.93′ N. lat., 124°29.64′ W. long.;

(70) 43°01.59′ N. lat., 124°30.64′ W. long.;

(71) 42°59.73′ N. lat., 124°31.16′ W. long.;

(72) 42°53.75′ N. lat., 124°36.09′ W. long.;

(73) 42°49.37′ N. lat., 124°38.81′ W. long.;

(74) 42°46.42′ N. lat., 124°37.69′ W. long.;

(75) 42°46.07′ N. lat., 124°38.56′ W. long.;

(76) 42°45.29′ N. lat., 124°37.95′ W. long.;

(77) 42°45.61′ N. lat., 124°36.87′ W. long.;

(78) 42°44.28′ N. lat., 124°33.64′ W. long.;

(79) 42°42.75′ N. lat., 124°31.84′ W. long.;

(80) 42°40.04′ N. lat., 124°29.19′ W. long.;

(81) 42°38.09′ N. lat., 124°28.39′ W. long.;

(82) 42°36.72′ N. lat., 124°27.54′ W. long.;

(83) 42°36.56′ N. lat., 124°28.40′ W. long.;

(84) 42°35.76′ N. lat., 124°28.79′ W. long.;

(85) 42°34.03′ N. lat., 124°29.98′ W. long.;

(86) 42°34.19′ N. lat., 124°30.58′ W. long.;

(87) 42°31.27′ N. lat., 124°32.24′ W. long.;

(88) 42°27.07′ N. lat., 124°32.53′ W. long.;

(89) 42°24.21′ N. lat., 124°31.23′ W. long.;

(90) 42°20.47′ N. lat., 124°28.87′ W. long.;

(91) 42°14.60′ N. lat., 124°26.80′ W. long.;

(92) 42°10.90′ N. lat., 124°24.57′ W. long.;

(93) 42°07.04′ N. lat., 124°23.35′ W. long.;

(94) 42°02.16′ N. lat., 124°22.59′ W. long.;

(95) 42°00.00′ N. lat., 124°21.81′ W. long.;

(96) 41°59.95′ N. lat., 124°21.56′ W. long.;

(97) 41°55.75′ N. lat., 124°20.72′ W. long.;

(98) 41°50.93′ N. lat., 124°23.76′ W. long.;

(99) 41°42.53′ N. lat., 124°16.47′ W. long.;

(100) 41°37.20′ N. lat., 124°17.05′ W. long.;

(101) 41°24.58′ N. lat., 124°10.51′ W. long.;

(102) 41°20.73′ N. lat., 124°11.73′ W. long.;

(103) 41°17.59′ N. lat., 124°10.66′ W. long.;

(104) 41°04.54′ N. lat., 124°14.47′ W. long.;

(105) 40°54.26′ N. lat., 124°13.90′ W. long.;

(106) 40°40.31′ N. lat., 124°26.24′ W. long.;

(107) 40°34.00′ N. lat., 124°27.39′ W. long.;

(108) 40°28.89′ N. lat., 124°32.43′ W. long.;

(109) 40°24.77′ N. lat., 124°29.51′ W. long.;

(110) 40°22.47′ N. lat., 124°24.12′ W. long.;

(111) 40°19.73′ N. lat., 124°23.59′ W. long.;

(112) 40°18.64′ N. lat., 124°21.89′ W. long.;

(113) 40°17.67′ N. lat., 124°23.07′ W. long.;

(114) 40°15.58′ N. lat., 124°23.61′ W. long.;

(115) 40°13.42′ N. lat., 124°22.94′ W. long.;

(116) 40°10.00′ N. lat., 124°16.65′ W. long.;

(117) 40°09.46′ N. lat., 124°15.28′ W. long.;

(118) 40°08.89′ N. lat., 124°15.24′ W. long.;

(119) 40°06.40′ N. lat., 124°10.97′ W. long.;

(120) 40°06.08′ N. lat., 124°09.34′ W. long.;

(121) 40°06.64′ N. lat., 124°08.00′ W. long.;

(122) 40°05.08′ N. lat., 124°07.57′ W. long.;

(123) 40°04.29′ N. lat., 124°08.12′ W. long.;

(124) 40°00.61′ N. lat., 124°07.35′ W. long.;

(125) 39°58.60′ N. lat., 124°05.51′ W. long.;

(126) 39°54.89′ N. lat., 124°04.67′ W. long.;

(127) 39°53.01′ N. lat., 124°02.33′ W. long.;

(128) 39°53.20′ N. lat., 123°58.18′ W. long.;

(129) 39°48.45′ N. lat., 123°53.21′ W. long.;

(130) 39°43.89′ N. lat., 123°51.75′ W. long.;

(131) 39°39.60′ N. lat., 123°49.14′ W. long.;

(132) 39°34.43′ N. lat., 123°48.48′ W. long.;

(133) 39°30.63′ N. lat., 123°49.71′ W. long.;

(134) 39°21.25′ N. lat., 123°50.54′ W. long.;

(135) 39°08.87′ N. lat., 123°46.24′ W. long.;

(136) 39°03.79′ N. lat., 123°43.91′ W. long.;

(137) 38°59.65′ N. lat., 123°45.94′ W. long.;

(138) 38°56.80′ N. lat., 123°46.48′ W. long.;

(139) 38°51.16′ N. lat., 123°41.48′ W. long.;

(140) 38°45.77′ N. lat., 123°35.14′ W. long.;

(141) 38°42.21′ N. lat., 123°28.17′ W. long.;

(142) 38°34.05′ N. lat., 123°20.96′ W. long.;

(143) 38°22.47′ N. lat., 123°07.48′ W. long.;

(144) 38°16.52′ N. lat., 123°05.62′ W. long.;

(145) 38°14.42′ N. lat., 123°01.91′ W. long.;

(146) 38°08.24′ N. lat., 122°59.79′ W. long.;

(147) 38°02.69′ N. lat., 123°01.96′ W. long.;

(148) 37°59.73′ N. lat., 123°04.75′ W. long.;

(149) 37°58.41′ N. lat., 123°02.93′ W. long.;

(150) 37°58.25′ N. lat., 122°56.49′ W. long.;

(151) 37°50.30′ N. lat., 122°52.23′ W. long.;

(152) 37°43.36′ N. lat., 123°04.18′ W. long.;

(153) 37°40.77′ N. lat., 123°01.62′ W. long.;

(154) 37°40.13′ N. lat., 122°57.30′ W. long.;

(155) 37°42.59′ N. lat., 122°53.64′ W. long.;

(156) 37°29.62′ N. lat., 122°36.00′ W. long.;

(157) 37°22.38′ N. lat., 122°31.66′ W. long.;

(158) 37°13.86′ N. lat., 122°28.27′ W. long.;

(159) 37°08.01′ N. lat., 122°24.75′ W. long.;

(160) 37°05.84′ N. lat., 122°22.47′ W. long.;

(161) 36°58.77′ N. lat., 122°13.03′ W. long.;

(162) 36°53.74′ N. lat., 122°03.39′ W. long.;

(163) 36°52.71′ N. lat., 122°00.14′ W. long.;

(164) 36°52.51′ N. lat., 121°56.77′ W. long.;

(165) 36°49.44′ N. lat., 121°49.63′ W. long.;

(166) 36°48.01′ N. lat., 121°49.92′ W. long.;

(167) 36°48.25′ N. lat., 121°47.66′ W. long.;

(168) 36°46.26′ N. lat., 121°51.27′ W. long.;

(169) 36°39.14′ N. lat., 121°52.05′ W. long.;

(170) 36°38.00′ N. lat., 121°53.57′ W. long.;

(171) 36°39.14′ N. lat., 121°55.45′ W. long.;

(172) 36°38.50′ N. lat., 121°57.09′ W. long.;

(173) 36°36.75′ N. lat., 121°59.44′ W. long.;

(174) 36°34.97′ N. lat., 121°59.37′ W. long.;

(175) 36°33.07′ N. lat., 121°58.32′ W. long.;

(176) 36°33.27′ N. lat., 121°57.07′ W. long.;

(177) 36°32.68′ N. lat., 121°57.03′ W. long.;

(178) 36°32.04′ N. lat., 121°55.98′ W. long.;

(179) 36°31.61′ N. lat., 121°55.72′ W. long.;

(180) 36°31.59′ N. lat., 121°57.12′ W. long.;

(181) 36°31.52′ N. lat., 121°57.57′ W. long.;

(182) 36°30.88′ N. lat., 121°57.90′ W. long.;

(183) 36°30.25′ N. lat., 121°57.37′ W. long.;

(184) 36°29.47′ N. lat., 121°57.55′ W. long.;

(185) 36°26.72′ N. lat., 121°56.40′ W. long.;

(186) 36°24.33′ N. lat., 121°56.00′ W. long.;

(187) 36°23.36′ N. lat., 121°55.45′ W. long.;

(188) 36°18.86′ N. lat., 121°56.15′ W. long.;

(189) 36°16.21′ N. lat., 121°54.81′ W. long.;

(190) 36°15.30′ N. lat., 121°53.79′ W. long.;

(191) 36°12.04′ N. lat., 121°45.38′ W. long.;

(192) 36°11.87′ N. lat., 121°44.45′ W. long.;

(193) 36°12.13′ N. lat., 121°44.25′ W. long.;

(194) 36°11.89′ N. lat., 121°43.65′ W. long.;

(195) 36°10.56′ N. lat., 121°42.62′ W. long.;

(196) 36°09.90′ N. lat., 121°41.57′ W. long.;

(197) 36°08.14′ N. lat., 121°40.44′ W. long.;

(198) 36°06.69′ N. lat., 121°38.79′ W. long.;

(199) 36°05.85′ N. lat., 121°38.47′ W. long.;

(200) 36°03.08′ N. lat., 121°36.25′ W. long.;

(201) 36°02.92′ N. lat., 121°35.89′ W. long.;

(202) 36°01.53′ N. lat., 121°36.13′ W. long.;

(203) 36°00.59′ N. lat., 121°35.40′ W. long.;

(204) 35°59.93′ N. lat., 121°33.81′ W. long.;

(205) 35°59.69′ N. lat., 121°31.84′ W. long.;

(206) 35°58.59′ N. lat., 121°30.30′ W. long.;

(207) 35°54.02′ N. lat., 121°29.71′ W. long.;

(208) 35°51.54′ N. lat., 121°27.67′ W. long.;

(209) 35°50.42′ N. lat., 121°25.79′ W. long.;

(210) 35°48.37′ N. lat., 121°24.29′ W. long.;

(211) 35°47.02′ N. lat., 121°22.46′ W. long.;

(212) 35°42.28′ N. lat., 121°21.20′ W. long.;

(213) 35°41.57′ N. lat., 121°21.82′ W. long.;

(214) 35°39.24′ N. lat., 121°18.84′ W. long.;

(215) 35°35.14′ N. lat., 121°10.45′ W. long.;

(216) 35°30.11′ N. lat., 121°05.59′ W. long.;

(217) 35°25.86′ N. lat., 121°00.07′ W. long.;

(218) 35°22.82′ N. lat., 120°54.68′ W. long.;

(219) 35°17.96′ N. lat., 120°55.54′ W. long.;

(220) 35°14.83′ N. lat., 120°55.42′ W. long.;

(221) 35°08.87′ N. lat., 120°50.22′ W. long.;

(222) 35°05.55′ N. lat., 120°44.89′ W. long.;

(223) 35°02.91′ N. lat., 120°43.94′ W. long.;

(224) 34°53.80′ N. lat., 120°43.94′ W. long.;

(225) 34°34.89′ N. lat., 120°41.92′ W. long.;

(226) 34°32.48′ N. lat., 120°40.05′ W. long.;

(227) 34°30.12′ N. lat., 120°32.81′ W. long.;

(228) 34°27.00′ N. lat., 120°30.46′ W. long.;

(229) 34°27.00′ N. lat., 120°30.31′ W. long.;

(230) 34°25.84′ N. lat., 120°27.40′ W. long.;

(231) 34°25.16′ N. lat., 120°20.18′ W. long.;

(232) 34°25.88′ N. lat., 120°18.24′ W. long.;

(233) 34°27.26′ N. lat., 120°12.47′ W. long.;

(234) 34°26.27′ N. lat., 120°02.22′ W. long.;

(235) 34°23.41′ N. lat., 119°53.40′ W. long.;

(236) 34°23.33′ N. lat., 119°48.74′ W. long.;

(237) 34°22.31′ N. lat., 119°41.36′ W. long.;

(238) 34°21.72′ N. lat., 119°40.14′ W. long.;

(239) 34°21.25′ N. lat., 119°41.18′ W. long.;

(240) 34°20.25′ N. lat., 119°39.03′ W. long.;

(241) 34°19.87′ N. lat., 119°33.65′ W. long.;

(242) 34°18.67′ N. lat., 119°30.16′ W. long.;

(243) 34°16.95′ N. lat., 119°27.90′ W. long.;

(244) 34°13.02′ N. lat., 119°26.99′ W. long.;

(245) 34°08.62′ N. lat., 119°20.89′ W. long.;

(246) 34°06.95′ N. lat., 119°17.68′ W. long.;

(247) 34°05.93′ N. lat., 119°15.17′ W. long.;

(248) 34°08.42′ N. lat., 119°13.11′ W. long.;

(249) 34°05.23′ N. lat., 119°13.34′ W. long.;

(250) 34°04.98′ N. lat., 119°11.39′ W. long.;

(251) 34°04.55′ N. lat., 119°11.09′ W. long.;

(252) 34°04.15′ N. lat., 119°09.35′ W. long.;

(253) 34°04.89′ N. lat., 119°07.86′ W. long.;

(254) 34°04.08′ N. lat., 119°07.33′ W. long.;

(255) 34°04.10′ N. lat., 119°06.89′ W. long.;

(256) 34°05.08′ N. lat., 119°07.02′ W. long.;

(257) 34°05.27′ N. lat., 119°04.95′ W. long.;

(258) 34°04.51′ N. lat., 119°04.70′ W. long.;

(259) 34°02.26′ N. lat., 118°59.88′ W. long.;

(260) 34°01.08′ N. lat., 118°59.77′ W. long.;

(261) 34°00.94′ N. lat., 118°51.65′ W. long.;

(262) 33°59.77′ N. lat., 118°49.26′ W. long.;

(263) 34°00.04′ N. lat., 118°48.92′ W. long.;

(264) 33°59.65′ N. lat., 118°48.43′ W. long.;

(265) 33°59.46′ N. lat., 118°47.25′ W. long.;

(266) 33°59.80′ N. lat., 118°45.89′ W. long.;

(267) 34°00.21′ N. lat., 118°37.64′ W. long.;

(268) 33°59.26′ N. lat., 118°34.58′ W. long.;

(269) 33°58.07′ N. lat., 118°33.36′ W. long.;

(270) 33°53.76′ N. lat., 118°30.14′ W. long.;

(271) 33°51.00′ N. lat., 118°25.19′ W. long.;

(272) 33°50.07′ N. lat., 118°24.70′ W. long.;

(273) 33°50.16′ N. lat., 118°23.77′ W. long.;

(274) 33°48.80′ N. lat., 118°25.31′ W. long.;

(275) 33°47.07′ N. lat., 118°27.07′ W. long.;

(276) 33°46.12′ N. lat., 118°26.87′ W. long.;

(277) 33°44.15′ N. lat., 118°25.15′ W. long.;

(278) 33°43.54′ N. lat., 118°23.02′ W. long.;

(279) 33°41.35′ N. lat., 118°18.86′ W. long.;

(280) 33°39.96′ N. lat., 118°17.37′ W. long.;

(281) 33°40.12′ N. lat., 118°16.33′ W. long.;

(282) 33°39.28′ N. lat., 118°16.21′ W. long.;

(283) 33°38.04′ N. lat., 118°14.86′ W. long.;

(284) 33°36.57′ N. lat., 118°14.67′ W. long.;

(285) 33°34.93′ N. lat., 118°10.94′ W. long.;

(286) 33°35.14′ N. lat., 118°08.61′ W. long.;

(287) 33°35.69′ N. lat., 118°07.68′ W. long.;

(288) 33°36.21′ N. lat., 118°07.53′ W. long.;

(289) 33°36.43′ N. lat., 118°06.73′ W. long.;

(290) 33°36.05′ N. lat., 118°06.15′ W. long.;

(291) 33°36.32′ N. lat., 118°03.91′ W. long.;

(292) 33°35.69′ N. lat., 118°03.64′ W. long.;

(293) 33°34.62′ N. lat., 118°00.04′ W. long.;

(294) 33°34.80′ N. lat., 117°57.73′ W. long.;

(295) 33°35.57′ N. lat., 117°56.62′ W. long.;

(296) 33°35.46′ N. lat., 117°55.99′ W. long.;

(297) 33°35.98′ N. lat., 117°55.99′ W. long.;

(298) 33°35.46′ N. lat., 117°55.38′ W. long.;

(299) 33°35.21′ N. lat., 117°53.46′ W. long.;

(300) 33°33.61′ N. lat., 117°50.45′ W. long.;

(301) 33°31.41′ N. lat., 117°47.28′ W. long.;

(302) 33°27.54′ N. lat., 117°44.36′ W. long.;

(303) 33°26.63′ N. lat., 117°43.17′ W. long.;

(304) 33°25.21′ N. lat., 117°40.90′ W. long.;

(305) 33°20.33′ N. lat., 117°35.99′ W. long.;

(306) 33°16.35′ N. lat., 117°31.51′ W. long.;

(307) 33°11.53′ N. lat., 117°26.81′ W. long.;

(308) 33°07.59′ N. lat., 117°21.13′ W. long.;

(309) 33°02.21′ N. lat., 117°19.05′ W. long.;

(310) 32°56.55′ N. lat., 117°17.70′ W. long.;

(311) 32°54.61′ N. lat., 117°16.60′ W. long.;

(312) 32°52.32′ N. lat., 117°15.97′ W. long.;

(313) 32°51.48′ N. lat., 117°16.15′ W. long.;

(314) 32°51.85′ N. lat., 117°17.26′ W. long.;

(315) 32°51.55′ N. lat., 117°19.01′ W. long.;

(316) 32°49.55′ N. lat., 117°19.63′ W. long.;

(317) 32°46.71′ N. lat., 117°18.32′ W. long.;

(318) 32°36.35′ N. lat., 117°15.68′ W. long.; and

(319) 32°32.85′ N. lat., 117°15.44′ W. long.

(A) The 30-fm (55-m) depth contour around the Farallon Islands off the State of California is defined by straight lines connecting all of the following points in the order stated:

(1) 37°46.73′ N. lat., 123°6.37′ W. long.;

(2) 37°45.79′ N. lat., 123°07.91′ W. long.;

(3) 37°45.28′ N. lat., 123°07.75′ W. long.;

(4) 37°44.98′ N. lat., 123°07.11′ W. long.;

(5) 37°45.51′ N. lat., 123°06.26′ W. long.;

(6) 37°45.14′ N. lat., 123°05.41′ W. long.;

(7) 37°45.31′ N. lat., 123°04.82′ W. long.;

(8) 37°46.11′ N. lat., 123°05.23′ W. long.;

(9) 37°46.44′ N. lat., 123°05.63′ W. long.; and

(10) 37°46.73′ N. lat., 123°06.37′ W. long.

(B) The 30-fm (55-m) depth contour around Noon Day Rock off the State of California is defined by straight lines connecting all of the following points in the order stated:

(1) 37°47.83′ N. lat., 123°10.83′ W. long.;

(2) 37°47.51′ N. lat., 123°11.19′ W. long.;

(3) 37°47.33′ N. lat., 123°10.68′ W. long.;

(4) 37°47.02′ N. lat., 123°10.59′ W. long.;

(5) 37°47.21′ N. lat., 123°09.85′ W. long.;

(6) 37°47.56′ N. lat., 123°09.72′ W. long.;

(7) 37°47.87′ N. lat., 123°10.26′ W. long.; and

(8) 37°47.83′ N. lat., 123°10.83′ W. long.

(C) The 30-fm (55-m) depth contour around the northern Channel Islands off the State of California is defined by straight lines connecting all of the following points in the order stated:

(1) 34°01.41′ N. lat., 119°20.61′ W. long.;

(2) 34°00.98′ N. lat., 119°20.46′ W. long.;

(3) 34°00.53′ N. lat., 119°20.98′ W. long.;

(4) 34°00.17′ N. lat., 119°21.83′ W. long.;

(5) 33°59.65′ N. lat., 119°24.45′ W. long.;

(6) 33°59.68′ N. lat., 119°25.20′ W. long.;

(7) 33°59.95′ N. lat., 119°26.25′ W. long.;

(8) 33°59.87′ N. lat., 119°27.27′ W. long.;

(9) 33°59.55′ N. lat., 119°28.02′ W. long.;

(10) 33°58.63′ N. lat., 119°36.48′ W. long.;

(11) 33°57.62′ N. lat., 119°41.13′ W. long.;

(12) 33°57.00′ N. lat., 119°42.20′ W. long.;

(13) 33°56.93′ N. lat., 119°48.00′ W. long.;

(14) 33°57.70′ N. lat., 119°48.00′ W. long.;

(between coordinates (14) and (15), the boundary follows the shoreline)

(15) 33°58.00′ N. lat., 119°51.00′ W. long.;

(16) 33°58.00′ N. lat., 119°52.00′ W. long.;

(17) 33°58.54′ N. lat., 119°52.80′ W. long.;

(18) 33°59.74′ N. lat., 119°54.19′ W. long.;

(19) 33°59.97′ N. lat., 119°54.66′ W. long.;

(20) 33°59.83′ N. lat., 119°56.00′ W. long.;

(21) 33°59.18′ N. lat., 119°57.17′ W. long.;

(22) 33°57.83′ N. lat., 119°56.74′ W. long.;

(23) 33°55.71′ N. lat., 119°56.89′ W. long.;

(24) 33°53.89′ N. lat., 119°57.68′ W. long.;

(25) 33°52.93′ N. lat., 119°59.80′ W. long.;

(26) 33°52.79′ N. lat., 120°01.81′ W. long.;

(27) 33°52.51′ N. lat., 120°03.08′ W. long.;

(28) 33°53.12′ N. lat., 120°04.88′ W. long.;

(29) 33°53.12′ N. lat., 120°05.80′ W. long.;

(30) 33°52.94′ N. lat., 120°06.50′ W. long.;

(31) 33°53.80′ N. lat., 120°06.50′ W. long.;

(between coordinates (31) and (32), the boundary follows the shoreline)

(32) 33°55.00′ N. lat., 120°10.00′ W. long.;

(33) 33°54.03′ N. lat., 120°10.00′ W. long.;

(34) 33°54.58′ N. lat., 120°11.82′ W. long.;

(35) 33°57.08′ N. lat., 120°14.58′ W. long.;

(36) 33°59.50′ N. lat., 120°16.72′ W. long.;

(37) 33°59.63′ N. lat., 120°17.88′ W. long.;

(38) 34°00.30′ N. lat., 120°19.14′ W. long.;

(39) 34°00.02′ N. lat., 120°19.68′ W. long.;

(40) 34°00.08′ N. lat., 120°21.73′ W. long.;

(41) 34°00.94′ N. lat., 120°24.82′ W. long.;

(42) 34°00.97′ N. lat., 120°25.30′ W. long.;

(43) 34°01.50′ N. lat., 120°25.30′ W. long.;

(between coordinates (43) and (44), the boundary follows the shoreline)

(44) 34°01.80′ N. lat., 120°26.60′ W. long.;

(45) 34°01.05′ N. lat., 120°26.60′ W. long.;

(46) 34°01.11′ N. lat., 120°27.43′ W. long.;

(47) 34°00.96′ N. lat., 120°28.09′ W. long.;

(48) 34°01.56′ N. lat., 120°28.71′ W. long.;

(49) 34°01.80′ N. lat., 120°28.31′ W. long.;

(50) 34°03.60′ N. lat., 120°28.87′ W. long.;

(51) 34°03.60′ N. lat., 120°28.20′ W. long.;

(52) 34°05.35′ N. lat., 120°28.20′ W. long.;

(53) 34°05.30′ N. lat., 120°27.33′ W. long.;

(54) 34°05.65′ N. lat., 120°26.79′ W. long.;

(55) 34°05.69′ N. lat., 120°25.82′ W. long.;

(56) 34°07.24′ N. lat., 120°24.98′ W. long.;

(57) 34°06.00′ N. lat., 120°23.30′ W. long.;

(58) 34°03.10′ N. lat., 120°23.30′ W. long.;

(between coordinates (58) and (59), the boundary follows the shoreline)

(59) 34°03.50′ N. lat., 120°21.30′ W. long.;

(60) 34°02.90′ N. lat., 120°20.20′ W. long.;

(between coordinates (60) and (61), the boundary follows the shoreline)

(61) 34°01.80′ N. lat., 120°18.40′ W. long.;

(62) 34°03.61′ N. lat., 120°18.40′ W. long.;

(63) 34°03.25′ N. lat., 120°16.64′ W. long.;

(64) 34°04.33′ N. lat., 120°14.22′ W. long.;

(65) 34°04.11′ N. lat., 120°11.17′ W. long.;

(66) 34°03.72′ N. lat., 120°09.93′ W. long.;

(67) 34°03.81′ N. lat., 120°08.96′ W. long.;

(68) 34°03.36′ N. lat., 120°06.52′ W. long.;

(69) 34°04.80′ N. lat., 120°04.00′ W. long.;

(70) 34°04.00′ N. lat., 120°04.00′ W. long.;

(71) 34°04.00′ N. lat., 120°05.20′ W. long.;

(72) 34°01.30′ N. lat., 120°05.20′ W. long.;

(between coordinates (72) and (73), the boundary follows the shoreline)

(73) 34°00.50′ N. lat., 120°02.80′ W. long.;

(74) 34°00.49′ N. lat., 120°01.01′ W. long.;

(75) 34°04.00′ N. lat., 120°01.00′ W. long.;

(76) 34°03.99′ N. lat., 120°00.15′ W. long.;

(77) 34°03.51′ N. lat., 119°59.42′ W. long.;

(78) 34°03.79′ N. lat., 119°58.15′ W. long.;

(79) 34°04.72′ N. lat., 119°57.61′ W. long.;

(80) 34°05.14′ N. lat., 119°55.17′ W. long.;

(81) 34°04.85′ N. lat., 119°53.00′ W. long.;

(82) 34°04.50′ N. lat., 119°53.00′ W. long.;

(between coordinates (82) and (83), the boundary follows the shoreline)

(83) 34°04.00′ N. lat., 119°51.00′ W. long.;

(84) 34°04.49′ N. lat., 119°51.01′ W. long.;

(85) 34°03.79′ N. lat., 119°48.86′ W. long.;

(86) 34°03.79′ N. lat., 119°45.46′ W. long.;

(87) 34°03.27′ N. lat., 119°44.17′ W. long.;

(88) 34°03.29′ N. lat., 119°43.30′ W. long.;

(89) 34°01.71′ N. lat., 119°40.83′ W. long.;

(90) 34°01.74′ N. lat., 119°37.92′ W. long.;

(91) 34°02.07′ N. lat., 119°37.17′ W. long.;

(92) 34°02.93′ N. lat., 119°36.52′ W. long.;

(93) 34°03.48′ N. lat., 119°35.50′ W. long.;

(94) 34°02.94′ N. lat., 119°35.50′ W. long.;

(between coordinates (94) and (95), the boundary follows the shoreline)

(95) 34°02.80′ N. lat., 119°32.80′ W. long.;

(96) 34°03.56′ N. lat., 119°32.80′ W. long.;

(97) 34°02.72′ N. lat., 119°31.84′ W. long.;

(98) 34°02.20′ N. lat., 119°30.53′ W. long.;

(99) 34°01.49′ N. lat., 119°30.20′ W. long.;

(100) 34°00.66′ N. lat., 119°28.62′ W. long.;

(101) 34°00.66′ N. lat., 119°27.57′ W. long.;

(102) 34°01.40′ N. lat., 119°26.94′ W. long.;

(103) 34°01.35′ N. lat., 119°26.70′ W. long.;

(104) 34°00.80′ N. lat., 119°26.70′ W. long.;

(between coordinates (104) and (105), the boundary follows the shoreline)

(105) 34°00.40′ N. lat., 119°24.60′ W. long.;

(between coordinates (105) and (106), the boundary follows the shoreline)

(106) 34°01.00′ N. lat., 119°21.40′ W. long.;

(107) 34°01.49′ N. lat., 119°21.40′ W. long.; and

(108) 34°01.41′ N. lat., 119°20.61′ W. long.

(D) The 30-fm (55-m) depth contour around San Clemente Island off the State of California is defined by straight lines connecting all of the following points in the order stated:

(1) 33°03.37′ N. lat., 118°37.76′ W. long.;

(2) 33°02.72′ N. lat., 118°38.12′ W. long.;

(3) 33°02.18′ N. lat., 118°37.46′ W. long.;

(4) 33°00.66′ N. lat., 118°37.36′ W. long.;

(5) 33°00.08′ N. lat., 118°36.94′ W. long.;

(6) 33°00.11′ N. lat., 118°36.00′ W. long.;

(7) 32°58.02′ N. lat., 118°35.41′ W. long.;

(8) 32°56.00′ N. lat., 118°33.59′ W. long.;

(9) 32°54.76′ N. lat., 118°33.58′ W. long.;

(10) 32°53.97′ N. lat., 118°32.45′ W. long.;

(11) 32°51.18′ N. lat., 118°30.83′ W. long.;

(12) 32°50.00′ N. lat., 118°29.68′ W. long.;

(13) 32°49.72′ N. lat., 118°28.33′ W. long.;

(14) 32°47.88′ N. lat., 118°26.90′ W. long.;

(15) 32°47.30′ N. lat., 118°25.73′ W. long.;

(16) 32°47.28′ N. lat., 118°24.83′ W. long.;

(17) 32°48.12′ N. lat., 118°24.33′ W. long.;

(18) 32°48.74′ N. lat., 118°23.39′ W. long.;

(19) 32°48.69′ N. lat., 118°21.75′ W. long.;

(20) 32°49.06′ N. lat., 118°20.53′ W. long.;

(21) 32°50.28′ N. lat., 118°21.90′ W. long.;

(22) 32°51.73′ N. lat., 118°23.86′ W. long.;

(23) 32°52.79′ N. lat., 118°25.08′ W. long.;

(24) 32°54.03′ N. lat., 118°26.83′ W. long.;

(25) 32°54.70′ N. lat., 118°27.55′ W. long.;

(26) 32°55.49′ N. lat., 118°29.04′ W. long.;

(27) 32°59.58′ N. lat., 118°32.51′ W. long.;

(28) 32°59.89′ N. lat., 118°32.52′ W. long.;

(29) 33°00.29′ N. lat., 118°32.73′ W. long.;

(30) 33°00.85′ N. lat., 118°33.50′ W. long.;

(31) 33°01.70′ N. lat., 118°33.64′ W. long.;

(32) 33°02.90′ N. lat., 118°35.35′ W. long.;

(33) 33°02.61′ N. lat., 118°36.96′ W. long.; and

(34) 33°03.37′ N. lat., 118°37.76′ W. long.

(E) The 300-fm (55-m) depth contour around Santa Catalina Island off the State of California is defined by straight lines connecting all of the following points in the order stated:

(1) 33°19.13′ N. lat., 118°18.04′ W. long.;

(2) 33°18.32′ N. lat., 118°18.20′ W. long.;

(3) 33°17.82′ N. lat., 118°18.73′ W. long.;

(4) 33°17.54′ N. lat., 118°19.52′ W. long.;

(5) 33°17.99′ N. lat., 118°21.71′ W. long.;

(6) 33°18.48′ N. lat., 118°22.82′ W. long.;

(7) 33°18.77′ N. lat., 118°26.95′ W. long.;

(8) 33°19.69′ N. lat., 118°28.87′ W. long.;

(9) 33°20.53′ N. lat., 118°30.52′ W. long.;

(10) 33°20.46′ N. lat., 118°31.47′ W. long.;

(11) 33°20.98′ N. lat., 118°31.39′ W. long.;

(12) 33°20.81′ N. lat., 118°30.49′ W. long.;

(13) 33°21.38′ N. lat., 118°30.07′ W. long.;

(14) 33°23.12′ N. lat., 118°29.31′ W. long.;

(15) 33°24.95′ N. lat., 118°29.70′ W. long.;

(16) 33°25.39′ N. lat., 118°30.50′ W. long.;

(17) 33°25.21′ N. lat., 118°30.79′ W. long.;

(18) 33°25.65′ N. lat., 118°31.60′ W. long.;

(19) 33°25.65′ N. lat., 118°32.04′ W. long.;

(20) 33°25.94′ N. lat., 118°32.96′ W. long.;

(21) 33°25.86′ N. lat., 118°33.49′ W. long.;

(22) 33°26.06′ N. lat., 118°34.12′ W. long.;

(23) 33°28.28′ N. lat., 118°36.60′ W. long.;

(24) 33°28.83′ N. lat., 118°36.42′ W. long.;

(25) 33°28.72′ N. lat., 118°34.93′ W. long.;

(26) 33°28.71′ N. lat., 118°33.61′ W. long.;

(27) 33°28.81′ N. lat., 118°32.95′ W. long.;

(28) 33°28.73′ N. lat., 118°32.07′ W. long.;

(29) 33°27.55′ N. lat., 118°30.14′ W. long.;

(30) 33°27.86′ N. lat., 118°29.41′ W. long.;

(31) 33°26.98′ N. lat., 118°29.06′ W. long.;

(32) 33°26.96′ N. lat., 118°28.58′ W. long.;

(33) 33°26.76′ N. lat., 118°28.40′ W. long.;

(34) 33°26.52′ N. lat., 118°27.66′ W. long.;

(35) 33°26.31′ N. lat., 118°27.41′ W. long.;

(36) 33°25.09′ N. lat., 118°23.13′ W. long.;

(37) 33°24.80′ N. lat., 118°22.86′ W. long.;

(38) 33°24.60′ N. lat., 118°22.02′ W. long.;

(39) 33°22.82′ N. lat., 118°21.04′ W. long.;

(40) 33°20.23′ N. lat., 118°18.45′ W. long.; and

(41) 33°19.13′ N. lat., 118°18.04′ W. long.

(iii) The 40-fm (73-m) depth contour between 46°16′ N. lat. and 42°00′ N. lat. is defined by straight lines connecting all of the following points in the order stated:

(1) 46°16.00′ N. lat., 124°16.10′ N. lat.;

(2) 46°15.29′ N. lat., 124°15.60′ N. lat.;

(3) 46°11.90′ N. lat., 124°13.59′ N. lat.;

(4) 46°06.93′ N. lat., 124°10.15′ N. lat.;

(5) 46°05.33′ N. lat., 124°08.30′ N. lat.;

(6) 45°58.69′ N. lat., 124°05.60′ N. lat.;

(7) 45°57.71′ N. lat., 124°05.82′ N. lat.;

(8) 45°53.97′ N. lat., 124°05.04′ N. lat.;

(9) 45°49.75′ N. lat., 124°05.14′ N. lat.;

(10) 45°47.88′ N. lat., 124°05.16′ N. lat.;

(11) 45°47.07′ N. lat., 124°04.21′ N. lat.;

(12) 45°44.34′ N. lat., 124°05.09′ N. lat.;

(13) 45°40.64′ N. lat., 124°04.90′ N. lat.;

(14) 45°33.00′ N. lat., 124°04.46′ N. lat.;

(15) 45°32.27′ N. lat., 124°04.74′ N. lat.;

(16) 45°29.26′ N. lat., 124°04.22′ N. lat.;

(17) 45°19.99′ N. lat., 124°04.62′ N. lat.;

(18) 45°17.50′ N. lat., 124°04.91′ N. lat.;

(19) 45°11.29′ N. lat., 124°05.19′ N. lat.;

(20) 45°05.79′ N. lat., 124°05.40′ N. lat.;

(21) 45°05.07′ N. lat., 124°05.93′ N. lat.;

(22) 45°01.70′ N. lat., 124°06.53′ N. lat.;

(23) 44°58.75′ N. lat., 124°07.14′ N. lat.;

(24) 44°51.28′ N. lat., 124°10.21′ N. lat.;

(25) 44°49.49′ N. lat., 124°10.89′ N. lat.;

(26) 44°44.96′ N. lat., 124°14.39′ N. lat.;

(27) 44°43.44′ N. lat., 124°14.78′ N. lat.;

(28) 44°42.27′ N. lat., 124°13.81′ N. lat.;

(29) 44°41.68′ N. lat., 124°15.38′ N. lat.;

(30) 44°34.87′ N. lat., 124°15.80′ N. lat.;

(31) 44°33.74′ N. lat., 124°14.43′ N. lat.;

(32) 44°27.66′ N. lat., 124°16.99′ N. lat.;

(33) 44°19.13′ N. lat., 124°19.22′ N. lat.;

(34) 44°15.35′ N. lat., 124°17.37′ N. lat.;

(35) 44°14.38′ N. lat., 124°17.78′ N. lat.;

(36) 44°12.80′ N. lat., 124°17.18′ N. lat.;

(37) 44°09.23′ N. lat., 124°15.96′ N. lat.;

(38) 44°08.38′ N. lat., 124°16.80′ N. lat.;

(39) 44°01.18′ N. lat., 124°15.42′ N. lat.;

(40) 43°51.60′ N. lat., 124°14.68′ N. lat.;

(41) 43°42.66′ N. lat., 124°15.46′ N. lat.;

(42) 43°40.49′ N. lat., 124°15.74′ N. lat.;

(43) 43°38.77′ N. lat., 124°15.64′ N. lat.;

(44) 43°34.52′ N. lat., 124°16.73′ N. lat.;

(45) 43°28.82′ N. lat., 124°19.52′ N. lat.;

(46) 43°23.91′ N. lat., 124°24.28′ N. lat.;

(47) 43°17.96′ N. lat., 124°28.81′ N. lat.;

(48) 43°16.75′ N. lat., 124°28.42′ N. lat.;

(49) 43°13.98′ N. lat., 124°31.99′ N. lat.;

(50) 43°13.71′ N. lat., 124°33.25′ N. lat.;

(51) 43°12.26′ N. lat., 124°34.16′ N. lat.;

(52) 43°10.96′ N. lat., 124°32.34′ N. lat.;

(53) 43°05.65′ N. lat., 124°31.52′ N. lat.;

(54) 42°59.66′ N. lat., 124°32.58′ N. lat.;

(55) 42°54.97′ N. lat., 124°36.99′ N. lat.;

(56) 42°53.81′ N. lat., 124°38.58′ N. lat.;

(57) 42°49.14′ N. lat., 124°39.92′ N. lat.;

(58) 42°46.47′ N. lat., 124°38.65′ N. lat.;

(59) 42°45.60′ N. lat., 124°39.04′ N. lat.;

(60) 42°44.79′ N. lat., 124°37.96′ N. lat.;

(61) 42°45.00′ N. lat., 124°36.39′ N. lat.;

(62) 42°44.14′ N. lat., 124°35.16′ N. lat.;

(63) 42°42.15′ N. lat., 124°32.82′ N. lat.;

(64) 42°38.82′ N. lat., 124°31.09′ N. lat.;

(65) 42°35.91′ N. lat., 124°31.02′ N. lat.;

(66) 42°31.34′ N. lat., 124°34.84′ N. lat.;

(67) 42°28.13′ N. lat., 124°34.83′ N. lat.;

(68) 42°26.73′ N. lat., 124°35.58′ N. lat.;

(69) 42°23.85′ N. lat., 124°34.05′ N. lat.;

(70) 42°21.68′ N. lat., 124°30.64′ N. lat.;

(71) 42°19.62′ N. lat., 124°29.02′ N. lat.;

(72) 42°15.01′ N. lat., 124°27.72′ N. lat.;

(73) 42°11.38′ N. lat., 124°25.62′ N. lat.;

(74) 42°04.66′ N. lat., 124°24.39′ N. lat.; and

(75) 42°00.00′ N. lat., 124°23.55′ N. lat.

(iv) The 50-fm (91-m) depth contour between the U.S. border with Canada and the Swiftsure Bank is defined by straight lines connecting all of the following points in the order stated:

(1) 48°30.15 ′ N. lat., 124°56.12′ N. lat.;

(2) 48°28.29′ N. lat., 124°56.30′ W. long.;

(3) 48°29.23′ N. lat., 124°53.63′ W. long.; and

(4) 48°30.31′ N. lat., 124°51.73′ W. long.

(A) The 50-fm (91-m) depth contour between the U.S. border with Canada and the U.S. border with Mexico is defined by straight lines connecting all of the following points in the order stated:

(1) 48°22.15′ N. lat., 124°43.15′ W. long.;

(2) 48°22.15′ N. lat., 124°49.10′ W. long.;

(3) 48°20.03′ N. lat., 124°51.18′ W. long.;

(4) 48°16.61′ N. lat., 124°53.72′ W. long.;

(5) 48°14.68′ N. lat., 124°54.50′ W. long.;

(6) 48°12.02′ N. lat., 124°55.29′ W. long.;

(7) 48°03.14′ N. lat., 124°57.02′ W. long.;

(8) 47°56.05′ N. lat., 124°55.60′ W. long.;

(9) 47°52.58′ N. lat., 124°54.00′ W. long.;

(10) 47°50.18′ N. lat., 124°52.36′ W. long.;

(11) 47°45.34′ N. lat., 124°51.07′ W. long.;

(12) 47°40.96′ N. lat., 124°48.84′ W. long.;

(13) 47°34.59′ N. lat., 124°46.24′ W. long.;

(14) 47°27.86′ N. lat., 124°42.12′ W. long.;

(15) 47°22.34′ N. lat., 124°39.43′ W. long.;

(16) 47°17.66′ N. lat., 124°38.75′ W. long.;

(17) 47°06.25′ N. lat., 124°39.74′ W. long.;

(18) 47°00.43′ N. lat., 124°38.01′ W. long.;

(19) 46°52.00′ N. lat., 124°32.44′ W. long.;

(20) 46°35.41′ N. lat., 124°25.51′ W. long.;

(21) 46°25.43′ N. lat., 124°23.46′ W. long.;

(22) 46°16.00′ N. lat., 124°16.90′ W. long.;

(23) 45°50.88′ N. lat., 124°09.68′ W. long.;

(24) 45°12.99′ N. lat., 124°06.71′ W. long.;

(25) 44°52.48′ N. lat., 124°11.22′ W. long.;

(26) 44°42.41′ N. lat., 124°19.70′ W. long.;

(27) 44°38.80′ N. lat., 124°26.58′ W. long.;

(28) 44°24.99′ N. lat., 124°31.22′ W. long.;

(29) 44°18.11′ N. lat., 124°43.74′ W. long.;

(30) 44°15.23′ N. lat., 124°40.47′ W. long.;

(31) 44°18.80′ N. lat., 124°35.48′ W. long.;

(32) 44°19.62′ N. lat., 124°27.18′ W. long.;

(33) 43°56.65′ N. lat., 124°16.86′ W. long.;

(34) 43°34.95′ N. lat., 124°17.47′ W. long.;

(35) 43°12.60′ N. lat., 124°35.80′ W. long.;

(36) 43°08.96′ N. lat., 124°33.77′ W. long.;

(37) 42°59.66′ N. lat., 124°34.79′ W. long.;

(38) 42°54.29′ N. lat., 124°39.46′ W. long.;

(39) 42°46.50′ N. lat., 124°39.99′ W. long.;

(40) 42°41.00′ N. lat., 124°34.92′ W. long.;

(41) 42°36.29′ N. lat., 124°34.70′ W. long.;

(42) 42°28.36′ N. lat., 124°37.90′ W. long.;

(43) 42°25.53′ N. lat., 124°37.68′ W. long.;

(44) 42°18.64′ N. lat., 124°29.47′ W. long.;

(45) 42°12.95′ N. lat., 124°27.34′ W. long.;

(46) 42°03.04′ N. lat., 124°25.81′ W. long.;

(47) 42°00.00′ N. lat., 124°26.21′ W. long.;

(48) 41°57.60′ N. lat., 124°27.35′ W. long.;

(49) 41°52.53′ N. lat., 124°26.51′ W. long.;

(50) 41°50.17′ N. lat., 124°25.63′ W. long.;

(51) 41°46.01′ N. lat., 124°22.16′ W. long.;

(52) 41°26.50′ N. lat., 124°21.78′ W. long.;

(53) 41°15.66′ N. lat., 124°16.42′ W. long.;

(54) 41°05.45′ N. lat., 124°16.89′ W. long.;

(55) 40°54.55′ N. lat., 124°19.53′ W. long.;

(56) 40°42.22′ N. lat., 124°28.29′ W. long.;

(57) 40°39.68′ N. lat., 124°28.37′ W. long.;

(58) 40°36.76′ N. lat., 124°27.39′ W. long.;

(59) 40°34.44′ N. lat., 124°28.89′ W. long.;

(60) 40°32.57′ N. lat., 124°32.43′ W. long.;

(61) 40°30.95′ N. lat., 124°33.87′ W. long.;

(62) 40°28.90′ N. lat., 124°34.59′ W. long.;

(63) 40°24.36′ N. lat., 124°31.42′ W. long.;

(64) 40°23.66′ N. lat., 124°28.35′ W. long.;

(65) 40°22.54′ N. lat., 124°24.71′ W. long.;

(66) 40°21.52′ N. lat., 124°24.86′ W. long.;

(67) 40°21.25′ N. lat., 124°25.59′ W. long.;

(68) 40°20.63′ N. lat., 124°26.47′ W. long.;

(69) 40°19.18′ N. lat., 124°25.98′ W. long.;

(70) 40°18.42′ N. lat., 124°24.77′ W. long.;

(71) 40°18.64′ N. lat., 124°22.81′ W. long.;

(72) 40°15.31′ N. lat., 124°25.28′ W. long.;

(73) 40°15.37′ N. lat., 124°26.82′ W. long.;

(74) 40°11.91′ N. lat., 124°22.68′ W. long.;

(75) 40°10.01′ N. lat., 124°19.97′ W. long.;

(76) 40°10.00′ N. lat., 124°19.97′ W. long.;

(77) 40°09.20′ N. lat., 124°15.81′ W. long.;

(78) 40°07.51′ N. lat., 124°15.29′ W. long.;

(79) 40°05.22′ N. lat., 124°10.06′ W. long.;

(80) 40°06.51′ N. lat., 124°08.01′ W. long.;

(81) 40°00.72′ N. lat., 124°08.45′ W. long.;

(82) 39°56.60′ N. lat., 124°07.12′ W. long.;

(83) 39°52.58′ N. lat., 124°03.57′ W. long.;

(84) 39°50.65′ N. lat., 123°57.98′ W. long.;

(85) 39°40.16′ N. lat., 123°52.41′ W. long.;

(86) 39°30.12′ N. lat., 123°52.92′ W. long.;

(87) 39°24.53′ N. lat., 123°55.16′ W. long.;

(88) 39°11.58′ N. lat., 123°50.93′ W. long.;

(89) 38°55.13′ N. lat., 123°51.14′ W. long.;

(90) 38°28.58′ N. lat., 123°22.84′ W. long.;

(91) 38°14.60′ N. lat., 123°09.92′ W. long.;

(92) 38°01.84′ N. lat., 123°09.75′ W. long.;

(93) 37°59.56′ N. lat., 123°09.25′ W. long.;

(94) 37°55.24′ N. lat., 123°08.30′ W. long.;

(95) 37°52.06′ N. lat., 123°09.19′ W. long.;

(96) 37°50.21′ N. lat., 123°14.90′ W. long.;

(97) 37°35.67′ N. lat., 122°55.43′ W. long.;

(98) 37°03.06′ N. lat., 122°24.22′ W. long.;

(99) 36°50.20′ N. lat., 122°03.58′ W. long.;

(100) 36°51.46′ N. lat., 121°57.54′ W. long.;

(101) 36°44.14′ N. lat., 121°58.10′ W. long.;

(102) 36°36.76′ N. lat., 122°01.16′ W. long.;

(103) 36°15.62′ N. lat., 121°57.13′ W. long.;

(104) 36°10.41′ N. lat., 121°42.92′ W. long.;

(105) 36°02.56′ N. lat., 121°36.37′ W. long.;

(106) 36°01.04′ N. lat., 121°36.47′ W. long.;

(107) 35°58.26′ N. lat., 121°32.88′ W. long.;

(108) 35°40.38′ N. lat., 121°22.59′ W. long.;

(109) 35°24.35′ N. lat., 121°02.53′ W. long.;

(110) 35°02.66′ N. lat., 120°51.63′ W. long.;

(111) 34°39.52′ N. lat., 120°48.72′ W. long.;

(112) 34°31.26′ N. lat., 120°44.12′ W. long.;

(113) 34°27.00′ N. lat., 120°33.31′ W. long.;

(114) 34°23.47′ N. lat., 120°24.76′ W. long.;

(115) 34°25.83′ N. lat., 120°17.26′ W. long.;

(116) 34°24.65′ N. lat., 120°04.83′ W. long.;

(117) 34°23.18′ N. lat., 119°56.18′ W. long.;

(118) 34°19.20′ N. lat., 119°41.64′ W. long.;

(119) 34°16.82′ N. lat., 119°35.32′ W. long.;

(120) 34°13.43′ N. lat., 119°32.29′ W. long.;

(121) 34°05.39′ N. lat., 119°15.13′ W. long.;

(122) 34°08.22′ N. lat., 119°13.64′ W. long.;

(123) 34°07.64′ N. lat., 119°13.10′ W. long.;

(124) 34°04.56′ N. lat., 119°13.73′ W. long.;

(125) 34°03.90′ N. lat., 119°12.66′ W. long.;

(126) 34°03.66′ N. lat., 119°06.82′ W. long.;

(127) 34°04.58′ N. lat., 119°04.91′ W. long.;

(128) 34°01.35′ N. lat., 119°00.30′ W. long.;

(129) 34°00.24′ N. lat., 119°03.18′ W. long.;

(130) 33°59.63′ N. lat., 119°03.20′ W. long.;

(131) 33°59.54′ N. lat., 119°00.88′ W. long.;

(132) 34°00.82′ N. lat., 118°59.03′ W. long.;

(133) 33°59.11′ N. lat., 118°47.52′ W. long.;

(134) 33°59.07′ N. lat., 118°36.33′ W. long.;

(135) 33°55.06′ N. lat., 118°32.86′ W. long.;

(136) 33°53.56′ N. lat., 118°37.75′ W. long.;

(137) 33°51.22′ N. lat., 118°36.14′ W. long.;

(138) 33°50.48′ N. lat., 118°32.16′ W. long.;

(139) 33°51.86′ N. lat., 118°28.71′ W. long.;

(140) 33°50.09′ N. lat., 118°27.88′ W. long.;

(141) 33°49.95′ N. lat., 118°26.38′ W. long.;

(142) 33°50.73′ N. lat., 118°26.17′ W. long.;

(143) 33°49.86′ N. lat., 118°24.25′ W. long.;

(144) 33°48.10′ N. lat., 118°26.87′ W. long.;

(145) 33°47.54′ N. lat., 118°29.66′ W. long.;

(146) 33°44.10′ N. lat., 118°25.25′ W. long.;

(147) 33°41.78′ N. lat., 118°20.28′ W. long.;

(148) 33°38.18′ N. lat., 118°15.69′ W. long.;

(149) 33°37.50′ N. lat., 118°16.71′ W. long.;

(150) 33°35.98′ N. lat., 118°16.54′ W. long.;

(151) 33°34.15′ N. lat., 118°11.22′ W. long.;

(152) 33°34.29′ N. lat., 118°08.35′ W. long.;

(153) 33°35.85′ N. lat., 118°07.00′ W. long.;

(154) 33°36.12′ N. lat., 118°04.15′ W. long.;

(155) 33°34.97′ N. lat., 118°02.91′ W. long.;

(156) 33°34.00′ N. lat., 117°59.53′ W. long.;

(157) 33°35.44′ N. lat., 117°55.67′ W. long.;

(158) 33°35.15′ N. lat., 117°53.55′ W. long.;

(159) 33°31.12′ N. lat., 117°47.40′ W. long.;

(160) 33°27.99′ N. lat., 117°45.19′ W. long.;

(161) 33°26.88′ N. lat., 117°43.87′ W. long.;

(162) 33°25.44′ N. lat., 117°41.63′ W. long.;

(163) 33°19.50′ N. lat., 117°36.08′ W. long.;

(164) 33°12.74′ N. lat., 117°28.53′ W. long.;

(165) 33°10.29′ N. lat., 117°25.68′ W. long.;

(166) 33°07.36′ N. lat., 117°21.23′ W. long.;

(167) 32°59.39′ N. lat., 117°18.56′ W. long.;

(168) 32°56.10′ N. lat., 117°18.37′ W. long.;

(169) 32°54.43′ N. lat., 117°16.93′ W. long.;

(170) 32°51.89′ N. lat., 117°16.42′ W. long.;

(171) 32°52.24′ N. lat., 117°19.36′ W. long.;

(172) 32°47.06′ N. lat., 117°21.92′ W. long.;

(173) 32°45.09′ N. lat., 117°20.68′ W. long.;

(174) 32°43.62′ N. lat., 117°18.68′ W. long.; and

(175) 32°33.43′ N. lat., 117°17.00′ W. long.

(B) The 50-fm (91-m) depth contour around the northern Channel Islands off the State of California is defined by straight lines connecting all of the following points in the order stated:

(1) 34°08.40′ N. lat., 120°33.78′ W. long.;

(2) 34°08.40′ N. lat., 120°28.20′ W. long.;

(3) 34°08.68′ N. lat., 120°26.61′ W. long.;

(4) 34°05.85′ N. lat., 120°17.13′ W. long.;

(5) 34°05.57′ N. lat., 119°51.35′ W. long.;

(6) 34°07.08′ N. lat., 119°52.43′ W. long.;

(7) 34°04.42′ N. lat., 119°35.35′ W. long.;

(8) 34°06.20′ N. lat., 119°35.35′ W. long.;

(9) 34°06.20′ N. lat., 119°32.80′ W. long.;

(10) 34°04.73′ N. lat., 119°32.77′ W. long.;

(11) 34°03.56′ N. lat., 119°26.70′ W. long.;

(12) 34°04.00′ N. lat., 119°26.70′ W. long.;

(13) 34°04.00′ N. lat., 119°21.40′ W. long.;

(14) 34°02.57′ N. lat., 119°21.40′ W. long.;

(15) 34°02.02′ N. lat., 119°19.18′ W. long.;

(16) 34°01.03′ N. lat., 119°19.50′ W. long.;

(17) 33°59.45′ N. lat., 119°22.38′ W. long.;

(18) 33°58.68′ N. lat., 119°32.36′ W. long.;

(19) 33°56.43′ N. lat., 119°41.13′ W. long.;

(20) 33°56.09′ N. lat., 119°48.00′ W. long.;

(21) 33°55.20′ N. lat., 119°48.00′ W. long.;

(22) 33°55.20′ N. lat., 119°53.00′ W. long.;

(23) 33°58.00′ N. lat., 119°53.00′ W. long.;

(24) 33°59.32′ N. lat., 119°55.59′ W. long.;

(25) 33°57.52′ N. lat., 119°55.19′ W. long.;

(26) 33°56.26′ N. lat., 119°54.29′ W. long.;

(27) 33°54.30′ N. lat., 119°54.83′ W. long.;

(28) 33°50.97′ N. lat., 119°57.03′ W. long.;

(29) 33°50.03′ N. lat., 120°03.00′ W. long.;

(30) 33°51.06′ N. lat., 120°03.23′ W. long.;

(31) 33°52.35′ N. lat., 120°06.51′ W. long.;

(32) 33°51.37′ N. lat., 120°06.48′ W. long.;

(33) 33°51.37′ N. lat., 120°09.99′ W. long.;

(34) 33°53.50′ N. lat., 120°10.08′ W. long.;

(35) 33°54.49′ N. lat., 120°12.85′ W. long.;

(36) 33°58.48′ N. lat., 120°18.50′ W. long.;

(37) 34°00.06′ N. lat., 120°25.30′ W. long.;

(38) 33°58.50′ N. lat., 120°25.30′ W. long.;

(39) 33°58.50′ N. lat., 120°26.60′ W. long.;

(40) 34°00.34′ N. lat., 120°26.60′ W. long.;

(41) 34°00.71′ N. lat., 120°28.21′ W. long.;

(42) 34°03.60′ N. lat., 120°30.60′ W. long.;

(43) 34°03.60′ N. lat., 120°34.20′ W. long.;

(44) 34°06.96′ N. lat., 120°34.22′ W. long.;

(45) 34°08.01′ N. lat., 120°35.24′ W. long.; and

(46) 34°08.40′ N. lat., 120°33.78′ W. long.

(C) The 50-fm (91-m) depth contour around San Clemente Island off the State of California is defined by straight lines connecting all of the following points in the order stated:

(1) 33°03.73′ N. lat., 118°36.98′ W. long.;

(2) 33°02.56′ N. lat., 118°34.12′ W. long.;

(3) 32°55.54′ N. lat., 118°28.87′ W. long.;

(4) 32°55.02′ N. lat., 118°27.69′ W. long.;

(5) 32°49.73′ N. lat., 118°20.99′ W. long.;

(6) 32°48.55′ N. lat., 118°20.24′ W. long.;

(7) 32°47.92′ N. lat., 118°22.45′ W. long.;

(8) 32°45.25′ N. lat., 118°24.59′ W. long.;

(9) 32°50.23′ N. lat., 118°30.80′ W. long.;

(10) 32°55.28′ N. lat., 118°33.83′ W. long.;

(11) 33°00.45′ N. lat., 118°37.88′ W. long.;

(12) 33°03.27′ N. lat., 118°38.56′ W. long.; and

(13) 33°03.73′ N. lat., 118°36.98′ W. long.

(D) The 50-fm (91-m) depth contour around Santa Catalina Island off the State of California is defined by straight lines connecting all of the following points in the order stated:

(1) 33°28.01′ N. lat., 118°37.42′ W. long.;

(2) 33°29.02′ N. lat., 118°36.33′ W. long.;

(3) 33°28.97′ N. lat., 118°33.16′ W. long.;

(4) 33°28.71′ N. lat., 118°31.22′ W. long.;

(5) 33°26.66′ N. lat., 118°27.48′ W. long.;

(6) 33°25.35′ N. lat., 118°22.83′ W. long.;

(7) 33°22.61′ N. lat., 118°19.18′ W. long.;

(8) 33°20.06′ N. lat., 118°17.35′ W. long.;

(9) 33°17.58′ N. lat., 118°17.42′ W. long.;

(10) 33°17.05′ N. lat., 118°18.72′ W. long.;

(11) 33°17.87′ N. lat., 118°24.47′ W. long.;

(12) 33°18.63′ N. lat., 118°28.16′ W. long.;

(13) 33°20.17′ N. lat., 118°31.69′ W. long.;

(14) 33°20.85′ N. lat., 118°31.82′ W. long.;

(15) 33°23.19′ N. lat., 118°29.78′ W. long.;

(16) 33°24.85′ N. lat., 118°31.22′ W. long.;

(17) 33°25.65′ N. lat., 118°34.11′ W. long.; and

(18) 33°28.01′ N. lat., 118°37.42′ W. long.

(v) The 60-fm (110-m) depth contour used between the U.S. border with Canada and the U.S. border with Mexico is defined by straight lines connecting all of the following points in the order stated:

(1) 48°26.70′ N. lat., 125°09.43′ W. long.;

(2) 48°23.76′ N. lat., 125°06.77′ W. long.;

(3) 48°23.01′ N. lat., 125°03.48′ W. long.;

(4) 48°22.42′ N. lat., 124°57.84′ W. long.;

(5) 48°22.62′ N. lat., 124°48.97′ W. long.;

(6) 48°18.61′ N. lat., 124°52.52′ W. long.;

(7) 48°16.62′ N. lat., 124°54.03′ W. long.;

(8) 48°15.39′ N. lat., 124°54.79′ W. long.;

(9) 48°13.81′ N. lat., 124°55.45′ W. long.;

(10) 48°10.51′ N. lat., 124°56.56′ W. long.;

(11) 48°06.90′ N. lat., 124°57.72′ W. long.;

(12) 48°02.23′ N. lat., 125°00.20′ W. long.;

(13) 48°00.87′ N. lat., 125°00.37′ W. long.;

(14) 47°56.30′ N. lat., 124°59.51′ W. long.;

(15) 47°46.84′ N. lat., 124°57.34′ W. long.;

(16) 47°36.49′ N. lat., 124°50.93′ W. long.;

(17) 47°32.01′ N. lat., 124°48.45′ W. long.;

(18) 47°27.19′ N. lat., 124°46.47′ W. long.;

(19) 47°21.76′ N. lat., 124°43.29′ W. long.;

(20) 47°17.82′ N. lat., 124°42.12′ W. long.;

(21) 47°08.87′ N. lat., 124°43.10′ W. long.;

(22) 47°03.16′ N. lat., 124°42.61′ W. long.;

(23) 46°49.70′ N. lat., 124°36.80′ W. long.;

(24) 46°42.91′ N. lat., 124°33.20′ W. long.;

(25) 46°39.67′ N. lat., 124°30.59′ W. long.;

(26) 46°32.47′ N. lat., 124°26.34′ W. long.;

(27) 46°23.69′ N. lat., 124°25.41′ W. long.;

(28) 46°20.84′ N. lat., 124°24.24′ W. long.;

(29) 46°16.00′ N. lat., 124°19.10′ W. long.;

(30) 46°15.97′ N. lat., 124°18.81′ W. long.;

(31) 46°11.23′ N. lat., 124°19.96′ W. long.;

(32) 46°02.51′ N. lat., 124°19.84′ W. long.;

(33) 45°59.05′ N. lat., 124°16.52′ W. long.;

(34) 45°51.00′ N. lat., 124°12.83′ W. long.;

(35) 45°45.85′ N. lat., 124°11.54′ W. long.;

(36) 45°38.53′ N. lat., 124°11.91′ W. long.;

(37) 45°30.90′ N. lat., 124°10.94′ W. long.;

(38) 45°21.20′ N. lat., 124°09.12′ W. long.;

(39) 45°12.43′ N. lat., 124°08.74′ W. long.;

(40) 44°59.89′ N. lat., 124°11.95′ W. long.;

(41) 44°51.96′ N. lat., 124°15.15′ W. long.;

(42) 44°44.64′ N. lat., 124°20.07′ W. long.;

(43) 44°39.24′ N. lat., 124°28.09′ W. long.;

(44) 44°30.61′ N. lat., 124°31.66′ W. long.;

(45) 44°26.19′ N. lat., 124°35.88′ W. long.;

(46) 44°18.88′ N. lat., 124°45.16′ W. long.;

(47) 44°14.69′ N. lat., 124°45.51′ W. long.;

(48) 44°10.97′ N. lat., 124°38.78′ W. long.;

(49) 44°08.71′ N. lat., 124°33.54′ W. long.;

(50) 44°04.92′ N. lat., 124°24.55′ W. long.;

(51) 43°57.49′ N. lat., 124°20.05′ W. long.;

(52) 43°50.26′ N. lat., 124°21.84′ W. long.;

(53) 43°41.69′ N. lat., 124°21.94′ W. long.;

(54) 43°35.52′ N. lat., 124°21.51′ W. long.;

(55) 43°25.77′ N. lat., 124°28.47′ W. long.;

(56) 43°20.25′ N. lat., 124°31.59′ W. long.;

(57) 43°12.73′ N. lat., 124°36.69′ W. long.;

(58) 43°08.08′ N. lat., 124°36.10′ W. long.;

(59) 43°00.33′ N. lat., 124°37.57′ W. long.;

(60) 42°53.99′ N. lat., 124°41.04′ W. long.;

(61) 42°46.66′ N. lat., 124°41.13′ W. long.;

(62) 42°41.74′ N. lat., 124°37.46′ W. long.;

(63) 42°37.42′ N. lat., 124°37.22′ W. long.;

(64) 42°27.35′ N. lat., 124°39.90′ W. long.;

(65) 42°23.94′ N. lat., 124°38.28′ W. long.;

(66) 42°17.72′ N. lat., 124°31.10′ W. long.;

(67) 42°10.35′ N. lat., 124°29.11′ W. long.;

(68) 42°00.00′ N. lat., 124°28.00′ W. long.;

(69) 42°00.00′ N. lat., 124°29.61′ W. long.;

(70) 41°54.87′ N. lat., 124°28.50′ W. long.;

(71) 41°45.80′ N. lat., 124°23.89′ W. long.;

(72) 41°34.40′ N. lat., 124°24.03′ W. long.;

(73) 41°28.33′ N. lat., 124°25.46′ W. long.;

(74) 41°15.80′ N. lat., 124°18.90′ W. long.;

(75) 41°09.77′ N. lat., 124°17.99′ W. long.;

(76) 41°02.26′ N. lat., 124°18.71′ W. long.;

(77) 40°53.54′ N. lat., 124°21.18′ W. long.;

(78) 40°49.93′ N. lat., 124°23.02′ W. long.;

(79) 40°43.15′ N. lat., 124°28.74′ W. long.;

(80) 40°40.19′ N. lat., 124°29.07′ W. long.;

(81) 40°36.77′ N. lat., 124°27.61′ W. long.;

(82) 40°34.13′ N. lat., 124°29.39′ W. long.;

(83) 40°33.15′ N. lat., 124°33.46′ W. long.;

(84) 40°29.57′ N. lat., 124°35.84′ W. long.;

(85) 40°24.72′ N. lat., 124°33.06′ W. long.;

(86) 40°23.91′ N. lat., 124°31.28′ W. long.;

(87) 40°23.67′ N. lat., 124°28.35′ W. long.;

(88) 40°22.53′ N. lat., 124°24.72′ W. long.;

(89) 40°21.51′ N. lat., 124°24.86′ W. long.;

(90) 40°21.02′ N. lat., 124°27.70′ W. long.;

(91) 40°19.75′ N. lat., 124°27.06′ W. long.;

(92) 40°18.23′ N. lat., 124°25.30′ W. long.;

(93) 40°18.60′ N. lat., 124°22.86′ W. long.;

(94) 40°15.43′ N. lat., 124°25.37′ W. long.;

(95) 40°15.55′ N. lat., 124°28.16′ W. long.;

(96) 40°11.27′ N. lat., 124°22.56′ W. long.;

(97) 40°10.00′ N. lat., 124°19.97′ W. long.;

(98) 40°09.20′ N. lat., 124°15.81′ W. long.;

(99) 40°07.51′ N. lat., 124°15.29′ W. long.;

(100) 40°05.22′ N. lat., 124°10.06′ W. long.;

(101) 40°06.51′ N. lat., 124°08.01′ W. long.;

(102) 40°00.72′ N. lat., 124°08.45′ W. long.;

(103) 39°56.60′ N. lat., 124°07.12′ W. long.;

(104) 39°52.58′ N. lat., 124°03.57′ W. long.;

(105) 39°50.65′ N. lat., 123°57.98′ W. long.;

(106) 39°40.16′ N. lat., 123°52.41′ W. long.;

(107) 39°30.12′ N. lat., 123°52.92′ W. long.;

(108) 39°24.53′ N. lat., 123°55.16′ W. long.;

(109) 39°11.58′ N. lat., 123°50.93′ W. long.;

(110) 38°55.13′ N. lat., 123°51.14′ W. long.;

(111) 38°28.58′ N. lat., 123°22.84′ W. long.;

(112) 38°08.57′ N. lat., 123°14.74′ W. long.;

(113) 38°00.00′ N. lat., 123°15.61′ W. long.;

(114) 37°56.98′ N. lat., 123°21.82′ W. long.;

(115) 37°48.01′ N. lat., 123°15.90′ W. long.;

(116) 37°36.73′ N. lat., 122°58.48′ W. long.;

(117) 37°07.58′ N. lat., 122°37.64′ W. long.;

(118) 37°02.08′ N. lat., 122°25.49′ W. long.;

(119) 36°48.20′ N. lat., 122°03.32′ W. long.;

(120) 36°51.46′ N. lat., 121°57.54′ W. long.;

(121) 36°44.14′ N. lat., 121°58.10′ W. long.;

(122) 36°36.76′ N. lat., 122°01.16′ W. long.;

(123) 36°15.62′ N. lat., 121°57.13′ W. long.;

(124) 36°10.42′ N. lat., 121°42.90′ W. long.;

(125) 36°02.55′ N. lat., 121°36.35′ W. long.;

(126) 36°01.04′ N. lat., 121°36.47′ W. long.;

(127) 35°58.25′ N. lat., 121°32.88′ W. long.;

(128) 35°40.38′ N. lat., 121°22.59′ W. long.;

(129) 35°24.35′ N. lat., 121°02.53′ W. long.;

(130) 35°02.66′ N. lat., 120°51.63′ W. long.;

(131) 34°39.52′ N. lat., 120°48.72′ W. long.;

(132) 34°31.26′ N. lat., 120°44.12′ W. long.;

(133) 34°27.00′ N. lat., 120°36.00′ W. long.;

(134) 34°23.00′ N. lat., 120°25.32′ W. long.;

(135) 34°25.68′ N. lat., 120°17.46′ W. long.;

(136) 34°23.18′ N. lat., 119°56.17′ W. long.;

(137) 34°18.73′ N. lat., 119°41.89′ W. long.;

(138) 34°11.18′ N. lat., 119°31.21′ W. long.;

(139) 34°10.01′ N. lat., 119°25.84′ W. long.;

(140) 34°03.88′ N. lat., 119°12.46′ W. long.;

(141) 34°03.58′ N. lat., 119°06.71′ W. long.;

(142) 34°04.52′ N. lat., 119°04.89′ W. long.;

(143) 34°01.28′ N. lat., 119°00.27′ W. long.;

(144) 34°00.20′ N. lat., 119°03.18′ W. long.;

(145) 33°59.60′ N. lat., 119°03.14′ W. long.;

(146) 33°59.45′ N. lat., 119°00.87′ W. long.;

(147) 34°00.71′ N. lat., 118°59.07′ W. long.;

(148) 33°59.05′ N. lat., 118°47.34′ W. long.;

(149) 33°59.06′ N. lat., 118°36.30′ W. long.;

(150) 33°55.05′ N. lat., 118°32.85′ W. long.;

(151) 33°53.56′ N. lat., 118°37.73′ W. long.;

(152) 33°51.22′ N. lat., 118°36.13′ W. long.;

(153) 33°50.19′ N. lat., 118°32.19′ W. long.;

(154) 33°51.28′ N. lat., 118°29.12′ W. long.;

(155) 33°49.89′ N. lat., 118°28.04′ W. long.;

(156) 33°49.95′ N. lat., 118°26.38′ W. long.;

(157) 33°50.73′ N. lat., 118°26.16′ W. long.;

(158) 33°49.87′ N. lat., 118°24.37′ W. long.;

(159) 33°47.54′ N. lat., 118°29.65′ W. long.;

(160) 33°44.10′ N. lat., 118°25.25′ W. long.;

(161) 33°41.77′ N. lat., 118°20.32′ W. long.;

(162) 33°38.17′ N. lat., 118°15.69′ W. long.;

(163) 33°37.48′ N. lat., 118°16.72′ W. long.;

(164) 33°35.98′ N. lat., 118°16.54′ W. long.;

(165) 33°34.15′ N. lat., 118°11.22′ W. long.;

(166) 33°34.09′ N. lat., 118°08.15′ W. long.;

(167) 33°35.73′ N. lat., 118°05.01′ W. long.;

(168) 33°33.75′ N. lat., 117°59.82′ W. long.;

(169) 33°35.44′ N. lat., 117°55.65′ W. long.;

(170) 33°35.15′ N. lat., 117°53.54′ W. long.;

(171) 33°31.12′ N. lat., 117°47.39′ W. long.;

(172) 33°27.49′ N. lat., 117°44.85′ W. long.;

(173) 33°16.42′ N. lat., 117°32.92′ W. long.;

(174) 33°06.66′ N. lat., 117°21.59′ W. long.;

(175) 33°00.08′ N. lat., 117°19.02′ W. long.;

(176) 32°56.11′ N. lat., 117°18.41′ W. long.;

(177) 32°54.43′ N. lat., 117°16.93′ W. long.;

(178) 32°51.89′ N. lat., 117°16.42′ W. long.;

(179) 32°52.61′ N. lat., 117°19.50′ W. long.;

(180) 32°46.96′ N. lat., 117°22.69′ W. long.;

(181) 32°44.98′ N. lat., 117°21.87′ W. long.;

(182) 32°43.52′ N. lat., 117°19.32′ W. long.; and

(183) 32°33.56′ N. lat., 117°17.72′ W. long.

(A) The 60-fm (110-m) depth contour around the northern Channel Islands off the State of California is defined by straight lines connecting all of the following points in the order stated:

(1) 34°08.80′ N. lat., 120°34.58′ W. long.;

(2) 34°09.16′ N. lat., 120°26.31′ W. long.;

(3) 34°06.69′ N. lat., 120°16.43′ W. long.;

(4) 34°06.38′ N. lat., 120°04.00′ W. long.;

(5) 34°07.36′ N. lat., 119°52.06′ W. long.;

(6) 34°04.84′ N. lat., 119°36.94′ W. long.;

(7) 34°04.84′ N. lat., 119°35.50′ W. long.;

(8) 34°06.20′ N. lat., 119°35.50′ W. long.;

(9) 34°06.20′ N. lat., 119°32.80′ W. long.;

(10) 34°05.04′ N. lat., 119°32.80′ W. long.;

(11) 34°04.00′ N. lat., 119°26.70′ W. long.;

(12) 34°04.00′ N. lat., 119°21.40′ W. long.;

(13) 34°28.00′ N. lat., 119°21.40′ W. long.;

(14) 34°02.36′ N. lat., 119°18.97′ W. long.;

(15) 34°00.65′ N. lat., 119°19.42′ W. long.;

(16) 33°59.45′ N. lat., 119°22.38′ W. long.;

(17) 33°58.68′ N. lat., 119°32.36′ W. long.;

(18) 33°56.14′ N. lat., 119°41.09′ W. long.;

(19) 33°55.84′ N. lat., 119°48.00′ W. long.;

(20) 33°55.20′ N. lat., 119°48.00′ W. long.;

(21) 33°55.20′ N. lat., 119°53.00′ W. long.;

(22) 33°58.00′ N. lat., 119°53.00′ W. long.;

(23) 33°59.32′ N. lat., 119°55.59′ W. long.;

(24) 33°57.52′ N. lat., 119°55.19′ W. long.;

(25) 33°56.10′ N. lat., 119°54.25′ W. long.;

(26) 33°50.28′ N. lat., 119°56.02′ W. long.;

(27) 33°48.51′ N. lat., 119°59.67′ W. long.;

(28) 33°49.14′ N. lat., 120°03.58′ W. long.;

(29) 33°51.93′ N. lat., 120°06.50′ W. long.;

(30) 33°51.40′ N. lat., 120°06.50′ W. long.;

(31) 33°51.40′ N. lat., 120°10.00′ W. long.;

(32) 33°53.16′ N. lat., 120°10.00′ W. long.;

(33) 33°54.36′ N. lat., 120°13.06′ W. long.;

(34) 33°58.53′ N. lat., 120°20.46′ W. long.;

(35) 33°59.52′ N. lat., 120°25.30′ W. long.;

(36) 33°58.50′ N. lat., 120°25.30′ W. long.;

(37) 33°58.50′ N. lat., 120°26.60′ W. long.;

(38) 33°59.84′ N. lat., 120°26.60′ W. long.;

(39) 34°00.12′ N. lat., 120°28.12′ W. long.;

(40) 34°03.60′ N. lat., 120°31.46′ W. long.;

(41) 34°03.60′ N. lat., 120°34.20′ W. long.;

(42) 34°06.41′ N. lat., 120°34.20′ W. long.;

(43) 34°08.09′ N. lat., 120°35.85′ W. long.; and

(44) 34°08.80′ N. lat., 120°34.58′ W. long.

(B) The 60-fm (110-m) depth contour around San Clemente Island off the State of California is defined by straight lines connecting all of the following points in the order stated:

(1) 33°04.06′ N. lat., 118°37.32′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.60′ N. lat., 118°22.00′ W. long.;

(8) 32°44.59′ N. lat., 118°24.52′ W. long.;

(9) 32°49.97′ N. lat., 118°31.52′ W. long.;

(10) 32°53.62′ N. lat., 118°32.94′ W. long.;

(11) 32°55.63′ N. lat., 118°34.82′ W. long.;

(12) 33°00.71′ N. lat., 118°38.42′ W. long.;

(13) 33°03.31′ N. lat., 118°38.74′ W. long.; and

(14) 33°04.06′ N. lat., 118°37.32′ W. long.

(C) The 60-fm (110-m) depth contour around Santa Catalina Island off the State of California is defined by straight lines connecting all of the following points in the order stated:

(1) 33°28.15′ N. lat., 118°37.85′ W. long.;

(2) 33°29.23′ N. lat., 118°36.27′ W. long.;

(3) 33°28.85′ N. lat., 118°30.85′ W. long.;

(4) 33°26.69′ N. lat., 118°27.37′ W. long.;

(5) 33°25.35′ N. lat., 118°22.83′ W. long.;

(6) 33°22.60′ N. lat., 118°18.82′ W. long.;

(7) 33°19.49′ N. lat., 118°16.91′ W. long.;

(8) 33°17.13′ N. lat., 118°16.58′ W. long.;

(9) 33°16.72′ N. lat., 118°18.07′ W. long.;

(10) 33°18.35′ N. lat., 118°27.86′ W. long.;

(11) 33°20.03′ N. lat., 118°32.04′ W. long.;

(12) 33°21.86′ N. lat., 118°31.72′ W. long.;

(13) 33°23.15′ N. lat., 118°29.89′ W. long.;

(14) 33°25.13′ N. lat., 118°32.16′ W. long.;

(15) 33°25.73′ N. lat., 118°34.88′ W. long.; and

(16) 33°28.15′ N. lat., 118°37.85′ W. long.

(vi) The 75-fm (137-m) depth contour used between the U.S. border with Canada and the U.S. border with Mexico is defined by straight lines connecting all of the following points in the order stated:

(1) 48°16.80′ N. lat., 125°34.90′ W. long.;

(2) 48°14.50′ N. lat., 125°29.50′ W. long.;

(3) 48°12.08′ N. lat., 125°28.00′ W. long.;

(4) 48°09.00′ N. lat., 125°28.00′ W. long.;

(5) 48°07.80′ N. lat., 125°31.70′ W. long.;

(6) 48°04.28′ N. lat., 125°29.00′ W. long.;

(7) 48°02.50′ N. lat., 125°25.70′ W. long.;

(8) 48°10.00′ N. lat., 125°20.19′ W. long.;

(9) 48°21.70′ N. lat., 125°17.56′ W. long.;

(10) 48°23.12′ N. lat., 125°10.25′ W. long.;

(11) 48°21.99′ N. lat., 125°02.59′ W. long.;

(12) 48°23.05′ N. lat., 124°48.80′ W. long.;

(13) 48°17.10′ N. lat., 124°54.82′ W. long.;

(14) 48°05.10′ N. lat., 124°59.40′ W. long.;

(15) 48°04.50′ N. lat., 125°02.00′ W. long.;

(16) 48°04.70′ N. lat., 125°04.08′ W. long.;

(17) 48°05.20′ N. lat., 125°04.90′ W. long.;

(18) 48°06.80′ N. lat., 125°06.15′ W. long.;

(19) 48°05.91′ N. lat., 125°08.30′ W. long.;

(20) 48°07.00′ N. lat., 125°09.80′ W. long.;

(21) 48°06.93′ N. lat., 125°11.48′ W. long.;

(22) 48°04.98′ N. lat., 125°10.02′ W. long.;

(23) 47°54.00′ N. lat., 125°04.98′ W. long.;

(24) 47°44.52′ N. lat., 125°00.00′ W. long.;

(25) 47°42.00′ N. lat., 124°58.98′ W. long.;

(26) 47°35.52′ N. lat., 124°55.50′ W. long.;

(27) 47°22.02′ N. lat., 124°44.40′ W. long.;

(28) 47°16.98′ N. lat., 124°45.48′ W. long.;

(29) 47°10.98′ N. lat., 124°48.48′ W. long.;

(30) 47°04.98′ N. lat., 124°49.02′ W. long.;

(31) 46°57.98′ N. lat., 124°46.50′ W. long.;

(32) 46°54.00′ N. lat., 124°45.00′ W. long.;

(33) 46°48.48′ N. lat., 124°44.52′ W. long.;

(34) 46°40.02′ N. lat., 124°36.00′ W. long.;

(35) 46°34.09′ N. lat., 124°27.03′ W. long.;

(36) 46°24.64′ N. lat., 124°30.33′ W. long.;

(37) 46°19.98′ N. lat., 124°36.00′ W. long.;

(38) 46°18.14′ N. lat., 124°34.26′ W. long.;

(39) 46°18.72′ N. lat., 124°22.68′ W. long.;

(40) 46°16.00′ N. lat., 124°19.49′ W. long.;

(41) 46°14.64′ N. lat., 124°22.54′ W. long.;

(42) 46°11.08′ N. lat., 124°30.74′ W. long.;

(43) 46°04.28′ N. lat., 124°31.49′ W. long.;

(44) 45°55.97′ N. lat., 124°19.95′ W. long.;

(45) 45°44.97′ N. lat., 124°15.96′ W. long.;

(46) 45°43.14′ N. lat., 124°21.86′ W. long.;

(47) 45°34.44′ N. lat., 124°14.44′ W. long.;

(48) 45°15.49′ N. lat., 124°11.49′ W. long.;

(49) 44°57.31′ N. lat., 124°15.03′ W. long.;

(50) 44°43.90′ N. lat., 124°28.88′ W. long.;

(51) 44°28.64′ N. lat., 124°35.67′ W. long.;

(52) 44°25.31′ N. lat., 124°43.08′ W. long.;

(53) 44°17.15′ N. lat., 124°47.98′ W. long.;

(54) 44°13.67′ N. lat., 124°54.41′ W. long.;

(55) 43°56.85′ N. lat., 124°55.32′ W. long.;

(56) 43°57.50′ N. lat., 124°41.23′ W. long.;

(57) 44°01.79′ N. lat., 124°38.00′ W. long.;

(58) 44°02.16′ N. lat., 124°32.62′ W. long.;

(59) 43°58.15′ N. lat., 124°30.39′ W. long.;

(60) 43°53.25′ N. lat., 124°31.39′ W. long.;

(61) 43°35.56′ N. lat., 124°28.17′ W. long.;

(62) 43°21.84′ N. lat., 124°36.07′ W. long.;

(63) 43°19.73′ N. lat., 124°34.86′ W. long.;

(64) 43°09.38′ N. lat., 124°39.30′ W. long.;

(65) 43°07.11′ N. lat., 124°37.66′ W. long.;

(66) 42°56.27′ N. lat., 124°43.29′ W. long.;

(67) 42°45.00′ N. lat., 124°41.50′ W. long.;

(68) 42°39.72′ N. lat., 124°39.11′ W. long.;

(69) 42°32.88′ N. lat., 124°40.13′ W. long.;

(70) 42°32.30′ N. lat., 124°39.04′ W. long.;

(71) 42°26.96′ N. lat., 124°44.31′ W. long.;

(72) 42°24.11′ N. lat., 124°42.16′ W. long.;

(73) 42°21.10′ N. lat., 124°35.46′ W. long.;

(74) 42°14.72′ N. lat., 124°32.30′ W. long.;

(75) 42°09.24′ N. lat., 124°32.04′ W. long.;

(76) 42°01.89′ N. lat., 124°32.70′ W. long.;

(77) 42°00.03′ N. lat., 124°32.02′ W. long.;

(78) 42°00.00′ N. lat., 124°32.02′ W. long.;

(79) 41°46.18′ N. lat., 124°26.60′ W. long.;

(80) 41°29.22′ N. lat., 124°28.04′ W. long.;

(81) 41°09.62′ N. lat., 124°19.75′ W. long.;

(82) 40°50.71′ N. lat., 124°23.80′ W. long.;

(83) 40°43.35′ N. lat., 124°29.30′ W. long.;

(84) 40°40.24′ N. lat., 124°29.86′ W. long.;

(85) 40°37.50′ N. lat., 124°28.68′ W. long.;

(86) 40°34.42′ N. lat., 124°29.65′ W. long.;

(87) 40°34.74′ N. lat., 124°34.61′ W. long.;

(88) 40°31.70′ N. lat., 124°37.13′ W. long.;

(89) 40°25.03′ N. lat., 124°34.77′ W. long.;

(90) 40°23.58′ N. lat., 124°31.49′ W. long.;

(91) 40°23.64′ N. lat., 124°28.35′ W. long.;

(92) 40°22.53′ N. lat., 124°24.76′ W. long.;

(93) 40°21.46′ N. lat., 124°24.86′ W. long.;

(94) 40°21.74′ N. lat., 124°27.63′ W. long.;

(95) 40°19.76′ N. lat., 124°28.15′ W. long.;

(96) 40°18.00′ N. lat., 124°25.38′ W. long.;

(97) 40°18.54′ N. lat., 124°22.94′ W. long.;

(98) 40°15.55′ N. lat., 124°25.75′ W. long.;

(99) 40°16.06′ N. lat., 124°30.48′ W. long.;

(100) 40°15.75′ N. lat., 124°31.69′ W. long.;

(101) 40°10.00′ N. lat., 124°21.28′ W. long.;

(102) 40°08.37′ N. lat., 124°17.99′ W. long.;

(103) 40°09.00′ N. lat., 124°15.77′ W. long.;

(104) 40°06.93′ N. lat., 124°16.49′ W. long.;

(105) 40°03.60′ N. lat., 124°11.60′ W. long.;

(106) 40°06.20′ N. lat., 124°08.23′ W. long.;

(107) 40°00.94′ N. lat., 124°08.57′ W. long.;

(108) 40°00.01′ N. lat., 124°09.84′ W. long.;

(109) 39°57.75′ N. lat., 124°09.53′ W. long.;

(110) 39°55.56′ N. lat., 124°07.67′ W. long.;

(111) 39°52.21′ N. lat., 124°05.54′ W. long.;

(112) 39°48.07′ N. lat., 123°57.48′ W. long.;

(113) 39°41.60′ N. lat., 123°55.12′ W. long.;

(114) 39°30.39′ N. lat., 123°55.03′ W. long.;

(115) 39°29.48′ N. lat., 123°56.12′ W. long.;

(116) 39°13.76′ N. lat., 123°54.65′ W. long.;

(117) 39°05.21′ N. lat., 123°55.38′ W. long.;

(118) 38°55.90′ N. lat., 123°54.35′ W. long.;

(119) 38°48.59′ N. lat., 123°49.61′ W. long.;

(120) 38°28.82′ N. lat., 123°27.44′ W. long.;

(121) 38°09.70′ N. lat., 123°18.66′ W. long.;

(122) 38°01.81′ N. lat., 123°19.22′ W. long.;

(123) 38°04.67′ N. lat., 123°25.85′ W. long.;

(124) 38°04.33′ N. lat., 123°29.68′ W. long.;

(125) 38°02.38′ N. lat., 123°30.13′ W. long.;

(126) 38°00.00′ N. lat., 123°27.84′ W. long.;

(127) 37°56.73′ N. lat., 123°25.22′ W. long.;

(128) 37°55.59′ N. lat., 123°25.62′ W. long.;

(129) 37°52.79′ N. lat., 123°23.85′ W. long.;

(130) 37°49.13′ N. lat., 123°18.83′ W. long.;

(131) 37°46.01′ N. lat., 123°12.28′ W. long.;

(132) 37°36.12′ N. lat., 123°00.33′ W. long.;

(133) 37°03.52′ N. lat., 122°37.57′ W. long.;

(134) 36°59.69′ N. lat., 122°27.32′ W. long.;

(135) 37°01.41′ N. lat., 122°24.41′ W. long.;

(136) 36°58.75′ N. lat., 122°23.81′ W. long.;

(137) 36°59.17′ N. lat., 122°21.44′ W. long.;

(138) 36°57.51′ N. lat., 122°20.69′ W. long.;

(139) 36°51.46′ N. lat., 122°10.01′ W. long.;

(140) 36°48.43′ N. lat., 122°06.47′ W. long.;

(141) 36°48.66′ N. lat., 122°04.99′ W. long.;

(142) 36°47.75′ N. lat., 122°03.33′ W. long.;

(143) 36°51.23′ N. lat., 121°57.79′ W. long.;

(144) 36°49.72′ N. lat., 121°57.87′ W. long.;

(145) 36°48.84′ N. lat., 121°58.68′ W. long.;

(146) 36°47.89′ N. lat., 121°58.53′ W. long.;

(147) 36°48.66′ N. lat., 121°50.49′ W. long.;

(148) 36°45.56′ N. lat., 121°54.11′ W. long.;

(149) 36°45.30′ N. lat., 121°57.62′ W. long.;

(150) 36°38.54′ N. lat., 122°01.13′ W. long.;

(151) 36°35.76′ N. lat., 122°00.87′ W. long.;

(152) 36°32.58′ N. lat., 121°59.12′ W. long.;

(153) 36°32.95′ N. lat., 121°57.62′ W. long.;

(154) 36°31.96′ N. lat., 121°56.27′ W. long.;

(155) 36°31.74′ N. lat., 121°58.24′ W. long.;

(156) 36°30.57′ N. lat., 121°59.66′ W. long.;

(157) 36°27.80′ N. lat., 121°59.30′ W. long.;

(158) 36°26.52′ N. lat., 121°58.09′ W. long.;

(159) 36°23.65′ N. lat., 121°58.94′ W. long.;

(160) 36°20.93′ N. lat., 122°00.28′ W. long.;

(161) 36°18.23′ N. lat., 122°03.10′ W. long.;

(162) 36°14.21′ N. lat., 121°57.73′ W. long.;

(163) 36°14.68′ N. lat., 121°55.43′ W. long.;

(164) 36°10.42′ N. lat., 121°42.90′ W. long.;

(165) 36°02.55′ N. lat., 121°36.35′ W. long.;

(166) 36°01.04′ N. lat., 121°36.47′ W. long.;

(167) 35°58.25′ N. lat., 121°32.88′ W. long.;

(168) 35°39.35′ N. lat., 121°22.63′ W. long.;

(169) 35°24.44′ N. lat., 121°02.23′ W. long.;

(170) 35°10.84′ N. lat., 120°55.90′ W. long.;

(171) 35°04.35′ N. lat., 120°51.62′ W. long.;

(172) 34°55.25′ N. lat., 120°49.36′ W. long.;

(173) 34°47.95′ N. lat., 120°50.76′ W. long.;

(174) 34°39.27′ N. lat., 120°49.16′ W. long.;

(175) 34°31.05′ N. lat., 120°44.71′ W. long.;

(176) 34°27.00′ N. lat., 120°36.54′ W. long.;

(177) 34°22.60′ N. lat., 120°25.41′ W. long.;

(178) 34°25.45′ N. lat., 120°17.41′ W. long.;

(179) 34°22.94′ N. lat., 119°56.40′ W. long.;

(180) 34°18.37′ N. lat., 119°42.01′ W. long.;

(181) 34°11.22′ N. lat., 119°32.47′ W. long.;

(182) 34°09.58′ N. lat., 119°25.94′ W. long.;

(183) 34°03.89′ N. lat., 119°12.47′ W. long.;

(184) 34°03.57′ N. lat., 119°06.72′ W. long.;

(185) 34°04.53′ N. lat., 119°04.90′ W. long.;

(186) 34°02.84′ N. lat., 119°02.37′ W. long.;

(187) 34°01.30′ N. lat., 119°00.26′ W. long.;

(188) 34°00.22′ N. lat., 119°03.20′ W. long.;

(189) 33°59.60′ N. lat., 119°03.16′ W. long.;

(190) 33°59.46′ N. lat., 119°00.88′ W. long.;

(191) 34°00.49′ N. lat., 118°59.08′ W. long.;

(192) 33°59.07′ N. lat., 118°47.34′ W. long.;

(193) 33°58.73′ N. lat., 118°36.45′ W. long.;

(194) 33°55.24′ N. lat., 118°33.42′ W. long.;

(195) 33°53.71′ N. lat., 118°38.01′ W. long.;

(196) 33°51.22′ N. lat., 118°36.17′ W. long.;

(197) 33°49.85′ N. lat., 118°32.31′ W. long.;

(198) 33°49.61′ N. lat., 118°28.07′ W. long.;

(199) 33°49.95′ N. lat., 118°26.38′ W. long.;

(200) 33°50.36′ N. lat., 118°25.84′ W. long.;

(201) 33°49.84′ N. lat., 118°24.78′ W. long.;

(202) 33°47.53′ N. lat., 118°30.12′ W. long.;

(203) 33°44.11′ N. lat., 118°25.25′ W. long.;

(204) 33°41.77′ N. lat., 118°20.32′ W. long.;

(205) 33°38.17′ N. lat., 118°15.70′ W. long.;

(206) 33°37.48′ N. lat., 118°16.73′ W. long.;

(207) 33°36.01′ N. lat., 118°16.55′ W. long.;

(208) 33°33.76′ N. lat., 118°11.37′ W. long.;

(209) 33°33.76′ N. lat., 118°07.94′ W. long.;

(210) 33°35.59′ N. lat., 118°05.05′ W. long.;

(211) 33°33.75′ N. lat., 117°59.82′ W. long.;

(212) 33°35.10′ N. lat., 117°55.68′ W. long.;

(213) 33°34.91′ N. lat., 117°53.76′ W. long.;

(214) 33°30.77′ N. lat., 117°47.56′ W. long.;

(215) 33°27.50′ N. lat., 117°44.87′ W. long.;

(216) 33°16.89′ N. lat., 117°34.37′ W. long.;

(217) 33°06.66′ N. lat., 117°21.59′ W. long.;

(218) 33°03.35′ N. lat., 117°20.92′ W. long.;

(219) 33°00.07′ N. lat., 117°19.02′ W. long.;

(220) 32°55.99′ N. lat., 117°18.60′ W. long.;

(221) 32°54.43′ N. lat., 117°16.93′ W. long.;

(222) 32°52.13′ N. lat., 117°16.55′ W. long.;

(223) 32°52.61′ N. lat., 117°19.50′ W. long.;

(224) 32°46.95′ N. lat., 117°22.81′ W. long.;

(225) 32°45.01′ N. lat., 117°22.07′ W. long.;

(226) 32°43.40′ N. lat., 117°19.80′ W. long.; and

(227) 32°33.74′ N. lat., 117°18.67′ W. long.

(A) The 75-fm (137-m) depth contour around the northern Channel Islands off the State of California is defined by straight lines connecting all of the following points in the order stated:

(1) 34°09.12′ N. lat., 120°35.03′ W. long.;

(2) 34°09.99′ N. lat., 120°27.85′ W. long.;

(3) 34°07.19′ N. lat., 120°16.28′ W. long.;

(4) 34°06.56′ N. lat., 120°04.00′ W. long.;

(5) 34°07.27′ N. lat., 119°57.76′ W. long.;

(6) 34°07.48′ N. lat., 119°52.08′ W. long.;

(7) 34°05.18′ N. lat., 119°37.94′ W. long.;

(8) 34°05.22′ N. lat., 119°35.52′ W. long.;

(9) 34°06.18′ N. lat., 119°35.50′ W. long.;

(10) 34°06.16′ N. lat., 119°32.76′ W. long.;

(11) 34°05.12′ N. lat., 119°32.74′ W. long.;

(12) 34°04.32′ N. lat., 119°27.32′ W. long.;

(13) 34°04.06′ N. lat., 119°26.60′ W. long.;

(14) 34°04.00′ N. lat., 119°21.34′ W. long.;

(15) 34°03.00′ N. lat., 119°21.36′ W. long.;

(16) 34°02.32′ N. lat., 119°18.46′ W. long.;

(17) 34°00.65′ N. lat., 119°19.42′ W. long.;

(18) 33°59.45′ N. lat., 119°22.38′ W. long.;

(19) 33°58.68′ N. lat., 119°32.36′ W. long.;

(20) 33°56.12′ N. lat., 119°41.10′ W. long.;

(21) 33°55.74′ N. lat., 119°48.00′ W. long.;

(22) 33°55.21′ N. lat., 119°48.00′ W. long.;

(23) 33°55.21′ N. lat., 119°53.00′ W. long.;

(24) 33°57.78′ N. lat., 119°53.04′ W. long.;

(25) 33°59.06′ N. lat., 119°55.38′ W. long.;

(26) 33°57.57′ N. lat., 119°54.93′ W. long.;

(27) 33°56.35′ N. lat., 119°53.91′ W. long.;

(28) 33°54.43′ N. lat., 119°54.07′ W. long.;

(29) 33°52.67′ N. lat., 119°54.78′ W. long.;

(30) 33°48.33′ N. lat., 119°55.09′ W. long.;

(31) 33°47.28′ N. lat., 119°57.30′ W. long.;

(32) 33°47.36′ N. lat., 120°00.39′ W. long.;

(33) 33°49.16′ N. lat., 120°05.06′ W. long.;

(34) 33°51.41′ N. lat., 120°06.49′ W. long.;

(35) 33°51.41′ N. lat., 120°10.00′ W. long.;

(36) 33°52.99′ N. lat., 120°10.01′ W. long.;

(37) 33°56.64′ N. lat., 120°18.88′ W. long.;

(38) 33°58.02′ N. lat., 120°21.41′ W. long.;

(39) 33°58.73′ N. lat., 120°25.22′ W. long.;

(40) 33°58.49′ N. lat., 120°25.22′ W. long.;

(41) 33°58.48′ N. lat., 120°26.55′ W. long.;

(42) 33°59.08′ N. lat., 120°26.58′ W. long.;

(43) 33°59.95′ N. lat., 120°28.21′ W. long.;

(44) 34°03.54′ N. lat., 120°32.23′ W. long.;

(45) 34°03.54′ N. lat., 120°34.19′ W. long.;

(46) 34°05.57′ N. lat., 120°34.23′ W. long.;

(47) 34°08.13′ N. lat., 120°36.05′ W. long.; and

(48) 34°09.12′ N. lat., 120°35.03′ W. long.

(B) The 75-fm (137-m) depth contour around San Clemente Island off the State of California is defined by straight lines connecting all of the following points in the order stated:

(1) 33°04.54′ N. lat., 118°37.54′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.41′ N. lat., 118°21.98′ W. long.;

(8) 32°44.39′ N. lat., 118°24.49′ W. long.;

(9) 32°47.93′ N. lat., 118°29.90′ W. long.;

(10) 32°49.69′ N. lat., 118°31.52′ W. long.;

(11) 32°53.57′ N. lat., 118°33.09′ W. long.;

(12) 32°55.42′ N. lat., 118°35.17′ W. long.;

(13) 33°00.49′ N. lat., 118°38.56′ W. long.;

(14) 33°03.23′ N. lat., 118°39.16′ W. long.; and

(15) 33°04.54′ N. lat., 118°37.54′ W. long.

(C) The 75-fm (137-m) depth contour around Santa Catalina Island off the State of California is defined by straight lines connecting all of the following points in the order stated:

(1) 33°28.17′ N. lat., 118°38.16′ W. long.;

(2) 33°29.35′ N. lat., 118°36.23′ W. long.;

(3) 33°28.85′ N. lat., 118°30.85′ W. long.;

(4) 33°26.69′ N. lat., 118°27.37′ W. long.;

(5) 33°26.31′ N. lat., 118°25.14′ W. long.;

(6) 33°25.35′ N. lat., 118°22.83′ W. long.;

(7) 33°22.47′ N. lat., 118°18.53′ W. long.;

(8) 33°19.51′ N. lat., 118°16.82′ W. long.;

(9) 33°17.07′ N. lat., 118°16.38′ W. long.;

(10) 33°16.58′ N. lat., 118°17.61′ W. long.;

(11) 33°18.35′ N. lat., 118°27.86′ W. long.;

(12) 33°20.07′ N. lat., 118°32.12′ W. long.;

(13) 33°21.77′ N. lat., 118°31.85′ W. long.;

(14) 33°23.15′ N. lat., 118°29.99′ W. long.;

(15) 33°24.96′ N. lat., 118°32.21′ W. long.;

(16) 33°25.67′ N. lat., 118°34.88′ W. long.;

(17) 33°27.80′ N. lat., 118°37.90′ W. long.; and

(18) 33°28.17′ N. lat., 118°38.16′ W. long.

(vii) The 100-fm (183-m) depth contour used between the U.S. border with Canada and the U.S. border with Mexico is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°16.00′ N. lat., 124°20.62′ W. long.;

(86) 46°13.52′ N. lat., 124°25.49′ W. long.;

(87) 46°12.17′ N. lat., 124°30.75′ W. long.;

(88) 46°10.63′ N. lat., 124°37.95′ W. long.;

(89) 46°09.29′ N. lat., 124°39.01′ W. long.;

(90) 46°02.40′ N. lat., 124°40.37′ W. long.;

(91) 45°56.45′ N. lat., 124°38.00′ W. long.;

(92) 45°51.92′ N. lat., 124°38.49′ W. long.;

(93) 45°47.19′ N. lat., 124°35.58′ W. long.;

(94) 45°46.41′ N. lat., 124°32.36′ W. long.;

(95) 45°41.75′ N. lat., 124°28.12′ W. long.;

(96) 45°36.96′ N. lat., 124°24.48′ W. long.;

(97) 45°31.84′ N. lat., 124°22.04′ W. long.;

(98) 45°27.10′ N. lat., 124°21.74′ W. long.;

(99) 45°18.14′ N. lat., 124°17.59′ W. long.;

(100) 45°11.08′ N. lat., 124°16.97′ W. long.;

(101) 45°04.38′ N. lat., 124°18.36′ W. long.;

(102) 44°58.05′ N. lat., 124°21.58′ W. long.;

(103) 44°47.67′ N. lat., 124°31.41′ W. long.;

(104) 44°44.55′ N. lat., 124°33.58′ W. long.;

(105) 44°39.88′ N. lat., 124°35.01′ W. long.;

(106) 44°32.90′ N. lat., 124°36.81′ W. long.;

(107) 44°30.33′ N. lat., 124°38.56′ W. long.;

(108) 44°30.04′ N. lat., 124°42.31′ W. long.;

(109) 44°26.84′ N. lat., 124°44.91′ W. long.;

(110) 44°17.99′ N. lat., 124°51.03′ W. long.;

(111) 44°13.68′ N. lat., 124°56.38′ W. long.;

(112) 43°56.67′ N. lat., 124°55.45′ W. long.;

(113) 43°56.47′ N. lat., 124°34.61′ W. long.;

(114) 43°42.73′ N. lat., 124°32.41′ W. long.;

(115) 43°30.93′ N. lat., 124°34.43′ W. long.;

(116) 43°17.45′ N. lat., 124°41.16′ W. long.;

(117) 43°07.04′ N. lat., 124°41.25′ W. long.;

(118) 43°03.45′ N. lat., 124°44.36′ W. long.;

(119) 43°03.90′ N. lat., 124°50.81′ W. long.;

(120) 42°55.70′ N. lat., 124°52.79′ W. long.;

(121) 42°54.12′ N. lat., 124°47.36′ W. long.;

(122) 42°44.00′ N. lat., 124°42.38′ W. long.;

(123) 42°38.23′ N. lat., 124°41.25′ W. long.;

(124) 42°33.03′ N. lat., 124°42.38′ W. long.;

(125) 42°31.89′ N. lat., 124°42.04′ W. long.;

(126) 42°30.09′ N. lat., 124°42.67′ W. long.;

(127) 42°28.28′ N. lat., 124°47.08′ W. long.;

(128) 42°25.22′ N. lat., 124°43.51′ W. long.;

(129) 42°19.23′ N. lat., 124°37.92′ W. long.;

(130) 42°16.29′ N. lat., 124°36.11′ W. long.;

(131) 42°05.66′ N. lat., 124°34.92′ W. long.;

(132) 42°00.00′ N. lat., 124°35.27′ W. long.;

(133) 42°00.00′ N. lat., 124°35.26′ W. long.;

(134) 41°47.04′ N. lat., 124°27.64′ W. long.;

(135) 41°32.92′ N. lat., 124°28.79′ W. long.;

(136) 41°24.17′ N. lat., 124°28.46′ W. long.;

(137) 41°10.12′ N. lat., 124°20.50′ W. long.;

(138) 40°51.41′ N. lat., 124°24.38′ W. long.;

(139) 40°43.71′ N. lat., 124°29.89′ W. long.;

(140) 40°40.14′ N. lat., 124°30.90′ W. long.;

(141) 40°37.35′ N. lat., 124°29.05′ W. long.;

(142) 40°34.76′ N. lat., 124°29.82′ W. long.;

(143) 40°36.78′ N. lat., 124°37.06′ W. long.;

(144) 40°32.44′ N. lat., 124°39.58′ W. long.;

(145) 40°24.82′ N. lat., 124°35.12′ W. long.;

(146) 40°23.30′ N. lat., 124°31.60′ W. long.;

(147) 40°23.52′ N. lat., 124°28.78′ W. long.;

(148) 40°22.43′ N. lat., 124°25.00′ W. long.;

(149) 40°21.72′ N. lat., 124°24.94′ W. long.;

(150) 40°21.87′ N. lat., 124°27.96′ W. long.;

(151) 40°21.40′ N. lat., 124°28.74′ W. long.;

(152) 40°19.68′ N. lat., 124°28.49′ W. long.;

(153) 40°17.73′ N. lat., 124°25.43′ W. long.;

(154) 40°18.37′ N. lat., 124°23.35′ W. long.;

(155) 40°15.75′ N. lat., 124°26.05′ W. long.;

(156) 40°16.75′ N. lat., 124°33.71′ W. long.;

(157) 40°16.29′ N. lat., 124°34.36′ W. long.;

(158) 40°10.00′ N. lat., 124°21.12′ W. long.;

(159) 40°10.00′ N. lat., 124°21.50′ W. long.;

(160) 40°07.70′ N. lat., 124°18.44′ W. long.;

(161) 40°08.84′ N. lat., 124°15.86′ W. long.;

(162) 40°06.53′ N. lat., 124°17.39′ W. long.;

(163) 40°03.15′ N. lat., 124°14.43′ W. long.;

(164) 40°02.19′ N. lat., 124°12.85′ W. long.;

(165) 40°02.89′ N. lat., 124°11.78′ W. long.;

(166) 40°02.78′ N. lat., 124°10.70′ W. long.;

(167) 40°04.57′ N. lat., 124°10.08′ W. long.;

(168) 40°06.06′ N. lat., 124°08.30′ W. long.;

(169) 40°04.05′ N. lat., 124°08.93′ W. long.;

(170) 40°01.17′ N. lat., 124°08.80′ W. long.;

(171) 40°01.03′ N. lat., 124°10.06′ W. long.;

(172) 39°58.07′ N. lat., 124°11.89′ W. long.;

(173) 39°56.39′ N. lat., 124°08.71′ W. long.;

(174) 39°54.64′ N. lat., 124°07.30′ W. long.;

(175) 39°53.86′ N. lat., 124°07.95′ W. long.;

(176) 39°51.95′ N. lat., 124°07.63′ W. long.;

(177) 39°48.78′ N. lat., 124°03.29′ W. long.;

(178) 39°47.36′ N. lat., 124°03.31′ W. long.;

(179) 39°40.08′ N. lat., 123°58.37′ W. long.;

(180) 39°36.16′ N. lat., 123°56.90′ W. long.;

(181) 39°30.75′ N. lat., 123°55.86′ W. long.;

(182) 39°31.62′ N. lat., 123°57.33′ W. long.;

(183) 39°30.91′ N. lat., 123°57.88′ W. long.;

(184) 39°01.79′ N. lat., 123°56.59′ W. long.;

(185) 38°59.42′ N. lat., 123°55.67′ W. long.;

(186) 38°58.89′ N. lat., 123°56.28′ W. long.;

(187) 38°54.72′ N. lat., 123°55.68′ W. long.;

(188) 38°48.95′ N. lat., 123°51.85′ W. long.;

(189) 38°36.67′ N. lat., 123°40.20′ W. long.;

(190) 38°33.82′ N. lat., 123°39.23′ W. long.;

(191) 38°29.02′ N. lat., 123°33.52′ W. long.;

(192) 38°18.88′ N. lat., 123°25.93′ W. long.;

(193) 38°14.12′ N. lat., 123°23.26′ W. long.;

(194) 38°11.07′ N. lat., 123°22.07′ W. long.;

(195) 38°03.19′ N. lat., 123°20.70′ W. long.;

(196) 38°06.30′ N. lat., 123°24.96′ W. long.;

(197) 38°06.34′ N. lat., 123°29.25′ W. long.;

(198) 38°04.57′ N. lat., 123°31.23′ W. long.;

(199) 38°02.32′ N. lat., 123°31.00′ W. long.;

(200) 38°00.00′ N. lat., 123°28.41′ W. long.;

(201) 37°58.08′ N. lat., 123°26.68′ W. long.;

(202) 37°55.07′ N. lat., 123°26.81′ W. long.;

(203) 37°50.66′ N. lat., 123°23.06′ W. long.;

(204) 37°45.18′ N. lat., 123°11.88′ W. long.;

(205) 37°36.21′ N. lat., 123°01.20′ W. long.;

(206) 37°15.58′ N. lat., 122°48.36′ W. long.;

(207) 37°03.18′ N. lat., 122°38.15′ W. long.;

(208) 37°00.48′ N. lat., 122°33.93′ W. long.;

(209) 36°58.70′ N. lat., 122°27.22′ W. long.;

(210) 37°00.85′ N. lat., 122°24.70′ W. long.;

(211) 36°58.00′ N. lat., 122°24.14′ W. long.;

(212) 36°58.74′ N. lat., 122°21.51′ W. long.;

(213) 36°56.97′ N. lat., 122°21.32′ W. long.;

(214) 36°51.52′ N. lat., 122°10.68′ W. long.;

(215) 36°48.39′ N. lat., 122°07.60′ W. long.;

(216) 36°47.43′ N. lat., 122°03.22′ W. long.;

(217) 36°50.95′ N. lat., 121°58.03′ W. long.;

(218) 36°49.92′ N. lat., 121°58.01′ W. long.;

(219) 36°48.88′ N. lat., 121°58.90′ W. long.;

(220) 36°47.70′ N. lat., 121°58.75′ W. long.;

(221) 36°48.37′ N. lat., 121°51.14′ W. long.;

(222) 36°45.74′ N. lat., 121°54.17′ W. long.;

(223) 36°45.51′ N. lat., 121°57.72′ W. long.;

(224) 36°38.84′ N. lat., 122°01.32′ W. long.;

(225) 36°35.62′ N. lat., 122°00.98′ W. long.;

(226) 36°32.46′ N. lat., 121°59.15′ W. long.;

(227) 36°32.79′ N. lat., 121°57.67′ W. long.;

(228) 36°31.98′ N. lat., 121°56.55′ W. long.;

(229) 36°31.79′ N. lat., 121°58.40′ W. long.;

(230) 36°30.73′ N. lat., 121°59.70′ W. long.;

(231) 36°30.31′ N. lat., 122°00.22′ W. long.;

(232) 36°29.35′ N. lat., 122°00.36′ W. long.;

(233) 36°27.66′ N. lat., 121°59.80′ W. long.;

(234) 36°26.22′ N. lat., 121°58.35′ W. long.;

(235) 36°21.20′ N. lat., 122°00.72′ W. long.;

(236) 36°20.47′ N. lat., 122°02.92′ W. long.;

(237) 36°18.46′ N. lat., 122°04.51′ W. long.;

(238) 36°15.92′ N. lat., 122°01.33′ W. long.;

(239) 36°13.76′ N. lat., 121°57.27′ W. long.;

(240) 36°14.43′ N. lat., 121°55.43′ W. long.;

(241) 36°10.24′ N. lat., 121°43.08′ W. long.;

(242) 36°07.66′ N. lat., 121°40.91′ W. long.;

(243) 36°02.49′ N. lat., 121°36.51′ W. long.;

(244) 36°01.07′ N. lat., 121°36.82′ W. long.;

(245) 35°57.84′ N. lat., 121°33.10′ W. long.;

(246) 35°50.36′ N. lat., 121°29.32′ W. long.;

(247) 35°39.03′ N. lat., 121°22.86′ W. long.;

(248) 35°24.30′ N. lat., 121°02.56′ W. long.;

(249) 35°16.53′ N. lat., 121°00.39′ W. long.;

(250) 35°04.82′ N. lat., 120°53.96′ W. long.;

(251) 34°52.51′ N. lat., 120°51.62′ W. long.;

(252) 34°43.36′ N. lat., 120°52.12′ W. long.;

(253) 34°37.64′ N. lat., 120°49.99′ W. long.;

(254) 34°30.80′ N. lat., 120°45.02′ W. long.;

(255) 34°27.00′ N. lat., 120°39.00′ W. long.;

(256) 34°21.90′ N. lat., 120°25.25′ W. long.;

(257) 34°24.86′ N. lat., 120°16.81′ W. long.;

(258) 34°22.80′ N. lat., 119°57.06′ W. long.;

(259) 34°18.59′ N. lat., 119°44.84′ W. long.;

(260) 34°15.04′ N. lat., 119°40.34′ W. long.;

(261) 34°14.40′ N. lat., 119°45.39′ W. long.;

(262) 34°12.32′ N. lat., 119°42.41′ W. long.;

(263) 34°09.71′ N. lat., 119°28.85′ W. long.;

(264) 34°04.70′ N. lat., 119°15.38′ W. long.;

(265) 34°03.33′ N. lat., 119°12.93′ W. long.;

(266) 34°02.72′ N. lat., 119°07.01′ W. long.;

(267) 34°03.90′ N. lat., 119°04.64′ W. long.;

(268) 34°01.80′ N. lat., 119°03.23′ W. long.;

(269) 33°59.32′ N. lat., 119°03.50′ W. long.;

(270) 33°59.00′ N. lat., 118°59.55′ W. long.;

(271) 33°59.51′ N. lat., 118°57.25′ W. long.;

(272) 33°58.82′ N. lat., 118°52.47′ W. long.;

(273) 33°58.54′ N. lat., 118°41.86′ W. long.;

(274) 33°55.07′ N. lat., 118°34.25′ W. long.;

(275) 33°54.28′ N. lat., 118°38.68′ W. long.;

(276) 33°51.00′ N. lat., 118°36.66′ W. long.;

(277) 33°39.77′ N. lat., 118°18.41′ W. long.;

(278) 33°35.50′ N. lat., 118°16.85′ W. long.;

(279) 33°32.68′ N. lat., 118°09.82′ W. long.;

(280) 33°34.09′ N. lat., 117°54.06′ W. long.;

(281) 33°31.60′ N. lat., 117°49.28′ W. long.;

(282) 33°16.07′ N. lat., 117°34.74′ W. long.;

(283) 33°07.06′ N. lat., 117°22.71′ W. long.;

(284) 32°59.28′ N. lat., 117°19.69′ W. long.;

(285) 32°55.36′ N. lat., 117°19.54′ W. long.;

(286) 32°53.35′ N. lat., 117°17.05′ W. long.;

(287) 32°53.34′ N. lat., 117°19.13′ W. long.;

(288) 32°46.39′ N. lat., 117°23.45′ W. long.;

(289) 32°42.79′ N. lat., 117°21.16′ W. long.; and

(290) 32°34.22′ N. lat., 117°21.20′ W. long.

(A) The 100-fm (183-m) depth contour around San Clemente Island off the State of California is defined by straight lines connecting all of the following points in the order stated:

(1) 33°04.73′ N. lat., 118°37.98′ W. long.;

(2) 33°02.67′ N. lat., 118°34.06′ W. long.;

(3) 32°55.80′ N. lat., 118°28.92′ W. long.;

(4) 32°49.78′ N. lat., 118°20.88′ W. long.;

(5) 32°48.01′ N. lat., 118°19.49′ W. long.;

(6) 32°47.53′ N. lat., 118°21.76′ W. long.;

(7) 32°44.03′ N. lat., 118°24.70′ W. long.;

(8) 32°49.75′ N. lat., 118°32.10′ W. long.;

(9) 32°53.36′ N. lat., 118°33.23′ W. long.;

(10) 32°55.17′ N. lat., 118°34.64′ W. long.;

(11) 32°55.13′ N. lat., 118°35.31′ W. long.;

(12) 33°00.22′ N. lat., 118°38.68′ W. long.;

(13) 33°03.13′ N. lat., 118°39.59′ W. long.; and

(14) 33°04.73′ N. lat., 118°37.98′ W. long.

(B) The 100-fm (183-m) depth contour around Santa Catalina Island off the State of California is defined by straight lines connecting all of the following points in the order stated:

(1) 33°28.23′ N. lat., 118°39.38′ W. long.;

(2) 33°29.60′ N. lat., 118°36.11′ W. long.;

(3) 33°29.14′ N. lat., 118°30.81′ W. long.;

(4) 33°26.97′ N. lat., 118°27.57′ W. long.;

(5) 33°25.68′ N. lat., 118°23.00′ W. long.;

(6) 33°22.67′ N. lat., 118°18.41′ W. long.;

(7) 33°19.72′ N. lat., 118°16.25′ W. long.;

(8) 33°17.14′ N. lat., 118°14.96′ W. long.;

(9) 33°16.09′ N. lat., 118°15.46′ W. long.;

(10) 33°18.10′ N. lat., 118°27.95′ W. long.;

(11) 33°19.84′ N. lat., 118°32.16′ W. long.;

(12) 33°20.83′ N. lat., 118°32.83′ W. long.;

(13) 33°21.91′ N. lat., 118°31.98′ W. long.;

(14) 33°23.05′ N. lat., 118°30.11′ W. long.;

(15) 33°24.87′ N. lat., 118°32.45′ W. long.;

(16) 33°25.30′ N. lat., 118°34.32′ W. long.; and

(17) 33°28.23′ N. lat., 118°39.38′ W. long.

(viii) The 125-fm (229-m) depth contour used between the U.S. border with Canada and the U.S. border with Mexico is defined by straight lines connecting all of the following points in the order stated:

(1) 48°15.00′ N. lat., 125°41.13′ W. long.;

(2) 48°13.05′ N. lat., 125°37.43′ W. long.;

(3) 48°08.62′ N. lat., 125°41.68′ W. long.;

(4) 48°07.42′ N. lat., 125°42.38′ W. long.;

(5) 48°04.20′ N. lat., 125°36.57′ W. long.;

(6) 48°02.79′ N. lat., 125°35.55′ W. long.;

(7) 48°00.48′ N. lat., 125°37.84′ W. long.;

(8) 47°54.90′ N. lat., 125°34.79′ W. long.;

(9) 47°58.37′ N. lat., 125°26.58′ W. long.;

(10) 47°59.84′ N. lat., 125°25.20′ W. long.;

(11) 48°01.85′ N. lat., 125°24.12′ W. long.;

(12) 48°02.13′ N. lat., 125°22.80′ W. long.;

(13) 48°03.31′ N. lat., 125°22.46′ W. long.;

(14) 48°06.83′ N. lat., 125°17.73′ W. long.;

(15) 48°10.08′ N. lat., 125°15.56′ W. long.;

(16) 48°11.24′ N. lat., 125°13.72′ W. long.;

(17) 48°12.41′ N. lat., 125°14.48′ W. long.;

(18) 48°13.01′ N. lat., 125°13.77′ W. long.;

(19) 48°13.59′ N. lat., 125°12.83′ W. long.;

(20) 48°12.22′ N. lat., 125°12.28′ W. long.;

(21) 48°11.15′ N. lat., 125°12.26′ W. long.;

(22) 48°10.18′ N. lat., 125°10.44′ W. long.;

(23) 48°10.18′ N. lat., 125°06.32′ W. long.;

(24) 48°15.39′ N. lat., 125°02.83′ W. long.;

(25) 48°18.32′ N. lat., 125°01.00′ W. long.;

(26) 48°21.67′ N. lat., 125°01.86′ W. long.;

(27) 48°25.70′ N. lat., 125°00.10′ W. long.;

(28) 48°26.43′ N. lat., 124°56.65′ W. long.;

(29) 48°24.28′ N. lat., 124°56.48′ W. long.;

(30) 48°23.27′ N. lat., 124°59.12′ W. long.;

(31) 48°21.79′ N. lat., 124°59.30′ W. long.;

(32) 48°20.71′ N. lat., 124°58.74′ W. long.;

(33) 48°19.84′ N. lat., 124°57.09′ W. long.;

(34) 48°22.06′ N. lat., 124°54.78′ W. long.;

(35) 48°22.45′ N. lat., 124°53.35′ W. long.;

(36) 48°22.74′ N. lat., 124°50.96′ W. long.;

(37) 48°21.04′ N. lat., 124°52.60′ W. long.;

(38) 48°18.07′ N. lat., 124°55.85′ W. long.;

(39) 48°15.03′ N. lat., 124°58.16′ W. long.;

(40) 48°11.31′ N. lat., 124°58.53′ W. long.;

(41) 48°06.25′ N. lat., 125°00.06′ W. long.;

(42) 48°04.70′ N. lat., 125°01.80′ W. long.;

(43) 48°04.93′ N. lat., 125°03.92′ W. long.;

(44) 48°06.44′ N. lat., 125°06.50′ W. long.;

(45) 48°07.34′ N. lat., 125°09.35′ W. long.;

(46) 48°07.62′ N. lat., 125°11.37′ W. long.;

(47) 48°03.71′ N. lat., 125°17.63′ W. long.;

(48) 48°01.35′ N. lat., 125°18.66′ W. long.;

(49) 48°00.05′ N. lat., 125°19.66′ W. long.;

(50) 47°59.51′ N. lat., 125°18.90′ W. long.;

(51) 47°58.29′ N. lat., 125°16.64′ W. long.;

(52) 47°54.67′ N. lat., 125°13.20′ W. long.;

(53) 47°53.15′ N. lat., 125°12.53′ W. long.;

(54) 47°48.46′ N. lat., 125°04.72′ W. long.;

(55) 47°46.10′ N. lat., 125°04.00′ W. long.;

(56) 47°44.60′ N. lat., 125°04.49′ W. long.;

(57) 47°42.90′ N. lat., 125°04.72′ W. long.;

(58) 47°40.71′ N. lat., 125°04.68′ W. long.;

(59) 47°39.02′ N. lat., 125°05.63′ W. long.;

(60) 47°34.86′ N. lat., 125°02.11′ W. long.;

(61) 47°31.64′ N. lat., 124°58.11′ W. long.;

(62) 47°29.69′ N. lat., 124°55.71′ W. long.;

(63) 47°29.35′ N. lat., 124°53.23′ W. long.;

(64) 47°28.56′ N. lat., 124°51.34′ W. long.;

(65) 47°25.31′ N. lat., 124°48.20′ W. long.;

(66) 47°23.92′ N. lat., 124°47.15′ W. long.;

(67) 47°18.09′ N. lat., 124°45.74′ W. long.;

(68) 47°18.65′ N. lat., 124°51.51′ W. long.;

(69) 47°18.12′ N. lat., 124°52.58′ W. long.;

(70) 47°17.64′ N. lat., 124°50.45′ W. long.;

(71) 47°16.31′ N. lat., 124°50.92′ W. long.;

(72) 47°15.60′ N. lat., 124°52.62′ W. long.;

(73) 47°14.25′ N. lat., 124°52.49′ W. long.;

(74) 47°11.32′ N. lat., 124°57.19′ W. long.;

(75) 47°09.14′ N. lat., 124°57.46′ W. long.;

(76) 47°08.83′ N. lat., 124°58.47′ W. long.;

(77) 47°05.88′ N. lat., 124°58.26′ W. long.;

(78) 47°03.60′ N. lat., 124°55.84′ W. long.;

(79) 47°02.91′ N. lat., 124°56.15′ W. long.;

(80) 47°01.08′ N. lat., 124°59.46′ W. long.;

(81) 46°58.13′ N. lat., 124°58.83′ W. long.;

(82) 46°57.44′ N. lat., 124°57.78′ W. long.;

(83) 46°55.98′ N. lat., 124°54.60′ W. long.;

(84) 46°54.90′ N. lat., 124°54.14′ W. long.;

(85) 46°58.47′ N. lat., 124°49.65′ W. long.;

(86) 46°54.44′ N. lat., 124°48.79′ W. long.;

(87) 46°54.41′ N. lat., 124°52.87′ W. long.;

(88) 46°49.36′ N. lat., 124°52.77′ W. long.;

(89) 46°40.06′ N. lat., 124°45.34′ W. long.;

(90) 46°39.64′ N. lat., 124°42.21′ W. long.;

(91) 46°34.27′ N. lat., 124°34.63′ W. long.;

(92) 46°33.58′ N. lat., 124°29.10′ W. long.;

(93) 46°25.64′ N. lat., 124°32.57′ W. long.;

(94) 46°21.33′ N. lat., 124°36.36′ W. long.;

(95) 46°20.59′ N. lat., 124°36.15′ W. long.;

(96) 46°19.38′ N. lat., 124°38.21′ W. long.;

(97) 46°17.94′ N. lat., 124°38.10′ W. long.;

(98) 46°16.00′ N. lat., 124°35.35′ W. long.;

(99) 46°16.00′ N. lat., 124°22.17′ W. long.;

(100) 46°13.37′ N. lat., 124°30.70′ W. long.;

(101) 46°12.20′ N. lat., 124°36.04′ W. long.;

(102) 46°11.01′ N. lat., 124°38.68′ W. long.;

(103) 46°09.73′ N. lat., 124°39.91′ W. long.;

(104) 46°03.23′ N. lat., 124°42.03′ W. long.;

(105) 46°01.17′ N. lat., 124°42.06′ W. long.;

(106) 46°00.35′ N. lat., 124°42.26′ W. long.;

(107) 45°52.81′ N. lat., 124°41.62′ W. long.;

(108) 45°49.70′ N. lat., 124°41.14′ W. long.;

(109) 45°45.18′ N. lat., 124°38.39′ W. long.;

(110) 45°43.24′ N. lat., 124°37.77′ W. long.;

(111) 45°34.75′ N. lat., 124°28.59′ W. long.;

(112) 45°19.90′ N. lat., 124°21.34′ W. long.;

(113) 45°12.44′ N. lat., 124°19.35′ W. long.;

(114) 45°07.48′ N. lat., 124°19.73′ W. long.;

(115) 44°59.96′ N. lat., 124°22.91′ W. long.;

(116) 44°54.72′ N. lat., 124°26.84′ W. long.;

(117) 44°51.15′ N. lat., 124°31.41′ W. long.;

(118) 44°49.97′ N. lat., 124°32.37′ W. long.;

(119) 44°47.06′ N. lat., 124°34.43′ W. long.;

(120) 44°41.37′ N. lat., 124°36.51′ W. long.;

(121) 44°32.78′ N. lat., 124°37.86′ W. long.;

(122) 44°29.44′ N. lat., 124°44.25′ W. long.;

(123) 44°27.95′ N. lat., 124°45.13′ W. long.;

(124) 44°24.73′ N. lat., 124°47.42′ W. long.;

(125) 44°19.67′ N. lat., 124°51.17′ W. long.;

(126) 44°17.96′ N. lat., 124°52.53′ W. long.;

(127) 44°13.70′ N. lat., 124°56.45′ W. long.;

(128) 44°12.26′ N. lat., 124°57.53′ W. long.;

(129) 44°07.57′ N. lat., 124°57.19′ W. long.;

(130) 44°04.78′ N. lat., 124°56.31′ W. long.;

(131) 44°01.14′ N. lat., 124°56.07′ W. long.;

(132) 43°57.39′ N. lat., 124°57.01′ W. long.;

(133) 43°54.58′ N. lat., 124°52.18′ W. long.;

(134) 43°53.18′ N. lat., 124°47.41′ W. long.;

(135) 43°53.60′ N. lat., 124°37.45′ W. long.;

(136) 43°53.04′ N. lat., 124°36.00′ W. long.;

(137) 43°47.93′ N. lat., 124°35.18′ W. long.;

(138) 43°39.32′ N. lat., 124°35.14′ W. long.;

(139) 43°32.38′ N. lat., 124°35.26′ W. long.;

(140) 43°30.32′ N. lat., 124°36.79′ W. long.;

(141) 43°27.81′ N. lat., 124°36.42′ W. long.;

(142) 43°23.73′ N. lat., 124°39.66′ W. long.;

(143) 43°17.78′ N. lat., 124°42.84′ W. long.;

(144) 43°10.48′ N. lat., 124°43.54′ W. long.;

(145) 43°04.77′ N. lat., 124°45.51′ W. long.;

(146) 43°05.94′ N. lat., 124°49.77′ W. long.;

(147) 43°03.38′ N. lat., 124°51.86′ W. long.;

(148) 42°59.32′ N. lat., 124°51.93′ W. long.;

(149) 42°56.80′ N. lat., 124°53.38′ W. long.;

(150) 42°54.54′ N. lat., 124°52.72′ W. long.;

(151) 42°52.89′ N. lat., 124°47.45′ W. long.;

(152) 42°48.10′ N. lat., 124°46.75′ W. long.;

(153) 42°46.34′ N. lat., 124°43.53′ W. long.;

(154) 42°41.66′ N. lat., 124°42.70′ W. long.;

(155) 42°32.53′ N. lat., 124°42.77′ W. long.;

(156) 42°29.74′ N. lat., 124°43.81′ W. long.;

(157) 42°28.07′ N. lat., 124°47.65′ W. long.;

(158) 42°21.58′ N. lat., 124°41.41′ W. long.;

(159) 42°15.17′ N. lat., 124°36.25′ W. long.;

(160) 42°08.28′ N. lat., 124°36.08′ W. long.;

(161) 42°00.00′ N. lat., 124°35.46′ W. long.;

(162) 42°00.00′ N. lat., 124°35.45′ W. long.;

(163) 41°47.67′ N. lat., 124°28.67′ W. long.;

(164) 41°32.91′ N. lat., 124°29.01′ W. long.;

(165) 41°22.57′ N. lat., 124°28.66′ W. long.;

(166) 41°13.38′ N. lat., 124°22.88′ W. long.;

(167) 41°06.42′ N. lat., 124°22.02′ W. long.;

(168) 40°50.19′ N. lat., 124°25.58′ W. long.;

(169) 40°44.08′ N. lat., 124°30.43′ W. long.;

(170) 40°40.54′ N. lat., 124°31.75′ W. long.;

(171) 40°37.36′ N. lat., 124°29.17′ W. long.;

(172) 40°35.30′ N. lat., 124°30.03′ W. long.;

(173) 40°37.02′ N. lat., 124°37.10′ W. long.;

(174) 40°35.82′ N. lat., 124°39.58′ W. long.;

(175) 40°31.70′ N. lat., 124°39.97′ W. long.;

(176) 40°29.71′ N. lat., 124°38.08′ W. long.;

(177) 40°24.77′ N. lat., 124°35.39′ W. long.;

(178) 40°23.22′ N. lat., 124°31.87′ W. long.;

(179) 40°23.40′ N. lat., 124°28.65′ W. long.;

(180) 40°22.30′ N. lat., 124°25.27′ W. long.;

(181) 40°21.91′ N. lat., 124°25.18′ W. long.;

(182) 40°21.91′ N. lat., 124°27.97′ W. long.;

(183) 40°21.37′ N. lat., 124°29.03′ W. long.;

(184) 40°19.74′ N. lat., 124°28.71′ W. long.;

(185) 40°18.52′ N. lat., 124°27.26′ W. long.;

(186) 40°17.57′ N. lat., 124°25.49′ W. long.;

(187) 40°18.20′ N. lat., 124°23.63′ W. long.;

(188) 40°15.89′ N. lat., 124°26.00′ W. long.;

(189) 40°17.00′ N. lat., 124°35.01′ W. long.;

(190) 40°15.97′ N. lat., 124°35.91′ W. long.;

(191) 40°10.01′ N. lat., 124°22.00′ W. long.;

(192) 40°07.35′ N. lat., 124°18.64′ W. long.;

(193) 40°08.46′ N. lat., 124°16.24′ W. long.;

(194) 40°06.26′ N. lat., 124°17.54′ W. long.;

(195) 40°03.26′ N. lat., 124°15.30′ W. long.;

(196) 40°02.00′ N. lat., 124°12.97′ W. long.;

(197) 40°02.60′ N. lat., 124°10.61′ W. long.;

(198) 40°03.63′ N. lat., 124°09.12′ W. long.;

(199) 40°02.18′ N. lat., 124°09.07′ W. long.;

(200) 40°01.26′ N. lat., 124°09.86′ W. long.;

(201) 39°58.05′ N. lat., 124°11.87′ W. long.;

(202) 39°56.39′ N. lat., 124°08.70′ W. long.;

(203) 39°54.64′ N. lat., 124°07.31′ W. long.;

(204) 39°53.87′ N. lat., 124°07.95′ W. long.;

(205) 39°52.42′ N. lat., 124°08.18′ W. long.;

(206) 39°42.50′ N. lat., 124°00.60′ W. long.;

(207) 39°34.23′ N. lat., 123°56.82′ W. long.;

(208) 39°33.00′ N. lat., 123°56.44′ W. long.;

(209) 39°30.96′ N. lat., 123°56.00′ W. long.;

(210) 39°32.03′ N. lat., 123°57.44′ W. long.;

(211) 39°31.43′ N. lat., 123°58.16′ W. long.;

(212) 39°05.56′ N. lat., 123°57.24′ W. long.;

(213) 39°01.75′ N. lat., 123°56.83′ W. long.;

(214) 38°59.52′ N. lat., 123°55.95′ W. long.;

(215) 38°58.98′ N. lat., 123°56.57′ W. long.;

(216) 38°53.91′ N. lat., 123°56.00′ W. long.;

(217) 38°42.57′ N. lat., 123°46.60′ W. long.;

(218) 38°28.72′ N. lat., 123°35.61′ W. long.;

(219) 38°28.01′ N. lat., 123°36.47′ W. long.;

(220) 38°20.94′ N. lat., 123°31.26′ W. long.;

(221) 38°15.94′ N. lat., 123°25.33′ W. long.;

(222) 38°10.95′ N. lat., 123°23.19′ W. long.;

(223) 38°05.52′ N. lat., 123°22.90′ W. long.;

(224) 38°08.46′ N. lat., 123°26.23′ W. long.;

(225) 38°06.95′ N. lat., 123°28.03′ W. long.;

(226) 38°06.34′ N. lat., 123°29.80′ W. long.;

(227) 38°04.57′ N. lat., 123°31.24′ W. long.;

(228) 38°02.33′ N. lat., 123°31.02′ W. long.;

(229) 38°00.00′ N. lat., 123°28.23′ W. long.;

(230) 37°58.10′ N. lat., 123°26.69′ W. long.;

(231) 37°55.46′ N. lat., 123°27.05′ W. long.;

(232) 37°51.51′ N. lat., 123°24.86′ W. long.;

(233) 37°45.01′ N. lat., 123°12.09′ W. long.;

(234) 37°36.47′ N. lat., 123°01.56′ W. long.;

(235) 37°26.62′ N. lat., 122°56.21′ W. long.;

(236) 37°14.41′ N. lat., 122°49.07′ W. long.;

(237) 37°03.19′ N. lat., 122°38.31′ W. long.;

(238) 37°00.99′ N. lat., 122°35.51′ W. long.;

(239) 36°58.23′ N. lat., 122°27.36′ W. long.;

(240) 37°00.54′ N. lat., 122°24.74′ W. long.;

(241) 36°57.81′ N. lat., 122°24.65′ W. long.;

(242) 36°58.54′ N. lat., 122°21.67′ W. long.;

(243) 36°56.52′ N. lat., 122°21.70′ W. long.;

(244) 36°55.37′ N. lat., 122°18.45′ W. long.;

(245) 36°52.16′ N. lat., 122°12.17′ W. long.;

(246) 36°51.53′ N. lat., 122°10.67′ W. long.;

(247) 36°48.05′ N. lat., 122°07.59′ W. long.;

(248) 36°47.35′ N. lat., 122°03.27′ W. long.;

(249) 36°50.71′ N. lat., 121°58.17′ W. long.;

(250) 36°48.89′ N. lat., 121°58.90′ W. long.;

(251) 36°47.70′ N. lat., 121°58.76′ W. long.;

(252) 36°48.37′ N. lat., 121°51.15′ W. long.;

(253) 36°45.74′ N. lat., 121°54.18′ W. long.;

(254) 36°45.50′ N. lat., 121°57.73′ W. long.;

(255) 36°44.02′ N. lat., 121°58.55′ W. long.;

(256) 36°38.84′ N. lat., 122°01.32′ W. long.;

(257) 36°35.63′ N. lat., 122°00.98′ W. long.;

(258) 36°32.47′ N. lat., 121°59.17′ W. long.;

(259) 36°32.52′ N. lat., 121°57.62′ W. long.;

(260) 36°30.16′ N. lat., 122°00.55′ W. long.;

(261) 36°24.56′ N. lat., 121°59.19′ W. long.;

(262) 36°22.19′ N. lat., 122°00.30′ W. long.;

(263) 36°20.62′ N. lat., 122°02.93′ W. long.;

(264) 36°18.89′ N. lat., 122°05.18′ W. long.;

(265) 36°14.45′ N. lat., 121°59.44′ W. long.;

(266) 36°13.73′ N. lat., 121°57.38′ W. long.;

(267) 36°14.41′ N. lat., 121°55.45′ W. long.;

(268) 36°10.25′ N. lat., 121°43.08′ W. long.;

(269) 36°07.67′ N. lat., 121°40.92′ W. long.;

(270) 36°02.51′ N. lat., 121°36.76′ W. long.;

(271) 36°01.08′ N. lat., 121°36.82′ W. long.;

(272) 35°57.84′ N. lat., 121°33.10′ W. long.;

(273) 35°45.57′ N. lat., 121°27.26′ W. long.;

(274) 35°39.02′ N. lat., 121°22.86′ W. long.;

(275) 35°25.92′ N. lat., 121°05.52′ W. long.;

(276) 35°16.26′ N. lat., 121°01.50′ W. long.;

(277) 35°07.60′ N. lat., 120°56.49′ W. long.;

(278) 34°57.77′ N. lat., 120°53.87′ W. long.;

(279) 34°42.30′ N. lat., 120°53.42′ W. long.;

(280) 34°37.69′ N. lat., 120°50.04′ W. long.;

(281) 34°30.13′ N. lat., 120°44.45′ W. long.;

(282) 34°27.00′ N. lat., 120°39.24′ W. long.;

(283) 34°24.71′ N. lat., 120°35.37′ W. long.;

(284) 34°21.63′ N. lat., 120°24.86′ W. long.;

(285) 34°24.39′ N. lat., 120°16.65′ W. long.;

(286) 34°22.48′ N. lat., 119°56.42′ W. long.;

(287) 34°18.54′ N. lat., 119°46.26′ W. long.;

(288) 34°16.37′ N. lat., 119°45.12′ W. long.;

(289) 34°15.91′ N. lat., 119°47.29′ W. long.;

(290) 34°13.80′ N. lat., 119°45.40′ W. long.;

(291) 34°11.69′ N. lat., 119°41.80′ W. long.;

(292) 34°09.98′ N. lat., 119°31.87′ W. long.;

(293) 34°08.12′ N. lat., 119°27.71′ W. long.;

(294) 34°06.35′ N. lat., 119°32.65′ W. long.;

(295) 34°06.80′ N. lat., 119°40.08′ W. long.;

(296) 34°07.48′ N. lat., 119°47.54′ W. long.;

(297) 34°08.21′ N. lat., 119°54.90′ W. long.;

(298) 34°06.85′ N. lat., 120°05.60′ W. long.;

(299) 34°06.99′ N. lat., 120°10.37′ W. long.;

(300) 34°08.53′ N. lat., 120°17.89′ W. long.;

(301) 34°10.00′ N. lat., 120°23.05′ W. long.;

(302) 34°12.53′ N. lat., 120°29.82′ W. long.;

(303) 34°09.02′ N. lat., 120°37.47′ W. long.;

(304) 34°01.01′ N. lat., 120°31.17′ W. long.;

(305) 33°58.07′ N. lat., 120°28.33′ W. long.;

(306) 33°53.37′ N. lat., 120°14.43′ W. long.;

(307) 33°50.53′ N. lat., 120°07.20′ W. long.;

(308) 33°45.88′ N. lat., 120°04.26′ W. long.;

(309) 33°38.19′ N. lat., 119°57.85′ W. long.;

(310) 33°38.19′ N. lat., 119°50.42′ W. long.;

(311) 33°42.36′ N. lat., 119°49.60′ W. long.;

(312) 33°53.95′ N. lat., 119°53.81′ W. long.;

(313) 33°55.85′ N. lat., 119°43.34′ W. long.;

(314) 33°58.48′ N. lat., 119°27.90′ W. long.;

(315) 34°00.34′ N. lat., 119°19.22′ W. long.;

(316) 34°04.48′ N. lat., 119°15.32′ W. long.;

(317) 34°02.80′ N. lat., 119°12.95′ W. long.;

(318) 34°02.39′ N. lat., 119°07.17′ W. long.;

(319) 34°03.75′ N. lat., 119°04.72′ W. long.;

(320) 34°01.82′ N. lat., 119°03.24′ W. long.;

(321) 33°59.33′ N. lat., 119°03.49′ W. long.;

(322) 33°59.01′ N. lat., 118°59.56′ W. long.;

(323) 33°59.51′ N. lat., 118°57.25′ W. long.;

(324) 33°58.83′ N. lat., 118°52.50′ W. long.;

(325) 33°58.55′ N. lat., 118°41.86′ W. long.;

(326) 33°55.10′ N. lat., 118°34.25′ W. long.;

(327) 33°54.30′ N. lat., 118°38.71′ W. long.;

(328) 33°50.88′ N. lat., 118°37.02′ W. long.;

(329) 33°39.78′ N. lat., 118°18.40′ W. long.;

(330) 33°35.50′ N. lat., 118°16.85′ W. long.;

(331) 33°32.46′ N. lat., 118°10.90′ W. long.;

(332) 33°34.11′ N. lat., 117°54.07′ W. long.;

(333) 33°31.61′ N. lat., 117°49.30′ W. long.;

(334) 33°16.36′ N. lat., 117°35.48′ W. long.;

(335) 33°06.81′ N. lat., 117°22.93′ W. long.;

(336) 32°59.28′ N. lat., 117°19.69′ W. long.;

(337) 32°55.37′ N. lat., 117°19.55′ W. long.;

(338) 32°53.35′ N. lat., 117°17.05′ W. long.;

(339) 32°53.36′ N. lat., 117°19.12′ W. long.;

(340) 32°46.42′ N. lat., 117°23.45′ W. long.;

(341) 32°42.71′ N. lat., 117°21.45′ W. long.; and

(342) 32°34.54′ N. lat., 117°23.04′ W. long.

(A) The 125-fm (229-m) depth contour around San Clemente Island off the State of California is defined by straight lines connecting all of the following points in the order stated:

(1) 33°04.73′ N. lat., 118°37.99′ W. long.;

(2) 33°02.67′ N. lat., 118°34.07′ W. long.;

(3) 32°55.97′ N. lat., 118°28.95′ W. long.;

(4) 32°49.79′ N. lat., 118°20.89′ W. long.;

(5) 32°48.02′ N. lat., 118°19.49′ W. long.;

(6) 32°47.37′ N. lat., 118°21.72′ W. long.;

(7) 32°43.58′ N. lat., 118°24.54′ W. long.;

(8) 32°49.74′ N. lat., 118°32.11′ W. long.;

(9) 32°53.36′ N. lat., 118°33.44′ W. long.;

(10) 32°55.03′ N. lat., 118°34.64′ W. long.;

(11) 32°54.89′ N. lat., 118°35.37′ W. long.;

(12) 33°00.20′ N. lat., 118°38.72′ W. long.;

(13) 33°03.15′ N. lat., 118°39.80′ W. long.; and

(14) 33°04.73′ N. lat., 118°37.99′ W. long.

(B) The 125-fm (229-m) depth contour around Santa Catalina Island off the State of California is defined by straight lines connecting all of the following points in the order stated:

(1) 33°28.42′ N. lat., 118°39.85′ W. long.;

(2) 33°29.99′ N. lat., 118°36.14′ W. long.;

(3) 33°29.47′ N. lat., 118°33.66′ W. long.;

(4) 33°29.31′ N. lat., 118°30.53′ W. long.;

(5) 33°27.24′ N. lat., 118°27.71′ W. long.;

(6) 33°25.77′ N. lat., 118°22.57′ W. long.;

(7) 33°23.76′ N. lat., 118°19.27′ W. long.;

(8) 33°17.61′ N. lat., 118°13.61′ W. long.;

(9) 33°16.16′ N. lat., 118°13.98′ W. long.;

(10) 33°15.86′ N. lat., 118°15.27′ W. long.;

(11) 33°18.11′ N. lat., 118°27.96′ W. long.;

(12) 33°19.83′ N. lat., 118°32.16′ W. long.;

(13) 33°20.81′ N. lat., 118°32.94′ W. long.;

(14) 33°21.99′ N. lat., 118°32.04′ W. long.;

(15) 33°23.09′ N. lat., 118°30.37′ W. long.;

(16) 33°24.78′ N. lat., 118°32.46′ W. long.;

(17) 33°25.43′ N. lat., 118°34.93′ W. long.; and

(18) 33°28.42′ N. lat., 118°39.85′ W. long.

(C) The 125-fm (229-m) depth contour around Lasuen Knoll off the State of California is defined by straight lines connecting all of the following points in the order stated:

(1) 33°24.57′ N. lat., 118°00.15′ W. long.;

(2) 33°23.42′ N. lat., 117°59.43′ W. long.;

(3) 33°23.69′ N. lat., 117°58.72′ W. long.;

(4) 33°24.72′ N. lat., 117°59.51′ W. long.; and

(5) 33°24.57′ N. lat., 118°00.15′ W. long.

(ix) The 150-fm (274-m) depth contour used between the U.S. border with Canada and the U.S. border with Mexico is defined by straight lines connecting all of the following points in the order stated:

(1) 48°14.96′ N. lat., 125°41.24′ W. long.;

(2) 48°12.89′ N. lat., 125°37.83′ W. long.;

(3) 48°11.49′ N. lat., 125°39.27′ W. long.;

(4) 48°08.72′ N. lat., 125°41.84′ W. long.;

(5) 48°07.00′ N. lat., 125°45.00′ W. long.;

(6) 48°06.13′ N. lat., 125°41.57′ W. long.;

(7) 48°05.00′ N. lat., 125°39.00′ W. long.;

(8) 48°04.15′ N. lat., 125°36.71′ W. long.;

(9) 48°03.00′ N. lat., 125°36.00′ W. long.;

(10) 48°01.65′ N. lat., 125°36.96′ W. long.;

(11) 48°01.00′ N. lat., 125°38.50′ W. long.;

(12) 47°57.50′ N. lat., 125°36.50′ W. long.;

(13) 47°54.50′ N. lat., 125°35.00′ W. long.;

(14) 47°56.53′ N. lat., 125°30.33′ W. long.;

(15) 47°57.28′ N. lat., 125°27.89′ W. long.;

(16) 47°59.00′ N. lat., 125°25.50′ W. long.;

(17) 48°01.77′ N. lat., 125°24.05′ W. long.;

(18) 48°02.13′ N. lat., 125°22.80′ W. long.;

(19) 48°03.00′ N. lat., 125°22.50′ W. long.;

(20) 48°03.46′ N. lat., 125°22.10′ W. long.;

(21) 48°04.29′ N. lat., 125°20.37′ W. long.;

(22) 48°02.00′ N. lat., 125°18.50′ W. long.;

(23) 48°00.01′ N. lat., 125°19.90′ W. long.;

(24) 47°58.75′ N. lat., 125°17.54′ W. long.;

(25) 47°53.50′ N. lat., 125°13.50′ W. long.;

(26) 47°48.88′ N. lat., 125°05.91′ W. long.;

(27) 47°47.18′ N. lat., 125°06.60′ W. long.;

(28) 47°48.50′ N. lat., 125°05.00′ W. long.;

(29) 47°45.98′ N. lat., 125°04.26′ W. long.;

(30) 47°45.00′ N. lat., 125°05.50′ W. long.;

(31) 47°42.11′ N. lat., 125°04.74′ W. long.;

(32) 47°39.00′ N. lat., 125°06.00′ W. long.;

(33) 47°35.53′ N. lat., 125°04.55′ W. long.;

(34) 47°30.90′ N. lat., 124°57.31′ W. long.;

(35) 47°29.54′ N. lat., 124°56.50′ W. long.;

(36) 47°29.50′ N. lat., 124°54.50′ W. long.;

(37) 47°28.57′ N. lat., 124°51.50′ W. long.;

(38) 47°25.00′ N. lat., 124°48.00′ W. long.;

(39) 47°23.95′ N. lat., 124°47.24′ W. long.;

(40) 47°23.00′ N. lat., 124°47.00′ W. long.;

(41) 47°21.00′ N. lat., 124°46.50′ W. long.;

(42) 47°18.20′ N. lat., 124°45.84′ W. long.;

(43) 47°18.50′ N. lat., 124°49.00′ W. long.;

(44) 47°19.17′ N. lat., 124°50.86′ W. long.;

(45) 47°18.07′ N. lat., 124°53.29′ W. long.;

(46) 47°17.78′ N. lat., 124°51.39′ W. long.;

(47) 47°16.81′ N. lat., 124°50.85′ W. long.;

(48) 47°15.96′ N. lat., 124°53.15′ W. long.;

(49) 47°14.31′ N. lat., 124°52.62′ W. long.;

(50) 47°11.87′ N. lat., 124°56.90′ W. long.;

(51) 47°12.39′ N. lat., 124°58.09′ W. long.;

(52) 47°09.50′ N. lat., 124°57.50′ W. long.;

(53) 47°09.00′ N. lat., 124°59.00′ W. long.;

(54) 47°06.06′ N. lat., 124°58.80′ W. long.;

(55) 47°03.62′ N. lat., 124°55.96′ W. long.;

(56) 47°02.89′ N. lat., 124°56.89′ W. long.;

(57) 47°01.04′ N. lat., 124°59.54′ W. long.;

(58) 46°58.47′ N. lat., 124°59.08′ W. long.;

(59) 46°58.29′ N. lat., 125°00.28′ W. long.;

(60) 46°56.30′ N. lat., 125°00.75′ W. long.;

(61) 46°57.09′ N. lat., 124°58.86′ W. long.;

(62) 46°55.95′ N. lat., 124°54.88′ W. long.;

(63) 46°54.79′ N. lat., 124°54.14′ W. long.;

(64) 46°58.00′ N. lat., 124°50.00′ W. long.;

(65) 46°54.50′ N. lat., 124°49.00′ W. long.;

(66) 46°54.53′ N. lat., 124°52.94′ W. long.;

(67) 46°49.52′ N. lat., 124°53.41′ W. long.;

(68) 46°39.50′ N. lat., 124°47.00′ W. long.;

(69) 46°39.50′ N. lat., 124°42.50′ W. long.;

(70) 46°37.50′ N. lat., 124°41.00′ W. long.;

(71) 46°36.50′ N. lat., 124°38.00′ W. long.;

(72) 46°33.85′ N. lat., 124°36.99′ W. long.;

(73) 46°33.50′ N. lat., 124°29.50′ W. long.;

(74) 46°32.00′ N. lat., 124°31.00′ W. long.;

(75) 46°30.53′ N. lat., 124°30.55′ W. long.;

(76) 46°25.50′ N. lat., 124°33.00′ W. long.;

(77) 46°23.00′ N. lat., 124°35.00′ W. long.;

(78) 46°21.50′ N. lat., 124°37.00′ W. long.;

(79) 46°20.64′ N. lat., 124°36.21′ W. long.;

(80) 46°20.36′ N. lat., 124°37.85′ W. long.;

(81) 46°19.48′ N. lat., 124°38.35′ W. long.;

(82) 46°18.09′ N. lat., 124°38.30′ W. long.;

(83) 46°16.00′ N. lat., 124°36.00′ W. long.;

(84) 46°14.87′ N. lat., 124°26.15′ W. long.;

(85) 46°13.38′ N. lat., 124°31.36′ W. long.;

(86) 46°12.09′ N. lat., 124°38.39′ W. long.;

(87) 46°09.46′ N. lat., 124°40.64′ W. long.;

(88) 46°07.30′ N. lat., 124°40.68′ W. long.;

(89) 46°02.76′ N. lat., 124°44.01′ W. long.;

(90) 46°02.64′ N. lat., 124°47.96′ W. long.;

(91) 46°01.22′ N. lat., 124°43.47′ W. long.;

(92) 45°51.82′ N. lat., 124°42.89′ W. long.;

(93) 45°45.95′ N. lat., 124°40.72′ W. long.;

(94) 45°44.11′ N. lat., 124°43.09′ W. long.;

(95) 45°34.50′ N. lat., 124°30.27′ W. long.;

(96) 45°21.10′ N. lat., 124°23.11′ W. long.;

(97) 45°09.69′ N. lat., 124°20.45′ W. long.;

(98) 44°56.25′ N. lat., 124°27.03′ W. long.;

(99) 44°44.47′ N. lat., 124°37.85′ W. long.;

(100) 44°31.81′ N. lat., 124°39.60′ W. long.;

(101) 44°31.48′ N. lat., 124°43.30′ W. long.;

(102) 44°12.04′ N. lat., 124°58.16′ W. long.;

(103) 44°07.38′ N. lat., 124°57.87′ W. long.;

(104) 43°57.06′ N. lat., 124°57.20′ W. long.;

(105) 43°52.52′ N. lat., 124°49.00′ W. long.;

(106) 43°51.55′ N. lat., 124°37.49′ W. long.;

(107) 43°47.83′ N. lat., 124°36.43′ W. long.;

(108) 43°31.79′ N. lat., 124°36.80′ W. long.;

(109) 43°29.34′ N. lat., 124°36.77′ W. long.;

(110) 43°26.46′ N. lat., 124°40.02′ W. long.;

(111) 43°16.15′ N. lat., 124°44.37′ W. long.;

(112) 43°09.33′ N. lat., 124°45.35′ W. long.;

(113) 43°08.85′ N. lat., 124°48.92′ W. long.;

(114) 43°03.23′ N. lat., 124°52.41′ W. long.;

(115) 43°00.25′ N. lat., 124°51.93′ W. long.;

(116) 42°56.62′ N. lat., 124°53.93′ W. long.;

(117) 42°54.84′ N. lat., 124°54.01′ W. long.;

(118) 42°52.31′ N. lat., 124°50.76′ W. long.;

(119) 42°47.78′ N. lat., 124°47.27′ W. long.;

(120) 42°46.32′ N. lat., 124°43.59′ W. long.;

(121) 42°41.63′ N. lat., 124°44.07′ W. long.;

(122) 42°38.83′ N. lat., 124°42.77′ W. long.;

(123) 42°35.37′ N. lat., 124°43.22′ W. long.;

(124) 42°32.78′ N. lat., 124°44.68′ W. long.;

(125) 42°32.19′ N. lat., 124°42.40′ W. long.;

(126) 42°30.28′ N. lat., 124°44.30′ W. long.;

(127) 42°28.16′ N. lat., 124°48.38′ W. long.;

(128) 42°18.34′ N. lat., 124°38.77′ W. long.;

(129) 42°13.65′ N. lat., 124°36.82′ W. long.;

(130) 42°00.15′ N. lat., 124°35.81′ W. long.;

(131) 42°00.00′ N. lat., 124°35.99′ W. long.;

(132) 41°47.80′ N. lat., 124°29.41′ W. long.;

(133) 41°23.51′ N. lat., 124°29.50′ W. long.;

(134) 41°13.29′ N. lat., 124°23.31′ W. long.;

(135) 41°06.23′ N. lat., 124°22.62′ W. long.;

(136) 40°55.60′ N. lat., 124°26.04′ W. long.;

(137) 40°49.62′ N. lat., 124°26.57′ W. long.;

(138) 40°45.72′ N. lat., 124°30.00′ W. long.;

(139) 40°40.56′ N. lat., 124°32.11′ W. long.;

(140) 40°37.33′ N. lat., 124°29.27′ W. long.;

(141) 40°35.60′ N. lat., 124°30.49′ W. long.;

(142) 40°37.38′ N. lat., 124°37.14′ W. long.;

(143) 40°36.03′ N. lat., 124°39.97′ W. long.;

(144) 40°31.59′ N. lat., 124°40.74′ W. long.;

(145) 40°29.76′ N. lat., 124°38.13′ W. long.;

(146) 40°28.22′ N. lat., 124°37.23′ W. long.;

(147) 40°24.86′ N. lat., 124°35.71′ W. long.;

(148) 40°23.01′ N. lat., 124°31.94′ W. long.;

(149) 40°23.39′ N. lat., 124°28.64′ W. long.;

(150) 40°22.29′ N. lat., 124°25.25′ W. long.;

(151) 40°21.90′ N. lat., 124°25.18′ W. long.;

(152) 40°22.02′ N. lat., 124°28.00′ W. long.;

(153) 40°21.34′ N. lat., 124°29.53′ W. long.;

(154) 40°19.74′ N. lat., 124°28.95′ W. long.;

(155) 40°18.13′ N. lat., 124°27.08′ W. long.;

(156) 40°17.45′ N. lat., 124°25.53′ W. long.;

(157) 40°17.97′ N. lat., 124°24.12′ W. long.;

(158) 40°15.96′ N. lat., 124°26.05′ W. long.;

(159) 40°17.00′ N. lat., 124°35.01′ W. long.;

(160) 40°15.97′ N. lat., 124°35.90′ W. long.;

(161) 40°10.00′ N. lat., 124°22.96′ W. long.;

(162) 40°07.00′ N. lat., 124°19.00′ W. long.;

(163) 40°08.10′ N. lat., 124°16.70′ W. long.;

(164) 40°05.90′ N. lat., 124°17.77′ W. long.;

(165) 40°02.99′ N. lat., 124°15.55′ W. long.;

(166) 40°02.00′ N. lat., 124°12.97′ W. long.;

(167) 40°02.60′ N. lat., 124°10.61′ W. long.;

(168) 40°03.63′ N. lat., 124°09.12′ W. long.;

(169) 40°02.18′ N. lat., 124°09.07′ W. long.;

(170) 39°58.25′ N. lat., 124°12.56′ W. long.;

(171) 39°57.03′ N. lat., 124°11.34′ W. long.;

(172) 39°56.30′ N. lat., 124°08.96′ W. long.;

(173) 39°54.82′ N. lat., 124°07.66′ W. long.;

(174) 39°52.57′ N. lat., 124°08.55′ W. long.;

(175) 39°45.34′ N. lat., 124°03.30′ W. long.;

(176) 39°34.75′ N. lat., 123°58.50′ W. long.;

(177) 39°34.22′ N. lat., 123°56.82′ W. long.;

(178) 39°32.98′ N. lat., 123°56.43′ W. long.;

(179) 39°31.47′ N. lat., 123°58.73′ W. long.;

(180) 39°05.68′ N. lat., 123°57.81′ W. long.;

(181) 39°00.24′ N. lat., 123°56.74′ W. long.;

(182) 38°54.31′ N. lat., 123°56.73′ W. long.;

(183) 38°41.42′ N. lat., 123°46.75′ W. long.;

(184) 38°39.61′ N. lat., 123°46.48′ W. long.;

(185) 38°37.52′ N. lat., 123°43.78′ W. long.;

(186) 38°35.25′ N. lat., 123°42.00′ W. long.;

(187) 38°28.79′ N. lat., 123°37.07′ W. long.;

(188) 38°19.88′ N. lat., 123°32.54′ W. long.;

(189) 38°14.43′ N. lat., 123°25.56′ W. long.;

(190) 38°08.75′ N. lat., 123°24.48′ W. long.;

(191) 38°10.10′ N. lat., 123°27.20′ W. long.;

(192) 38°07.16′ N. lat., 123°28.18′ W. long.;

(193) 38°06.42′ N. lat., 123°30.18′ W. long.;

(194) 38°04.28′ N. lat., 123°31.70′ W. long.;

(195) 38°01.88′ N. lat., 123°30.98′ W. long.;

(196) 38°00.75′ N. lat., 123°29.72′ W. long.;

(197) 38°00.00′ N. lat., 123°28.60′ W. long.;

(198) 37°58.23′ N. lat., 123°26.90′ W. long.;

(199) 37°55.32′ N. lat., 123°27.19′ W. long.;

(200) 37°51.47′ N. lat., 123°24.92′ W. long.;

(201) 37°44.47′ N. lat., 123°11.57′ W. long.;

(202) 37°36.33′ N. lat., 123°01.76′ W. long.;

(203) 37°15.16′ N. lat., 122°51.64′ W. long.;

(204) 37°01.68′ N. lat., 122°37.28′ W. long.;

(205) 36°59.70′ N. lat., 122°33.71′ W. long.;

(206) 36°58.00′ N. lat., 122°27.80′ W. long.;

(207) 37°00.25′ N. lat., 122°24.85′ W. long.;

(208) 36°57.50′ N. lat., 122°24.98′ W. long.;

(209) 36°58.38′ N. lat., 122°21.85′ W. long.;

(210) 36°55.85′ N. lat., 122°21.95′ W. long.;

(211) 36°52.02′ N. lat., 122°12.10′ W. long.;

(212) 36°47.63′ N. lat., 122°07.37′ W. long.;

(213) 36°47.26′ N. lat., 122°03.22′ W. long.;

(214) 36°50.34′ N. lat., 121°58.40′ W. long.;

(215) 36°48.83′ N. lat., 121°59.14′ W. long.;

(216) 36°44.81′ N. lat., 121°58.28′ W. long.;

(217) 36°39.00′ N. lat., 122°01.71′ W. long.;

(218) 36°29.60′ N. lat., 122°00.49′ W. long.;

(219) 36°23.43′ N. lat., 121°59.76′ W. long.;

(220) 36°18.90′ N. lat., 122°05.32′ W. long.;

(221) 36°15.38′ N. lat., 122°01.40′ W. long.;

(222) 36°13.79′ N. lat., 121°58.12′ W. long.;

(223) 36°10.12′ N. lat., 121°43.33′ W. long.;

(224) 36°02.57′ N. lat., 121°37.02′ W. long.;

(225) 36°01.01′ N. lat., 121°36.95′ W. long.;

(226) 35°57.74′ N. lat., 121°33.45′ W. long.;

(227) 35°51.32′ N. lat., 121°30.08′ W. long.;

(228) 35°45.84′ N. lat., 121°28.84′ W. long.;

(229) 35°38.94′ N. lat., 121°23.16′ W. long.;

(230) 35°26.00′ N. lat., 121°08.00′ W. long.;

(231) 35°07.42′ N. lat., 120°57.08′ W. long.;

(232) 34°42.76′ N. lat., 120°55.09′ W. long.;

(233) 34°37.75′ N. lat., 120°51.96′ W. long.;

(234) 34°29.29′ N. lat., 120°44.19′ W. long.;

(235) 34°27.00′ N. lat., 120°40.42′ W. long.;

(236) 34°21.89′ N. lat., 120°31.36′ W. long.;

(237) 34°20.79′ N. lat., 120°21.58′ W. long.;

(238) 34°23.97′ N. lat., 120°15.25′ W. long.;

(239) 34°22.11′ N. lat., 119°56.63′ W. long.;

(240) 34°19.00′ N. lat., 119°48.00′ W. long.;

(241) 34°15.00′ N. lat., 119°48.00′ W. long.;

(242) 34°08.00′ N. lat., 119°37.00′ W. long.;

(243) 34°08.39′ N. lat., 119°54.78′ W. long.;

(244) 34°07.10′ N. lat., 120°10.37′ W. long.;

(245) 34°10.08′ N. lat., 120°22.98′ W. long.;

(246) 34°13.16′ N. lat., 120°29.40′ W. long.;

(247) 34°09.41′ N. lat., 120°37.75′ W. long.;

(248) 34°03.15′ N. lat., 120°34.71′ W. long.;

(249) 33°57.09′ N. lat., 120°27.76′ W. long.;

(250) 33°51.00′ N. lat., 120°09.00′ W. long.;

(251) 33°38.16′ N. lat., 119°59.23′ W. long.;

(252) 33°37.04′ N. lat., 119°50.17′ W. long.;

(253) 33°42.28′ N. lat., 119°48.85′ W. long.;

(254) 33°53.96′ N. lat., 119°53.77′ W. long.;

(255) 33°59.94′ N. lat., 119°19.57′ W. long.;

(256) 34°03.12′ N. lat., 119°15.51′ W. long.;

(257) 34°01.97′ N. lat., 119°07.28′ W. long.;

(258) 34°03.60′ N. lat., 119°04.71′ W. long.;

(259) 33°59.30′ N. lat., 119°03.73′ W. long.;

(260) 33°58.87′ N. lat., 118°59.37′ W. long.;

(261) 33°58.08′ N. lat., 118°41.14′ W. long.;

(262) 33°50.93′ N. lat., 118°37.65′ W. long.;

(263) 33°39.54′ N. lat., 118°18.70′ W. long.;

(264) 33°35.42′ N. lat., 118°17.14′ W. long.;

(265) 33°32.15′ N. lat., 118°10.84′ W. long.;

(266) 33°33.71′ N. lat., 117°53.72′ W. long.;

(267) 33°31.17′ N. lat., 117°49.11′ W. long.;

(268) 33°16.53′ N. lat., 117°36.13′ W. long.;

(269) 33°06.77′ N. lat., 117°22.92′ W. long.;

(270) 32°58.94′ N. lat., 117°20.05′ W. long.;

(271) 32°55.83′ N. lat., 117°20.15′ W. long.;

(272) 32°46.29′ N. lat., 117°23.89′ W. long.;

(273) 32°42.00′ N. lat., 117°22.16′ W. long.;

(274) 32°39.47′ N. lat., 117°27.78′ W. long.; and

(275) 32°34.83′ N. lat., 117°24.69′ W. long.

(A) The 150-fm (274-m) depth contour used around San Clemente Island off the State of California is defined by straight lines connecting all of the following points in the order stated:

(1) 32°47.95′ N. lat., 118°19.31′ W. long.;

(2) 32°49.79′ N. lat., 118°20.82′ W. long.;

(3) 32°55.99′ N. lat., 118°28.80′ W. long.;

(4) 33°03.00′ N. lat., 118°34.00′ W. long.;

(5) 33°05.00′ N. lat., 118°38.00′ W. long.;

(6) 33°03.21′ N. lat., 118°39.85′ W. long.;

(7) 33°01.93′ N. lat., 118°39.85′ W. long.;

(8) 32°54.69′ N. lat., 118°35.45′ W. long.;

(9) 32°53.28′ N. lat., 118°33.58′ W. long.;

(10) 32°48.26′ N. lat., 118°31.62′ W. long.;

(11) 32°43.03′ N. lat., 118°24.21′ W. long.;

(12) 32°47.15′ N. lat., 118°21.53′ W. long.; and

(13) 32°47.95′ N. lat., 118°19.31′ W. long.

(B) The 150-fm (274-m) depth contour used around Santa Catalina Island off the State of California is defined by straight lines connecting all of the following points in the order stated:

(1) 33°17.24′ N. lat., 118°12.94′ W. long.;

(2) 33°23.60′ N. lat., 118°18.79′ W. long.;

(3) 33°26.00′ N. lat., 118°22.00′ W. long.;

(4) 33°27.57′ N. lat., 118°27.69′ W. long.;

(5) 33°29.78′ N. lat., 118°31.01′ W. long.;

(6) 33°30.46′ N. lat., 118°36.52′ W. long.;

(7) 33°28.65′ N. lat., 118°41.07′ W. long.;

(8) 33°23.23′ N. lat., 118°30.69′ W. long.;

(9) 33°20.97′ N. lat., 118°33.29′ W. long.;

(10) 33°19.81′ N. lat., 118°32.24′ W. long.;

(11) 33°18.00′ N. lat., 118°28.00′ W. long.;

(12) 33°15.62′ N. lat., 118°14.74′ W. long.;

(13) 33°16.00′ N. lat., 118°13.00′ W. long.; and

(14) 33°17.24′ N. lat., 118°12.94′ W. long.

(C) The 150-fm (274-m) depth contour used around Lasuen Knoll off the State of California is defined by straight lines connecting all of the following points in the order stated:

(1) 33°24.99′ N. lat., 117°59.32′ W. long.;

(2) 33°23.66′ N. lat., 117°58.28′ W. long.;

(3) 33°23.21′ N. lat., 117°59.55′ W. long.;

(4) 33°24.74′ N. lat., 118°00.61′ W. long.; and

(5) 33°24.99′ N. lat., 117°59.32′ W. long.

(x) The 180-fm (329-m) depth contour used between the U.S. border with Canada and the U.S. border with Mexico is defined by straight lines connecting all of the following points in the order stated:

(1) 48°14.82′ N. lat., 125°41.61′ W. long.;

(2) 48°12.86′ N. lat., 125°37.95′ W. long.;

(3) 48°11.28′ N. lat., 125°39.67′ W. long.;

(4) 48°10.13′ N. lat., 125°42.62′ W. long.;

(5) 48°08.86′ N. lat., 125°41.92′ W. long.;

(6) 48°08.15′ N. lat., 125°44.95′ W. long.;

(7) 48°07.18′ N. lat., 125°45.67′ W. long.;

(8) 48°05.79′ N. lat., 125°44.64′ W. long.;

(9) 48°06.04′ N. lat., 125°41.84′ W. long.;

(10) 48°04.26′ N. lat., 125°40.09′ W. long.;

(11) 48°04.18′ N. lat., 125°36.94′ W. long.;

(12) 48°03.02′ N. lat., 125°36.24′ W. long.;

(13) 48°01.75′ N. lat., 125°37.42′ W. long.;

(14) 48°01.39′ N. lat., 125°39.42′ W. long.;

(15) 47°57.08′ N. lat., 125°36.51′ W. long.;

(16) 47°55.20′ N. lat., 125°36.62′ W. long.;

(17) 47°54.33′ N. lat., 125°34.98′ W. long.;

(18) 47°54.73′ N. lat., 125°31.95′ W. long.;

(19) 47°56.39′ N. lat., 125°30.22′ W. long.;

(20) 47°55.86′ N. lat., 125°28.54′ W. long.;

(21) 47°58.07′ N. lat., 125°25.72′ W. long.;

(22) 48°00.81′ N. lat., 125°24.39′ W. long.;

(23) 48°01.81′ N. lat., 125°23.76′ W. long.;

(24) 48°02.16′ N. lat., 125°22.71′ W. long.;

(25) 48°03.46′ N. lat., 125°22.01′ W. long.;

(26) 48°04.21′ N. lat., 125°20.40′ W. long.;

(27) 48°03.15′ N. lat., 125°19.50′ W. long.;

(28) 48°01.92′ N. lat., 125°18.69′ W. long.;

(29) 48°00.85′ N. lat., 125°20.02′ W. long.;

(30) 48°00.12′ N. lat., 125°20.04′ W. long.;

(31) 47°58.18′ N. lat., 125°18.78′ W. long.;

(32) 47°58.24′ N. lat., 125°17.26′ W. long.;

(33) 47°52.47′ N. lat., 125°15.30′ W. long.;

(34) 47°52.13′ N. lat., 125°12.95′ W. long.;

(35) 47°50.60′ N. lat., 125°10.65′ W. long.;

(36) 47°49.39′ N. lat., 125°10.59′ W. long.;

(37) 47°48.74′ N. lat., 125°06.07′ W. long.;

(38) 47°47.03′ N. lat., 125°06.95′ W. long.;

(39) 47°47.46′ N. lat., 125°05.20′ W. long.;

(40) 47°45.88′ N. lat., 125°04.50′ W. long.;

(41) 47°44.51′ N. lat., 125°06.64′ W. long.;

(42) 47°42.22′ N. lat., 125°04.86′ W. long.;

(43) 47°38.49′ N. lat., 125°06.32′ W. long.;

(44) 47°34.93′ N. lat., 125°04.34′ W. long.;

(45) 47°30.85′ N. lat., 124°57.42′ W. long.;

(46) 47°28.80′ N. lat., 124°56.51′ W. long.;

(47) 47°29.25′ N. lat., 124°53.92′ W. long.;

(48) 47°28.29′ N. lat., 124°51.32′ W. long.;

(49) 47°24.04′ N. lat., 124°47.38′ W. long.;

(50) 47°18.24′ N. lat., 124°45.97′ W. long.;

(51) 47°19.36′ N. lat., 124°50.96′ W. long.;

(52) 47°18.07′ N. lat., 124°53.38′ W. long.;

(53) 47°17.73′ N. lat., 124°52.83′ W. long.;

(54) 47°17.77′ N. lat., 124°51.56′ W. long.;

(55) 47°16.84′ N. lat., 124°50.94′ W. long.;

(56) 47°16.01′ N. lat., 124°53.36′ W. long.;

(57) 47°14.32′ N. lat., 124°52.73′ W. long.;

(58) 47°11.97′ N. lat., 124°56.81′ W. long.;

(59) 47°12.93′ N. lat., 124°58.47′ W. long.;

(60) 47°09.43′ N. lat., 124°57.99′ W. long.;

(61) 47°09.36′ N. lat., 124°59.29′ W. long.;

(62) 47°05.88′ N. lat., 124°59.06′ W. long.;

(63) 47°03.64′ N. lat., 124°56.07′ W. long.;

(64) 47°01.00′ N. lat., 124°59.69′ W. long.;

(65) 46°58.72′ N. lat., 124°59.17′ W. long.;

(66) 46°58.30′ N. lat., 125°00.60′ W. long.;

(67) 46°55.61′ N. lat., 125°01.19′ W. long.;

(68) 46°56.96′ N. lat., 124°58.85′ W. long.;

(69) 46°55.91′ N. lat., 124°54.98′ W. long.;

(70) 46°54.55′ N. lat., 124°54.21′ W. long.;

(71) 46°56.80′ N. lat., 124°50.55′ W. long.;

(72) 46°54.87′ N. lat., 124°49.59′ W. long.;

(73) 46°54.63′ N. lat., 124°53.48′ W. long.;

(74) 46°52.33′ N. lat., 124°54.75′ W. long.;

(75) 46°45.12′ N. lat., 124°51.82′ W. long.;

(76) 46°39.20′ N. lat., 124°47.02′ W. long.;

(77) 46°33.45′ N. lat., 124°36.61′ W. long.;

(78) 46°33.37′ N. lat., 124°30.21′ W. long.;

(79) 46°31.67′ N. lat., 124°31.41′ W. long.;

(80) 46°27.87′ N. lat., 124°32.04′ W. long.;

(81) 46°21.01′ N. lat., 124°37.63′ W. long.;

(82) 46°18.58′ N. lat., 124°38.92′ W. long.;

(83) 46°16.00′ N. lat., 124°36.17′ W. long.;

(84) 46°15.97′ N. lat., 124°23.57′ W. long.;

(85) 46°12.85′ N. lat., 124°35.52′ W. long.;

(86) 46°12.27′ N. lat., 124°38.69′ W. long.;

(87) 46°08.71′ N. lat., 124°41.27′ W. long.;

(88) 46°05.79′ N. lat., 124°42.12′ W. long.;

(89) 46°02.84′ N. lat., 124°48.05′ W. long.;

(90) 46°02.41′ N. lat., 124°48.15′ W. long.;

(91) 45°58.96′ N. lat., 124°43.98′ W. long.;

(92) 45°47.05′ N. lat., 124°43.25′ W. long.;

(93) 45°44.00′ N. lat., 124°45.37′ W. long.;

(94) 45°34.97′ N. lat., 124°31.95′ W. long.;

(95) 45°13.01′ N. lat., 124°21.71′ W. long.;

(96) 45°09.59′ N. lat., 124°22.78′ W. long.;

(97) 45°00.22′ N. lat., 124°28.31′ W. long.;

(98) 44°53.53′ N. lat., 124°32.98′ W. long.;

(99) 44°40.25′ N. lat., 124°46.34′ W. long.;

(100) 44°28.83′ N. lat., 124°47.09′ W. long.;

(101) 44°22.97′ N. lat., 124°49.38′ W. long.;

(102) 44°13.07′ N. lat., 124°58.34′ W. long.;

(103) 43°57.99′ N. lat., 124°57.84′ W. long.;

(104) 43°51.43′ N. lat., 124°52.02′ W. long.;

(105) 43°50.72′ N. lat., 124°39.23′ W. long.;

(106) 43°39.04′ N. lat., 124°37.82′ W. long.;

(107) 43°27.76′ N. lat., 124°39.76′ W. long.;

(108) 43°20.22′ N. lat., 124°42.92′ W. long.;

(109) 43°13.07′ N. lat., 124°46.03′ W. long.;

(110) 43°10.43′ N. lat., 124°50.27′ W. long.;

(111) 43°03.47′ N. lat., 124°52.80′ W. long.;

(112) 42°56.93′ N. lat., 124°53.95′ W. long.;

(113) 42°54.74′ N. lat., 124°54.19′ W. long.;

(114) 42°49.43′ N. lat., 124°52.03′ W. long.;

(115) 42°47.68′ N. lat., 124°47.72′ W. long.;

(116) 42°46.17′ N. lat., 124°44.05′ W. long.;

(117) 42°41.67′ N. lat., 124°44.36′ W. long.;

(118) 42°38.79′ N. lat., 124°42.87′ W. long.;

(119) 42°32.39′ N. lat., 124°45.38′ W. long.;

(120) 42°32.07′ N. lat., 124°43.44′ W. long.;

(121) 42°30.98′ N. lat., 124°43.84′ W. long.;

(122) 42°28.37′ N. lat., 124°48.91′ W. long.;

(123) 42°20.07′ N. lat., 124°41.59′ W. long.;

(124) 42°15.05′ N. lat., 124°38.07′ W. long.;

(125) 42°07.37′ N. lat., 124°37.25′ W. long.;

(126) 42°04.93′ N. lat., 124°36.79′ W. long.;

(127) 42°00.00′ N. lat., 124°36.26′ W. long.;

(128) 42°00.00′ N. lat., 124°36.33′ W. long.;

(129) 41°47.60′ N. lat., 124°29.75′ W. long.;

(130) 41°22.07′ N. lat., 124°29.55′ W. long.;

(131) 41°13.58′ N. lat., 124°24.17′ W. long.;

(132) 41°06.51′ N. lat., 124°23.07′ W. long.;

(133) 40°55.20′ N. lat., 124°27.46′ W. long.;

(134) 40°49.76′ N. lat., 124°27.17′ W. long.;

(135) 40°45.79′ N. lat., 124°30.37′ W. long.;

(136) 40°40.31′ N. lat., 124°32.47′ W. long.;

(137) 40°37.42′ N. lat., 124°37.20′ W. long.;

(138) 40°36.03′ N. lat., 124°39.97′ W. long.;

(139) 40°31.48′ N. lat., 124°40.95′ W. long.;

(140) 40°29.76′ N. lat., 124°38.13′ W. long.;

(141) 40°24.81′ N. lat., 124°35.82′ W. long.;

(142) 40°22.00′ N. lat., 124°30.01′ W. long.;

(143) 40°16.84′ N. lat., 124°29.87′ W. long.;

(144) 40°17.06′ N. lat., 124°35.51′ W. long.;

(145) 40°16.41′ N. lat., 124°39.10′ W. long.;

(146) 40°10.00′ N. lat., 124°23.56′ W. long.;

(147) 40°06.67′ N. lat., 124°19.08′ W. long.;

(148) 40°08.10′ N. lat., 124°16.71′ W. long.;

(149) 40°05.90′ N. lat., 124°17.77′ W. long.;

(150) 40°02.80′ N. lat., 124°16.28′ W. long.;

(151) 40°01.98′ N. lat., 124°12.99′ W. long.;

(152) 40°01.53′ N. lat., 124°09.82′ W. long.;

(153) 39°58.28′ N. lat., 124°12.93′ W. long.;

(154) 39°57.06′ N. lat., 124°12.03′ W. long.;

(155) 39°56.31′ N. lat., 124°08.98′ W. long.;

(156) 39°55.20′ N. lat., 124°07.98′ W. long.;

(157) 39°52.57′ N. lat., 124°09.04′ W. long.;

(158) 39°42.78′ N. lat., 124°02.11′ W. long.;

(159) 39°34.76′ N. lat., 123°58.51′ W. long.;

(160) 39°34.22′ N. lat., 123°56.82′ W. long.;

(161) 39°32.98′ N. lat., 123°56.43′ W. long.;

(162) 39°32.14′ N. lat., 123°58.83′ W. long.;

(163) 39°07.79′ N. lat., 123°58.72′ W. long.;

(164) 39°00.99′ N. lat., 123°57.56′ W. long.;

(165) 39°00.05′ N. lat., 123°56.83′ W. long.;

(166) 38°56.28′ N. lat., 123°57.53′ W. long.;

(167) 38°56.01′ N. lat., 123°58.72′ W. long.;

(168) 38°52.41′ N. lat., 123°56.38′ W. long.;

(169) 38°46.81′ N. lat., 123°51.46′ W. long.;

(170) 38°45.56′ N. lat., 123°51.32′ W. long.;

(171) 38°43.24′ N. lat., 123°49.91′ W. long.;

(172) 38°41.42′ N. lat., 123°47.22′ W. long.;

(173) 38°40.97′ N. lat., 123°47.80′ W. long.;

(174) 38°38.58′ N. lat., 123°46.07′ W. long.;

(175) 38°37.38′ N. lat., 123°43.80′ W. long.;

(176) 38°33.86′ N. lat., 123°41.51′ W. long.;

(177) 38°29.45′ N. lat., 123°38.42′ W. long.;

(178) 38°28.20′ N. lat., 123°38.17′ W. long.;

(179) 38°24.09′ N. lat., 123°35.26′ W. long.;

(180) 38°16.72′ N. lat., 123°31.42′ W. long.;

(181) 38°15.32′ N. lat., 123°29.33′ W. long.;

(182) 38°14.45′ N. lat., 123°26.15′ W. long.;

(183) 38°10.26′ N. lat., 123°25.43′ W. long.;

(184) 38°12.61′ N. lat., 123°28.08′ W. long.;

(185) 38°11.98′ N. lat., 123°29.35′ W. long.;

(186) 38°08.23′ N. lat., 123°28.04′ W. long.;

(187) 38°06.39′ N. lat., 123°30.59′ W. long.;

(188) 38°04.25′ N. lat., 123°31.81′ W. long.;

(189) 38°02.08′ N. lat., 123°31.27′ W. long.;

(190) 38°00.17′ N. lat., 123°29.43′ W. long.;

(191) 38°00.00′ N. lat., 123°28.55′ W. long.;

(192) 37°58.24′ N. lat., 123°26.91′ W. long.;

(193) 37°55.32′ N. lat., 123°27.19′ W. long.;

(194) 37°51.52′ N. lat., 123°25.01′ W. long.;

(195) 37°44.21′ N. lat., 123°11.38′ W. long.;

(196) 37°36.27′ N. lat., 123°01.86′ W. long.;

(197) 37°14.29′ N. lat., 122°52.99′ W. long.;

(198) 37°00.86′ N. lat., 122°37.55′ W. long.;

(199) 36°59.71′ N. lat., 122°33.73′ W. long.;

(200) 36°57.98′ N. lat., 122°27.80′ W. long.;

(201) 36°59.83′ N. lat., 122°25.17′ W. long.;

(202) 36°57.21′ N. lat., 122°25.17′ W. long.;

(203) 36°57.79′ N. lat., 122°22.28′ W. long.;

(204) 36°55.86′ N. lat., 122°21.99′ W. long.;

(205) 36°52.06′ N. lat., 122°12.12′ W. long.;

(206) 36°47.63′ N. lat., 122°07.40′ W. long.;

(207) 36°47.26′ N. lat., 122°03.23′ W. long.;

(208) 36°49.53′ N. lat., 121°59.35′ W. long.;

(209) 36°44.81′ N. lat., 121°58.29′ W. long.;

(210) 36°38.95′ N. lat., 122°02.02′ W. long.;

(211) 36°23.43′ N. lat., 121°59.76′ W. long.;

(212) 36°19.66′ N. lat., 122°06.25′ W. long.;

(213) 36°14.78′ N. lat., 122°01.52′ W. long.;

(214) 36°13.64′ N. lat., 121°57.83′ W. long.;

(215) 36°09.99′ N. lat., 121°43.48′ W. long.;

(216) 35°57.09′ N. lat., 121°34.16′ W. long.;

(217) 35°52.71′ N. lat., 121°32.32′ W. long.;

(218) 35°51.23′ N. lat., 121°30.54′ W. long.;

(219) 35°46.07′ N. lat., 121°29.75′ W. long.;

(220) 35°34.08′ N. lat., 121°19.83′ W. long.;

(221) 35°31.41′ N. lat., 121°14.80′ W. long.;

(222) 35°15.42′ N. lat., 121°03.47′ W. long.;

(223) 35°07.70′ N. lat., 120°59.31′ W. long.;

(224) 34°57.27′ N. lat., 120°56.93′ W. long.;

(225) 34°44.27′ N. lat., 120°57.65′ W. long.;

(226) 34°32.75′ N. lat., 120°50.08′ W. long.;

(227) 34°27.00′ N. lat., 120°41.50′ W. long.;

(228) 34°20.00′ N. lat., 120°30.99′ W. long.;

(229) 34°19.15′ N. lat., 120°19.78′ W. long.;

(230) 34°23.24′ N. lat., 120°14.17′ W. long.;

(231) 34°21.35′ N. lat., 119°54.89′ W. long.;

(232) 34°09.79′ N. lat., 119°44.51′ W. long.;

(233) 34°07.34′ N. lat., 120°06.71′ W. long.;

(234) 34°09.74′ N. lat., 120°19.78′ W. long.;

(235) 34°13.95′ N. lat., 120°29.78′ W. long.;

(236) 34°09.41′ N. lat., 120°37.75′ W. long.;

(237) 34°03.39′ N. lat., 120°35.26′ W. long.;

(238) 33°56.82′ N. lat., 120°28.30′ W. long.;

(239) 33°50.71′ N. lat., 120°09.24′ W. long.;

(240) 33°38.21′ N. lat., 119°59.90′ W. long.;

(241) 33°35.35′ N. lat., 119°51.95′ W. long.;

(242) 33°35.99′ N. lat., 119°49.13′ W. long.;

(243) 33°42.74′ N. lat., 119°47.80′ W. long.;

(244) 33°53.65′ N. lat., 119°53.29′ W. long.;

(245) 33°57.85′ N. lat., 119°31.05′ W. long.;

(246) 33°56.78′ N. lat., 119°27.44′ W. long.;

(247) 33°58.03′ N. lat., 119°27.82′ W. long.;

(248) 33°59.31′ N. lat., 119°20.02′ W. long.;

(249) 34°02.91′ N. lat., 119°15.38′ W. long.;

(250) 33°59.04′ N. lat., 119°03.02′ W. long.;

(251) 33°57.88′ N. lat., 118°41.69′ W. long.;

(252) 33°50.89′ N. lat., 118°37.78′ W. long.;

(253) 33°39.54′ N. lat., 118°18.70′ W. long.;

(254) 33°35.42′ N. lat., 118°17.15′ W. long.;

(255) 33°31.26′ N. lat., 118°10.84′ W. long.;

(256) 33°32.71′ N. lat., 117°52.05′ W. long.;

(257) 32°58.94′ N. lat., 117°20.05′ W. long.;

(258) 32°46.45′ N. lat., 117°24.37′ W. long.;

(259) 32°42.25′ N. lat., 117°22.87′ W. long.;

(260) 32°39.50′ N. lat., 117°27.80′ W. long.; and

(261) 32°34.83′ N. lat., 117°24.67′ W. long.

(A) The 180-fm (329-m) depth contour used around San Clemente Island off the State of California is defined by straight lines connecting all of the following points in the order stated:

(1) 33°01.90′ N. lat., 118°40.17′ W. long.;

(2) 33°03.23′ N. lat., 118°40.05′ W. long.;

(3) 33°05.07′ N. lat., 118°39.01′ W. long.;

(4) 33°05.00′ N. lat., 118°38.01′ W. long.;

(5) 33°03.00′ N. lat., 118°34.00′ W. long.;

(6) 32°55.92′ N. lat., 118°28.39′ W. long.;

(7) 32°49.78′ N. lat., 118°20.82′ W. long.;

(8) 32°47.32′ N. lat., 118°18.30′ W. long.;

(9) 32°47.46′ N. lat., 118°20.29′ W. long.;

(10) 32°46.21′ N. lat., 118°21.96′ W. long.;

(11) 32°42.25′ N. lat., 118°24.07′ W. long.;

(12) 32°47.73′ N. lat., 118°31.74′ W. long.;

(13) 32°53.16′ N. lat., 118°33.85′ W. long.;

(14) 32°54.51′ N. lat., 118°35.56′ W. long.; and

(15) 33°01.90′ N. lat., 118°40.17′ W. long.

(B) The 180-fm (329-m) depth contour used around Santa Catalina Island off the State of California is defined by straight lines connecting all of the following points in the order stated:

(1) 33°30.00′ N. lat., 118°44.18′ W. long.;

(2) 33°30.65′ N. lat., 118°35.07′ W. long.;

(3) 33°29.88′ N. lat., 118°30.89′ W. long.;

(4) 33°27.54′ N. lat., 118°26.91′ W. long.;

(5) 33°26.11′ N. lat., 118°21.97′ W. long.;

(6) 33°24.20′ N. lat., 118°19.05′ W. long.;

(7) 33°14.58′ N. lat., 118°10.35′ W. long.;

(8) 33°17.91′ N. lat., 118°28.20′ W. long.;

(9) 33°19.14′ N. lat., 118°31.34′ W. long.;

(10) 33°20.79′ N. lat., 118°33.75′ W. long.;

(11) 33°23.14′ N. lat., 118°30.80′ W. long.; and

(12) 33°30.00′ N. lat., 118°44.18′ W. long.

(C) The 180-fm (329-m) depth contour used around Lasuen Knoll off the State of California is defined by straight lines connecting all of the following points in the order stated:

(1) 33°25.12′ N. lat., 118°01.09′ W. long.;

(2) 33°25.41′ N. lat., 117°59.36′ W. long.;

(3) 33°23.49′ N. lat., 117°57.47′ W. long.;

(4) 33°23.02′ N. lat., 117°59.58′ W. long.; and

(5) 33°25.12′ N. lat., 118°01.09′ W. long.

(D) The 180-fm (329-m) depth contour used around San Diego Rise off the State of California is defined by straight lines connecting all of the following points in the order stated:

(1) 32°49.98′ N. lat., 117°50.19′ W. long.;

(2) 32°44.10′ N. lat., 117°45.34′ W. long.;

(3) 32°42.01′ N. lat., 117°46.01′ W. long.;

(4) 32°44.42′ N. lat., 117°48.69′ W. long.;

(5) 32°49.86′ N. lat., 117°50.50′ W. long.; and

(6) 32°49.98′ N. lat., 117°50.19′ W. long.

(xi) The 200-fm (366-m) depth contour between the U.S. border with Canada and the U.S. border with Mexico is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.28′ N. lat., 125°36.87′ W. long.;

(16) 47°55.11′ N. lat., 125°36.92′ W. long.;

(17) 47°54.09′ N. lat., 125°34.98′ W. long.;

(18) 47°54.50′ N. lat., 125°32.01′ W. long.;

(19) 47°56.07′ N. lat., 125°30.17′ W. long.;

(20) 47°55.65′ N. lat., 125°28.46′ W. long.;

(21) 47°57.88′ N. lat., 125°25.61′ W. long.;

(22) 48°01.63′ N. lat., 125°23.75′ W. long.;

(23) 48°02.21′ N. lat., 125°22.43′ W. long.;

(24) 48°03.60′ N. lat., 125°21.84′ W. long.;

(25) 48°03.98′ N. lat., 125°20.65′ W. long.;

(26) 48°03.26′ N. lat., 125°19.76′ W. long.;

(27) 48°01.49′ N. lat., 125°18.80′ W. long.;

(28) 48°01.03′ N. lat., 125°20.12′ W. long.;

(29) 48°00.04′ N. lat., 125°20.26′ W. long.;

(30) 47°58.10′ N. lat., 125°18.91′ W. long.;

(31) 47°58.17′ N. lat., 125°17.50′ W. long.;

(32) 47°52.28′ N. lat., 125°16.06′ W. long.;

(33) 47°51.92′ N. lat., 125°13.89′ W. long.;

(34) 47°49.20′ N. lat., 125°10.67′ W. long.;

(35) 47°48.69′ N. lat., 125°06.50′ W. long.;

(36) 47°46.54′ N. lat., 125°07.68′ W. long.;

(37) 47°47.24′ N. lat., 125°05.38′ W. long.;

(38) 47°45.95′ N. lat., 125°04.61′ W. long.;

(39) 47°44.58′ N. lat., 125°07.12′ W. long.;

(40) 47°42.24′ N. lat., 125°05.15′ W. long.;

(41) 47°38.54′ N. lat., 125°06.76′ W. long.;

(42) 47°34.86′ N. lat., 125°04.67′ W. long.;

(43) 47°30.75′ N. lat., 124°57.52′ W. long.;

(44) 47°28.51′ N. lat., 124°56.69′ W. long.;

(45) 47°29.15′ N. lat., 124°54.10′ W. long.;

(46) 47°28.43′ N. lat., 124°51.58′ W. long.;

(47) 47°24.13′ N. lat., 124°47.51′ W. long.;

(48) 47°18.31′ N. lat., 124°46.17′ W. long.;

(49) 47°19.57′ N. lat., 124°51.01′ W. long.;

(50) 47°18.12′ N. lat., 124°53.66′ W. long.;

(51) 47°17.59′ N. lat., 124°52.94′ W. long.;

(52) 47°17.71′ N. lat., 124°51.63′ W. long.;

(53) 47°16.90′ N. lat., 124°51.23′ W. long.;

(54) 47°16.10′ N. lat., 124°53.67′ W. long.;

(55) 47°14.24′ N. lat., 124°53.02′ W. long.;

(56) 47°12.16′ N. lat., 124°56.77′ W. long.;

(57) 47°13.35′ N. lat., 124°58.70′ W. long.;

(58) 47°09.53′ N. lat., 124°58.32′ W. long.;

(59) 47°09.54′ N. lat., 124°59.50′ W. long.;

(60) 47°05.87′ N. lat., 124°59.29′ W. long.;

(61) 47°03.65′ N. lat., 124°56.26′ W. long.;

(62) 47°00.91′ N. lat., 124°59.73′ W. long.;

(63) 46°58.74′ N. lat., 124°59.40′ W. long.;

(64) 46°58.55′ N. lat., 125°00.70′ W. long.;

(65) 46°55.57′ N. lat., 125°01.61′ W. long.;

(66) 46°55.77′ N. lat., 124°55.04′ W. long.;

(67) 46°53.16′ N. lat., 124°53.69′ W. long.;

(68) 46°52.39′ N. lat., 124°55.24′ W. long.;

(69) 46°44.88′ N. lat., 124°51.97′ W. long.;

(70) 46°33.28′ N. lat., 124°36.96′ W. long.;

(71) 46°33.20′ N. lat., 124°30.64′ W. long.;

(72) 46°27.85′ N. lat., 124°31.95′ W. long.;

(73) 46°18.16′ N. lat., 124°39.39′ W. long.;

(74) 46°16.48′ N. lat., 124°27.41′ W. long.;

(75) 46°16.73′ N. lat., 124°23.20′ W. long.;

(76) 46°16.00′ N. lat., 124°24.88′ W. long.;

(77) 46°14.22′ N. lat., 124°26.28′ W. long.;

(78) 46°11.53′ N. lat., 124°39.58′ W. long.;

(79) 46°08.77′ N. lat., 124°41.71′ W. long.;

(80) 46°05.86′ N. lat., 124°42.27′ W. long.;

(81) 46°03.85′ N. lat., 124°48.20′ W. long.;

(82) 46°02.34′ N. lat., 124°48.51′ W. long.;

(83) 45°58.99′ N. lat., 124°44.42′ W. long.;

(84) 45°46.90′ N. lat., 124°43.50′ W. long.;

(85) 45°44.98′ N. lat., 124°44.93′ W. long.;

(86) 45°43.47′ N. lat., 124°44.93′ W. long.;

(87) 45°34.88′ N. lat., 124°32.58′ W. long.;

(88) 45°13.04′ N. lat., 124°21.92′ W. long.;

(89) 45°00.17′ N. lat., 124°29.28′ W. long.;

(90) 44°55.41′ N. lat., 124°31.84′ W. long.;

(91) 44°48.25′ N. lat., 124°40.62′ W. long.;

(92) 44°41.34′ N. lat., 124°49.20′ W. long.;

(93) 44°23.30′ N. lat., 124°50.17′ W. long.;

(94) 44°13.19′ N. lat., 124°58.66′ W. long.;

(95) 43°57.89′ N. lat., 124°58.13′ W. long.;

(96) 43°50.59′ N. lat., 124°52.80′ W. long.;

(97) 43°50.10′ N. lat., 124°40.27′ W. long.;

(98) 43°39.06′ N. lat., 124°38.55′ W. long.;

(99) 43°28.85′ N. lat., 124°39.99′ W. long.;

(100) 43°20.22′ N. lat., 124°43.05′ W. long.;

(101) 43°13.29′ N. lat., 124°47.00′ W. long.;

(102) 43°13.14′ N. lat., 124°52.61′ W. long.;

(103) 43°04.26′ N. lat., 124°53.05′ W. long.;

(104) 42°53.93′ N. lat., 124°54.60′ W. long.;

(105) 42°49.52′ N. lat., 124°53.16′ W. long.;

(106) 42°47.46′ N. lat., 124°50.24′ W. long.;

(107) 42°47.57′ N. lat., 124°48.12′ W. long.;

(108) 42°46.19′ N. lat., 124°44.52′ W. long.;

(109) 42°41.75′ N. lat., 124°44.69′ W. long.;

(110) 42°38.81′ N. lat., 124°43.09′ W. long.;

(111) 42°31.83′ N. lat., 124°46.23′ W. long.;

(112) 42°32.08′ N. lat., 124°43.58′ W. long.;

(113) 42°30.96′ N. lat., 124°43.84′ W. long.;

(114) 42°28.41′ N. lat., 124°49.17′ W. long.;

(115) 42°24.80′ N. lat., 124°45.93′ W. long.;

(116) 42°19.71′ N. lat., 124°41.60′ W. long.;

(117) 42°15.12′ N. lat., 124°38.34′ W. long.;

(118) 42°12.35′ N. lat., 124°38.09′ W. long.;

(119) 42°04.38′ N. lat., 124°36.83′ W. long.;

(120) 42°00.00′ N. lat., 124°36.80′ W. long.;

(121) 41°59.98′ N. lat., 124°36.70′ W. long.;

(122) 41°47.85′ N. lat., 124°30.41′ W. long.;

(123) 41°43.34′ N. lat., 124°29.89′ W. long.;

(124) 41°23.47′ N. lat., 124°30.29′ W. long.;

(125) 41°21.30′ N. lat., 124°29.36′ W. long.;

(126) 41°13.53′ N. lat., 124°24.41′ W. long.;

(127) 41°06.72′ N. lat., 124°23.30′ W. long.;

(128) 40°54.67′ N. lat., 124°28.13′ W. long.;

(129) 40°49.02′ N. lat., 124°28.52′ W. long.;

(130) 40°40.45′ N. lat., 124°32.74′ W. long.;

(131) 40°37.11′ N. lat., 124°38.03′ W. long.;

(132) 40°34.22′ N. lat., 124°41.13′ W. long.;

(133) 40°32.90′ N. lat., 124°41.83′ W. long.;

(134) 40°31.30′ N. lat., 124°40.97′ W. long.;

(135) 40°29.63′ N. lat., 124°38.04′ W. long.;

(136) 40°24.99′ N. lat., 124°36.37′ W. long.;

(137) 40°22.23′ N. lat., 124°31.78′ W. long.;

(138) 40°16.95′ N. lat., 124°31.93′ W. long.;

(139) 40°17.59′ N. lat., 124°45.23′ W. long.;

(140) 40°13.25′ N. lat., 124°32.36′ W. long.;

(141) 40°10.16′ N. lat., 124°24.57′ W. long.;

(142) 40°06.43′ N. lat., 124°19.19′ W. long.;

(143) 40°07.07′ N. lat., 124°17.75′ W. long.;

(144) 40°05.53′ N. lat., 124°18.02′ W. long.;

(145) 40°04.71′ N. lat., 124°18.10′ W. long.;

(146) 40°02.35′ N. lat., 124°16.57′ W. long.;

(147) 40°01.53′ N. lat., 124°09.82′ W. long.;

(148) 39°58.28′ N. lat., 124°13.51′ W. long.;

(149) 39°56.60′ N. lat., 124°12.02′ W. long.;

(150) 39°55.20′ N. lat., 124°07.96′ W. long.;

(151) 39°52.55′ N. lat., 124°09.40′ W. long.;

(152) 39°42.68′ N. lat., 124°02.52′ W. long.;

(153) 39°35.96′ N. lat., 123°59.49′ W. long.;

(154) 39°34.62′ N. lat., 123°59.59′ W. long.;

(155) 39°33.78′ N. lat., 123°56.82′ W. long.;

(156) 39°33.02′ N. lat., 123°57.07′ W. long.;

(157) 39°32.21′ N. lat., 123°59.13′ W. long.;

(158) 39°07.85′ N. lat., 123°59.07′ W. long.;

(159) 39°00.90′ N. lat., 123°57.88′ W. long.;

(160) 38°59.95′ N. lat., 123°56.99′ W. long.;

(161) 38°56.82′ N. lat., 123°57.74′ W. long.;

(162) 38°56.40′ N. lat., 123°59.41′ W. long.;

(163) 38°50.23′ N. lat., 123°55.48′ W. long.;

(164) 38°46.77′ N. lat., 123°51.49′ W. long.;

(165) 38°45.28′ N. lat., 123°51.56′ W. long.;

(166) 38°42.76′ N. lat., 123°49.76′ W. long.;

(167) 38°41.54′ N. lat., 123°47.76′ W. long.;

(168) 38°40.98′ N. lat., 123°48.07′ W. long.;

(169) 38°38.03′ N. lat., 123°45.78′ W. long.;

(170) 38°37.20′ N. lat., 123°44.01′ W. long.;

(171) 38°33.44′ N. lat., 123°41.75′ W. long.;

(172) 38°29.45′ N. lat., 123°38.42′ W. long.;

(173) 38°27.89′ N. lat., 123°38.38′ W. long.;

(174) 38°23.68′ N. lat., 123°35.40′ W. long.;

(175) 38°19.63′ N. lat., 123°33.98′ W. long.;

(176) 38°16.23′ N. lat., 123°31.83′ W. long.;

(177) 38°14.79′ N. lat., 123°29.91′ W. long.;

(178) 38°14.12′ N. lat., 123°26.29′ W. long.;

(179) 38°10.85′ N. lat., 123°25.77′ W. long.;

(180) 38°13.15′ N. lat., 123°28.18′ W. long.;

(181) 38°12.28′ N. lat., 123°29.81′ W. long.;

(182) 38°10.19′ N. lat., 123°29.04′ W. long.;

(183) 38°07.94′ N. lat., 123°28.45′ W. long.;

(184) 38°06.51′ N. lat., 123°30.89′ W. long.;

(185) 38°04.21′ N. lat., 123°31.96′ W. long.;

(186) 38°02.07′ N. lat., 123°31.30′ W. long.;

(187) 38°00.00′ N. lat., 123°29.55′ W. long.;

(188) 37°58.13′ N. lat., 123°27.21′ W. long.;

(189) 37°55.01′ N. lat., 123°27.46′ W. long.;

(190) 37°51.40′ N. lat., 123°25.18′ W. long.;

(191) 37°43.97′ N. lat., 123°11.49′ W. long.;

(192) 37°36.00′ N. lat., 123°02.25′ W. long.;

(193) 37°13.65′ N. lat., 122°54.18′ W. long.;

(194) 37°00.66′ N. lat., 122°37.84′ W. long.;

(195) 36°57.40′ N. lat., 122°28.25′ W. long.;

(196) 36°59.25′ N. lat., 122°25.54′ W. long.;

(197) 36°56.88′ N. lat., 122°25.42′ W. long.;

(198) 36°57.40′ N. lat., 122°22.62′ W. long.;

(199) 36°55.43′ N. lat., 122°22.43′ W. long.;

(200) 36°52.29′ N. lat., 122°13.18′ W. long.;

(201) 36°47.12′ N. lat., 122°07.56′ W. long.;

(202) 36°47.10′ N. lat., 122°02.11′ W. long.;

(203) 36°43.76′ N. lat., 121°59.11′ W. long.;

(204) 36°38.85′ N. lat., 122°02.20′ W. long.;

(205) 36°23.41′ N. lat., 122°00.11′ W. long.;

(206) 36°19.68′ N. lat., 122°06.93′ W. long.;

(207) 36°14.75′ N. lat., 122°01.51′ W. long.;

(208) 36°09.74′ N. lat., 121°45.00′ W. long.;

(209) 36°06.67′ N. lat., 121°41.06′ W. long.;

(210) 35°57.07′ N. lat., 121°34.32′ W. long.;

(211) 35°52.31′ N. lat., 121°32.45′ W. long.;

(212) 35°51.21′ N. lat., 121°30.91′ W. long.;

(213) 35°46.32′ N. lat., 121°30.30′ W. long.;

(214) 35°33.74′ N. lat., 121°20.10′ W. long.;

(215) 35°31.37′ N. lat., 121°15.23′ W. long.;

(216) 35°23.32′ N. lat., 121°11.44′ W. long.;

(217) 35°15.28′ N. lat., 121°04.45′ W. long.;

(218) 35°07.08′ N. lat., 121°00.30′ W. long.;

(219) 34°57.46′ N. lat., 120°58.23′ W. long.;

(220) 34°44.25′ N. lat., 120°58.29′ W. long.;

(221) 34°32.30′ N. lat., 120°50.22′ W. long.;

(222) 34°27.00′ N. lat., 120°42.55′ W. long.;

(223) 34°19.08′ N. lat., 120°31.21′ W. long.;

(224) 34°17.72′ N. lat., 120°19.26′ W. long.;

(225) 34°22.45′ N. lat., 120°12.81′ W. long.;

(226) 34°21.36′ N. lat., 119°54.88′ W. long.;

(227) 34°09.95′ N. lat., 119°46.18′ W. long.;

(228) 34°09.08′ N. lat., 119°57.53′ W. long.;

(229) 34°07.53′ N. lat., 120°06.35′ W. long.;

(230) 34°10.54′ N. lat., 120°19.07′ W. long.;

(231) 34°14.68′ N. lat., 120°29.48′ W. long.;

(232) 34°09.51′ N. lat., 120°38.32′ W. long.;

(233) 34°03.06′ N. lat., 120°35.54′ W. long.;

(234) 33°56.39′ N. lat., 120°28.47′ W. long.;

(235) 33°50.25′ N. lat., 120°09.43′ W. long.;

(236) 33°37.96′ N. lat., 120°00.08′ W. long.;

(237) 33°34.52′ N. lat., 119°51.84′ W. long.;

(238) 33°35.51′ N. lat., 119°48.49′ W. long.;

(239) 33°42.76′ N. lat., 119°47.77′ W. long.;

(240) 33°53.62′ N. lat., 119°53.28′ W. long.;

(241) 33°57.61′ N. lat., 119°31.26′ W. long.;

(242) 33°56.34′ N. lat., 119°26.40′ W. long.;

(243) 33°57.79′ N. lat., 119°26.85′ W. long.;

(244) 33°58.88′ N. lat., 119°20.06′ W. long.;

(245) 34°02.65′ N. lat., 119°15.11′ W. long.;

(246) 33°59.02′ N. lat., 119°02.99′ W. long.;

(247) 33°57.61′ N. lat., 118°42.07′ W. long.;

(248) 33°50.76′ N. lat., 118°37.98′ W. long.;

(249) 33°38.41′ N. lat., 118°17.03′ W. long.;

(250) 33°37.14′ N. lat., 118°18.39′ W. long.;

(251) 33°35.51′ N. lat., 118°18.03′ W. long.;

(252) 33°30.68′ N. lat., 118°10.35′ W. long.;

(253) 33°32.49′ N. lat., 117°51.85′ W. long.;

(254) 32°58.87′ N. lat., 117°20.36′ W. long.; and

(255) 32°35.53′ N. lat., 117°29.67′ W. long.

(A) The 200-fm (366-m) depth contour used around San Clemente Island is defined by straight lines connecting all of the following points in the order stated:

(1) 33°05.89′ N. lat., 118°39.45′ W. long.;

(2) 33°02.68′ N. lat., 118°33.14′ W. long.;

(3) 32°57.32′ N. lat., 118°29.12′ W. long.;

(4) 32°47.51′ N. lat., 118°17.88′ W. long.;

(5) 32°41.22′ N. lat., 118°23.78′ W. long.;

(6) 32°46.83′ N. lat., 118°32.10′ W. long.;

(7) 33°01.61′ N. lat., 118°40.64′ W. long.; and

(8) 33°5.89′ N. lat., 118°39.45′ W. long.

(B) The 200-fm (66-m) depth contour used around Santa Catalina Island off the State of California is defined by straight lines connecting all of the following points in the order stated:

(1) 33°32.06′ N. lat., 118°44.52′ W. long.;

(2) 33°31.36′ N. lat., 118°35.28′ W. long.;

(3) 33°30.10′ N. lat., 118°30.82′ W. long.;

(4) 33°27.91′ N. lat., 118°26.83′ W. long.;

(5) 33°26.27′ N. lat., 118°21.35′ W. long.;

(6) 33°21.34′ N. lat., 118°15.24′ W. long.;

(7) 33°13.66′ N. lat., 118°08.98′ W. long.;

(8) 33°17.15′ N. lat., 118°28.35′ W. long.;

(9) 33°20.94′ N. lat., 118°34.34′ W. long.;

(10) 33°23.32′ N. lat., 118°32.60′ W. long.;

(11) 33°28.68′ N. lat., 118°44.93′ W. long.; and

(12) 33°32.06′ N. lat., 118°44.52′ W. long.

(C) The 200-fm (366-m) depth contour used around Lasuen Knoll off the State of California is defined by straight lines connecting all of the following points in the order stated:

(1) 33°25.91′ N. lat., 117°59.44′ W. long.;

(2) 33°23.37′ N. lat., 117°56.97′ W. long.;

(3) 33°22.82′ N. lat., 117°59.50′ W. long.;

(4) 33°25.24′ N. lat., 118°01.68′ W. long.; and

(5) 33°25.91′ N. lat., 117°59.44′ W. long.

(D) The 200-fm (366-m) depth contour used around San Diego Rise off the State of California is defined by straight lines connecting all of the following points in the order stated:

(1) 32°50.30′ N. lat., 117°50.18′ W. long.;

(2) 32°44.01′ N. lat., 117°44.46′ W. long.;

(3) 32°41.34′ N. lat., 117°45.86′ W. long.;

(4) 32°45.45′ N. lat., 117°50.09′ W. long.;

(5) 32°50.10′ N. lat., 117°50.76′ W. long.; and

(6) 32°50.30′ N. lat., 117°50.18′ W. long.

(xii) The 200-fm (366-m) depth contour used between the U.S. border with Canada and the U.S. border with Mexico, modified to allow fishing in petrale sole areas, is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.00′ N. lat., 125°37.00′ W. long.;

(16) 47°55.50′ N. lat., 125°28.50′ W. long.;

(17) 47°57.88′ N. lat., 125°25.61′ W. long.;

(18) 48°01.63′ N. lat., 125°23.75′ W. long.;

(19) 48°02.21′ N. lat., 125°22.43′ W. long.;

(20) 48°03.60′ N. lat., 125°21.84′ W. long.;

(21) 48°03.98′ N. lat., 125°20.65′ W. long.;

(22) 48°03.26′ N. lat., 125°19.76′ W. long.;

(23) 48°01.49′ N. lat., 125°18.80′ W. long.;

(24) 48°01.03′ N. lat., 125°20.12′ W. long.;

(25) 48°00.04′ N. lat., 125°20.26′ W. long.;

(26) 47°58.10′ N. lat., 125°18.91′ W. long.;

(27) 47°58.17′ N. lat., 125°17.50′ W. long.;

(28) 47°52.28′ N. lat., 125°16.06′ W. long.;

(29) 47°51.92′ N. lat., 125°13.89′ W. long.;

(30) 47°49.20′ N. lat., 125°10.67′ W. long.;

(31) 47°48.69′ N. lat., 125°06.50′ W. long.;

(32) 47°46.54′ N. lat., 125°07.68′ W. long.;

(33) 47°47.24′ N. lat., 125°05.38′ W. long.;

(34) 47°45.95′ N. lat., 125°04.61′ W. long.;

(35) 47°44.58′ N. lat., 125°07.12′ W. long.;

(36) 47°42.24′ N. lat., 125°05.15′ W. long.;

(37) 47°38.54′ N. lat., 125°06.76′ W. long.;

(38) 47°34.86′ N. lat., 125°04.67′ W. long.;

(39) 47°30.75′ N. lat., 124°57.52′ W. long.;

(40) 47°28.51′ N. lat., 124°56.69′ W. long.;

(41) 47°29.15′ N. lat., 124°54.10′ W. long.;

(42) 47°28.43′ N. lat., 124°51.58′ W. long.;

(43) 47°24.13′ N. lat., 124°47.51′ W. long.;

(44) 47°18.31′ N. lat., 124°46.17′ W. long.;

(45) 47°19.57′ N. lat., 124°51.01′ W. long.;

(46) 47°18.12′ N. lat., 124°53.66′ W. long.;

(47) 47°17.59′ N. lat., 124°52.94′ W. long.;

(48) 47°17.71′ N. lat., 124°51.63′ W. long.;

(49) 47°16.90′ N. lat., 124°51.23′ W. long.;

(50) 47°16.10′ N. lat., 124°53.67′ W. long.;

(51) 47°14.24′ N. lat., 124°53.02′ W. long.;

(52) 47°12.16′ N. lat., 124°56.77′ W. long.;

(53) 47°13.35′ N. lat., 124°58.70′ W. long.;

(54) 47°09.53′ N. lat., 124°58.32′ W. long.;

(55) 47°09.54′ N. lat., 124°59.50′ W. long.;

(56) 47°05.87′ N. lat., 124°59.29′ W. long.;

(57) 47°03.65′ N. lat., 124°56.26′ W. long.;

(58) 47°00.91′ N. lat., 124°59.73′ W. long.;

(59) 46°58.74′ N. lat., 124°59.40′ W. long.;

(60) 46°58.55′ N. lat., 125°00.70′ W. long.;

(61) 46°55.57′ N. lat., 125°01.61′ W. long.;

(62) 46°55.77′ N. lat., 124°55.04′ W. long.;

(63) 46°53.16′ N. lat., 124°53.69′ W. long.;

(64) 46°52.39′ N. lat., 124°55.24′ W. long.;

(65) 46°44.88′ N. lat., 124°51.97′ W. long.;

(66) 46°33.28′ N. lat., 124°36.96′ W. long.;

(67) 46°33.20′ N. lat., 124°30.64′ W. long.;

(68) 46°27.85′ N. lat., 124°31.95′ W. long.;

(69) 46°18.16′ N. lat., 124°39.39′ W. long.;

(70) 46°16.48′ N. lat., 124°27.41′ W. long.;

(71) 46°16.73′ N. lat., 124°23.20′ W. long.;

(72) 46°16.00′ N. lat., 124°24.88′ W. long.;

(73) 46°14.22′ N. lat., 124°26.28′ W. long.;

(74) 46°11.53′ N. lat., 124°39.58′ W. long.;

(75) 46°08.77′ N. lat., 124°41.71′ W. long.;

(76) 46°05.86′ N. lat., 124°42.27′ W. long.;

(77) 46°03.85′ N. lat., 124°48.20′ W. long.;

(78) 46°02.34′ N. lat., 124°48.51′ W. long.;

(79) 45°58.99′ N. lat., 124°44.42′ W. long.;

(80) 45°49.74′ N. lat., 124°43.69′ W. long.;

(81) 45°49.68′ N. lat., 124°42.37′ W. long.;

(82) 45°40.83′ N. lat., 124°40.90′ W. long.;

(83) 45°34.88′ N. lat., 124°32.58′ W. long.;

(84) 45°13.04′ N. lat., 124°21.92′ W. long.;

(85) 45°00.17′ N. lat., 124°29.28′ W. long.;

(86) 44°50.99′ N. lat., 124°35.40′ W. long.;

(87) 44°46.87′ N. lat., 124°38.20′ W. long.;

(88) 44°48.25′ N. lat., 124°40.62′ W. long.;

(89) 44°41.34′ N. lat., 124°49.20′ W. long.;

(90) 44°23.30′ N. lat., 124°50.17′ W. long.;

(91) 44°13.19′ N. lat., 124°58.66′ W. long.;

(92) 43°57.37′ N. lat., 124°58.71′ W. long.;

(93) 43°52.32′ N. lat., 124°49.43′ W. long.;

(94) 43°51.35′ N. lat., 124°37.94′ W. long.;

(95) 43°49.73′ N. lat., 124°40.26′ W. long.;

(96) 43°39.06′ N. lat., 124°38.55′ W. long.;

(97) 43°28.85′ N. lat., 124°39.99′ W. long.;

(98) 43°20.22′ N. lat., 124°43.05′ W. long.;

(99) 43°13.29′ N. lat., 124°47.00′ W. long.;

(100) 43°10.64′ N. lat., 124°49.95′ W. long.;

(101) 43°04.26′ N. lat., 124°53.05′ W. long.;

(102) 42°53.93′ N. lat., 124°54.60′ W. long.;

(103) 42°47.57′ N. lat., 124°48.12′ W. long.;

(104) 42°46.19′ N. lat., 124°44.52′ W. long.;

(105) 42°41.75′ N. lat., 124°44.69′ W. long.;

(106) 42°38.81′ N. lat., 124°43.09′ W. long.;

(107) 42°31.83′ N. lat., 124°46.23′ W. long.;

(108) 42°32.08′ N. lat., 124°43.58′ W. long.;

(109) 42°30.96′ N. lat., 124°43.84′ W. long.;

(110) 42°28.41′ N. lat., 124°49.17′ W. long.;

(111) 42°24.80′ N. lat., 124°45.93′ W. long.;

(112) 42°19.71′ N. lat., 124°41.60′ W. long.;

(113) 42°15.12′ N. lat., 124°38.34′ W. long.;

(114) 42°12.35′ N. lat., 124°38.09′ W. long.;

(115) 42°00.00′ N. lat., 124°36.83′ W. long.;

(116) 41°59.98′ N. lat., 124°36.80′ W. long.;

(117) 41°47.79′ N. lat., 124°29.48′ W. long.;

(118) 41°21.01′ N. lat., 124°29.01′ W. long.;

(119) 41°13.50′ N. lat., 124°24.40′ W. long.;

(120) 41°11.00′ N. lat., 124°22.99′ W. long.;

(121) 41°06.69′ N. lat., 124°23.30′ W. long.;

(122) 40°54.73′ N. lat., 124°28.15′ W. long.;

(123) 40°53.95′ N. lat., 124°26.04′ W. long.;

(124) 40°49.96′ N. lat., 124°26.04′ W. long.;

(125) 40°44.49′ N. lat., 124°30.81′ W. long.;

(126) 40°40.58′ N. lat., 124°32.06′ W. long.;

(127) 40°36.09′ N. lat., 124°40.11′ W. long.;

(128) 40°34.19′ N. lat., 124°41.20′ W. long.;

(129) 40°32.93′ N. lat., 124°41.86′ W. long.;

(130) 40°31.28′ N. lat., 124°40.98′ W. long.;

(131) 40°29.68′ N. lat., 124°38.06′ W. long.;

(132) 40°25.01′ N. lat., 124°36.36′ W. long.;

(133) 40°22.28′ N. lat., 124°31.83′ W. long.;

(134) 40°16.96′ N. lat., 124°31.91′ W. long.;

(135) 40°17.59′ N. lat., 124°45.28′ W. long.;

(136) 40°13.23′ N. lat., 124°32.40′ W. long.;

(137) 40°10.00′ N. lat., 124°24.55′ W. long.;

(138) 40°06.45′ N. lat., 124°19.24′ W. long.;

(139) 40°07.08′ N. lat., 124°17.80′ W. long.;

(140) 40°05.55′ N. lat., 124°18.11′ W. long.;

(141) 40°04.74′ N. lat., 124°18.11′ W. long.;

(142) 40°02.35′ N. lat., 124°16.53′ W. long.;

(143) 40°01.13′ N. lat., 124°12.98′ W. long.;

(144) 40°01.55′ N. lat., 124°09.80′ W. long.;

(145) 39°58.54′ N. lat., 124°12.43′ W. long.;

(146) 39°55.72′ N. lat., 124°07.44′ W. long.;

(147) 39°42.64′ N. lat., 124°02.52′ W. long.;

(148) 39°35.96′ N. lat., 123°59.47′ W. long.;

(149) 39°34.61′ N. lat., 123°59.58′ W. long.;

(150) 39°34.79′ N. lat., 123°58.47′ W. long.;

(151) 39°33.79′ N. lat., 123°56.77′ W. long.;

(152) 39°33.03′ N. lat., 123°57.06′ W. long.;

(153) 39°32.20′ N. lat., 123°59.12′ W. long.;

(154) 39°07.81′ N. lat., 123°59.06′ W. long.;

(155) 39°03.06′ N. lat., 123°57.77′ W. long.;

(156) 38°52.26′ N. lat., 123°56.18′ W. long.;

(157) 38°50.21′ N. lat., 123°55.48′ W. long.;

(158) 38°46.81′ N. lat., 123°51.49′ W. long.;

(159) 38°45.28′ N. lat., 123°51.55′ W. long.;

(160) 38°42.76′ N. lat., 123°49.73′ W. long.;

(161) 38°41.53′ N. lat., 123°47.80′ W. long.;

(162) 38°41.41′ N. lat., 123°46.74′ W. long.;

(163) 38°38.01′ N. lat., 123°45.74′ W. long.;

(164) 38°37.19′ N. lat., 123°43.98′ W. long.;

(165) 38°35.26′ N. lat., 123°41.99′ W. long.;

(166) 38°33.38′ N. lat., 123°41.76′ W. long.;

(167) 38°19.95′ N. lat., 123°32.90′ W. long.;

(168) 38°14.38′ N. lat., 123°25.51′ W. long.;

(169) 38°09.39′ N. lat., 123°24.39′ W. long.;

(170) 38°10.09′ N. lat., 123°27.21′ W. long.;

(171) 38°03.76′ N. lat., 123°31.90′ W. long.;

(172) 38°02.06′ N. lat., 123°31.26′ W. long.;

(173) 38°00.01′ N. lat., 123°29.56′ W. long.;

(174) 37°58.07′ N. lat., 123°27.21′ W. long.;

(175) 37°55.02′ N. lat., 123°27.44′ W. long.;

(176) 37°51.39′ N. lat., 123°25.22′ W. long.;

(177) 37°43.94′ N. lat., 123°11.49′ W. long.;

(178) 37°35.96′ N. lat., 123°02.23′ W. long.;

(179) 37°23.48′ N. lat., 122°57.76′ W. long.;

(180) 37°23.23′ N. lat., 122°53.78′ W. long.;

(181) 37°13.97′ N. lat., 122°49.91′ W. long.;

(182) 37°09.98′ N. lat., 122°45.61′ W. long.;

(183) 37°07.38′ N. lat., 122°46.38′ W. long.;

(184) 37°00.64′ N. lat., 122°37.70′ W. long.;

(185) 36°57.40′ N. lat., 122°28.36′ W. long.;

(186) 36°59.21′ N. lat., 122°25.64′ W. long.;

(187) 36°56.90′ N. lat., 122°25.42′ W. long.;

(188) 36°57.43′ N. lat., 122°22.55′ W. long.;

(189) 36°55.43′ N. lat., 122°22.43′ W. long.;

(190) 36°52.27′ N. lat., 122°13.16′ W. long.;

(191) 36°47.10′ N. lat., 122°07.53′ W. long.;

(192) 36°47.10′ N. lat., 122°02.08′ W. long.;

(193) 36°43.76′ N. lat., 121°59.15′ W. long.;

(194) 36°38.84′ N. lat., 122°02.20′ W. long.;

(195) 36°30.82′ N. lat., 122°01.13′ W. long.;

(196) 36°30.94′ N. lat., 122°00.54′ W. long.;

(197) 36°25.99′ N. lat., 121°59.50′ W. long.;

(198) 36°26.43′ N. lat., 121°59.76′ W. long.;

(199) 36°22.00′ N. lat., 122°01.02′ W. long.;

(200) 36°19.01′ N. lat., 122°05.01′ W. long.;

(201) 36°14.73′ N. lat., 122°01.55′ W. long.;

(202) 36°14.03′ N. lat., 121°58.09′ W. long.;

(203) 36°09.74′ N. lat., 121°45.01′ W. long.;

(204) 36°06.75′ N. lat., 121°40.73′ W. long.;

(205) 35°58.19′ N. lat., 121°34.63′ W. long.;

(206) 35°52.21′ N. lat., 121°32.46′ W. long.;

(207) 35°51.21′ N. lat., 121°30.94′ W. long.;

(208) 35°46.28′ N. lat., 121°30.29′ W. long.;

(209) 35°33.67′ N. lat., 121°20.09′ W. long.;

(210) 35°31.33′ N. lat., 121°15.22′ W. long.;

(211) 35°23.29′ N. lat., 121°11.41′ W. long.;

(212) 35°15.26′ N. lat., 121°04.49′ W. long.;

(213) 35°07.05′ N. lat., 121°00.26′ W. long.;

(214) 35°07.46′ N. lat., 120°57.10′ W. long.;

(215) 34°44.29′ N. lat., 120°54.28′ W. long.;

(216) 34°44.23′ N. lat., 120°58.27′ W. long.;

(217) 34°32.33′ N. lat., 120°50.23′ W. long.;

(218) 34°27.00′ N. lat., 120°42.55′ W. long.;

(219) 34°19.08′ N. lat., 120°31.21′ W. long.;

(220) 34°17.72′ N. lat., 120°19.26′ W. long.;

(221) 34°22.45′ N. lat., 120°12.81′ W. long.;

(222) 34°21.36′ N. lat., 119°54.88′ W. long.;

(223) 34°09.95′ N. lat., 119°46.18′ W. long.;

(224) 34°09.08′ N. lat., 119°57.53′ W. long.;

(225) 34°07.53′ N. lat., 120°06.35′ W. long.;

(226) 34°10.54′ N. lat., 120°19.07′ W. long.;

(227) 34°14.68′ N. lat., 120°29.48′ W. long.;

(228) 34°09.51′ N. lat., 120°38.32′ W. long.;

(229) 34°03.06′ N. lat., 120°35.54′ W. long.;

(230) 33°56.39′ N. lat., 120°28.47′ W. long.;

(231) 33°50.25′ N. lat., 120°09.43′ W. long.;

(232) 33°37.96′ N. lat., 120°00.08′ W. long.;

(233) 33°34.52′ N. lat., 119°51.84′ W. long.;

(234) 33°35.51′ N. lat., 119°48.49′ W. long.;

(235) 33°42.76′ N. lat., 119°47.77′ W. long.;

(236) 33°53.62′ N. lat., 119°53.28′ W. long.;

(237) 33°57.61′ N. lat., 119°31.26′ W. long.;

(238) 33°56.34′ N. lat., 119°26.40′ W. long.;

(239) 33°57.79′ N. lat., 119°26.85′ W. long.;

(240) 33°58.88′ N. lat., 119°20.06′ W. long.;

(241) 34°02.65′ N. lat., 119°15.11′ W. long.;

(242) 33°59.02′ N. lat., 119°02.99′ W. long.;

(243) 33°57.61′ N. lat., 118°42.07′ W. long.;

(244) 33°50.76′ N. lat., 118°37.98′ W. long.;

(245) 33°39.54′ N. lat., 118°18.70′ W. long.;

(246) 33°37.14′ N. lat., 118°18.39′ W. long.;

(247) 33°35.51′ N. lat., 118°18.03′ W. long.;

(248) 33°30.68′ N. lat., 118°10.35′ W. long.;

(249) 33°32.49′ N. lat., 117°51.85′ W. long.;

(250) 32°58.87′ N. lat., 117°20.36′ W. long.; and

(251) 32°35.53′ N. lat., 117°29.67′ W. long.

(xiii) The 250-fm (457-m) depth contour used between the U.S. border with Canada and 38° N. lat. is defined by straight lines connecting all of the following points in the order stated:

(1) 48°14.68′ N. lat., 125°42.10′ W. long.;

(2) 48°13.00′ N. lat., 125°39.00′ W. long.;

(3) 48°12.73′ N. lat., 125°38.87′ W. long.;

(4) 48°12.43′ N. lat., 125°39.12′ W. long.;

(5) 48°11.83′ N. lat., 125°40.01′ W. long.;

(6) 48°11.78′ N. lat., 125°41.70′ W. long.;

(7) 48°10.62′ N. lat., 125°43.41′ W. long.;

(8) 48°09.23′ N. lat., 125°42.80′ W. long.;

(9) 48°08.79′ N. lat., 125°43.79′ W. long.;

(10) 48°08.50′ N. lat., 125°45.00′ W. long.;

(11) 48°07.43′ N. lat., 125°46.36′ W. long.;

(12) 48°06.00′ N. lat., 125°46.50′ W. long.;

(13) 48°05.38′ N. lat., 125°42.82′ W. long.;

(14) 48°04.19′ N. lat., 125°40.40′ W. long.;

(15) 48°03.50′ N. lat., 125°37.00′ W. long.;

(16) 48°01.50′ N. lat., 125°40.00′ W. long.;

(17) 47°57.00′ N. lat., 125°37.00′ W. long.;

(18) 47°55.21′ N. lat., 125°37.22′ W. long.;

(19) 47°54.02′ N. lat., 125°36.57′ W. long.;

(20) 47°53.67′ N. lat., 125°35.06′ W. long.;

(21) 47°54.14′ N. lat., 125°32.35′ W. long.;

(22) 47°55.50′ N. lat., 125°28.56′ W. long.;

(23) 47°57.03′ N. lat., 125°26.52′ W. long.;

(24) 47°57.98′ N. lat., 125°25.08′ W. long.;

(25) 48°00.54′ N. lat., 125°24.38′ W. long.;

(26) 48°01.45′ N. lat., 125°23.70′ W. long.;

(27) 48°01.97′ N. lat., 125°22.34′ W. long.;

(28) 48°03.68′ N. lat., 125°21.20′ W. long.;

(29) 48°01.96′ N. lat., 125°19.56′ W. long.;

(30) 48°00.98′ N. lat., 125°20.43′ W. long.;

(31) 48°00.00′ N. lat., 125°20.68′ W. long.;

(32) 47°58.00′ N. lat., 125°19.50′ W. long.;

(33) 47°57.65′ N. lat., 125°19.18′ W. long.;

(34) 47°58.00′ N. lat., 125°18.00′ W. long.;

(35) 47°56.59′ N. lat., 125°18.15′ W. long.;

(36) 47°51.30′ N. lat., 125°18.32′ W. long.;

(37) 47°49.88′ N. lat., 125°14.49′ W. long.;

(38) 47°49.00′ N. lat., 125°11.00′ W. long.;

(39) 47°47.99′ N. lat., 125°07.31′ W. long.;

(40) 47°46.47′ N. lat., 125°08.63′ W. long.;

(41) 47°46.00′ N. lat., 125°06.00′ W. long.;

(42) 47°44.50′ N. lat., 125°07.50′ W. long.;

(43) 47°43.39′ N. lat., 125°06.57′ W. long.;

(44) 47°42.37′ N. lat., 125°05.74′ W. long.;

(45) 47°40.61′ N. lat., 125°06.48′ W. long.;

(46) 47°37.43′ N. lat., 125°07.33′ W. long.;

(47) 47°33.68′ N. lat., 125°04.80′ W. long.;

(48) 47°30.00′ N. lat., 125°00.00′ W. long.;

(49) 47°28.00′ N. lat., 124°58.50′ W. long.;

(50) 47°28.88′ N. lat., 124°54.71′ W. long.;

(51) 47°27.70′ N. lat., 124°51.87′ W. long.;

(52) 47°24.84′ N. lat., 124°48.45′ W. long.;

(53) 47°21.76′ N. lat., 124°47.42′ W. long.;

(54) 47°18.84′ N. lat., 124°46.75′ W. long.;

(55) 47°19.82′ N. lat., 124°51.43′ W. long.;

(56) 47°18.13′ N. lat., 124°54.25′ W. long.;

(57) 47°13.50′ N. lat., 124°54.69′ W. long.;

(58) 47°15.00′ N. lat., 125°00.00′ W. long.;

(59) 47°08.00′ N. lat., 124°59.83′ W. long.;

(60) 47°05.79′ N. lat., 125°01.00′ W. long.;

(61) 47°03.34′ N. lat., 124°57.49′ W. long.;

(62) 47°01.00′ N. lat., 125°00.00′ W. long.;

(63) 46°55.00′ N. lat., 125°02.00′ W. long.;

(64) 46°51.00′ N. lat., 124°57.00′ W. long.;

(65) 46°47.00′ N. lat., 124°55.00′ W. long.;

(66) 46°34.00′ N. lat., 124°38.00′ W. long.;

(67) 46°30.50′ N. lat., 124°41.00′ W. long.;

(68) 46°33.00′ N. lat., 124°32.00′ W. long.;

(69) 46°29.00′ N. lat., 124°32.00′ W. long.;

(70) 46°20.00′ N. lat., 124°39.00′ W. long.;

(71) 46°18.16′ N. lat., 124°40.00′ W. long.;

(72) 46°16.00′ N. lat., 124°27.01′ W. long.;

(73) 46°15.00′ N. lat., 124°30.96′ W. long.;

(74) 46°13.17′ N. lat., 124°37.87′ W. long.;

(75) 46°13.17′ N. lat., 124°38.75′ W. long.;

(76) 46°10.50′ N. lat., 124°42.00′ W. long.;

(77) 46°06.21′ N. lat., 124°41.85′ W. long.;

(78) 46°03.02′ N. lat., 124°50.27′ W. long.;

(79) 45°57.00′ N. lat., 124°45.52′ W. long.;

(80) 45°46.85′ N. lat., 124°45.91′ W. long.;

(81) 45°45.81′ N. lat., 124°47.05′ W. long.;

(82) 45°44.87′ N. lat., 124°45.98′ W. long.;

(83) 45°43.44′ N. lat., 124°46.03′ W. long.;

(84) 45°35.82′ N. lat., 124°45.72′ W. long.;

(85) 45°35.70′ N. lat., 124°42.89′ W. long.;

(86) 45°24.45′ N. lat., 124°38.21′ W. long.;

(87) 45°11.68′ N. lat., 124°39.38′ W. long.;

(88) 44°57.94′ N. lat., 124°37.02′ W. long.;

(89) 44°44.28′ N. lat., 124°50.79′ W. long.;

(90) 44°32.63′ N. lat., 124°54.21′ W. long.;

(91) 44°23.20′ N. lat., 124°49.87′ W. long.;

(92) 44°13.17′ N. lat., 124°58.81′ W. long.;

(93) 43°57.92′ N. lat., 124°58.29′ W. long.;

(94) 43°50.12′ N. lat., 124°53.36′ W. long.;

(95) 43°49.53′ N. lat., 124°43.96′ W. long.;

(96) 43°42.76′ N. lat., 124°41.40′ W. long.;

(97) 43°24.00′ N. lat., 124°42.61′ W. long.;

(98) 43°19.74′ N. lat., 124°45.12′ W. long.;

(99) 43°19.62′ N. lat., 124°52.95′ W. long.;

(100) 43°17.41′ N. lat., 124°53.02′ W. long.;

(101) 42°49.15′ N. lat., 124°54.93′ W. long.;

(102) 42°46.74′ N. lat., 124°53.39′ W. long.;

(103) 42°43.76′ N. lat., 124°51.64′ W. long.;

(104) 42°45.41′ N. lat., 124°49.35′ W. long.;

(105) 42°43.92′ N. lat., 124°45.92′ W. long.;

(106) 42°38.87′ N. lat., 124°43.38′ W. long.;

(107) 42°34.78′ N. lat., 124°46.56′ W. long.;

(108) 42°31.47′ N. lat., 124°46.89′ W. long.;

(109) 42°31.00′ N. lat., 124°44.28′ W. long.;

(110) 42°29.22′ N. lat., 124°46.93′ W. long.;

(111) 42°28.39′ N. lat., 124°49.94′ W. long.;

(112) 42°26.28′ N. lat., 124°47.60′ W. long.;

(113) 42°19.58′ N. lat., 124°43.21′ W. long.;

(114) 42°13.75′ N. lat., 124°40.06′ W. long.;

(115) 42°05.12′ N. lat., 124°39.06′ W. long.;

(116) 41°59.99′ N. lat., 124°37.72′ W. long.;

(117) 42°00.00′ N. lat., 124°37.76′ W. long.;

(118) 41°47.93′ N. lat., 124°31.79′ W. long.;

(119) 41°21.35′ N. lat., 124°30.35′ W. long.;

(120) 41°07.11′ N. lat., 124°25.25′ W. long.;

(121) 40°57.37′ N. lat., 124°30.25′ W. long.;

(122) 40°48.77′ N. lat., 124°30.69′ W. long.;

(123) 40°41.03′ N. lat., 124°33.21′ W. long.;

(124) 40°37.40′ N. lat., 124°38.96′ W. long.;

(125) 40°33.70′ N. lat., 124°42.50′ W. long.;

(126) 40°31.31′ N. lat., 124°41.59′ W. long.;

(127) 40°25.00′ N. lat., 124°36.65′ W. long.;

(128) 40°22.42′ N. lat., 124°32.19′ W. long.;

(129) 40°17.17′ N. lat., 124°32.21′ W. long.;

(130) 40°18.68′ N. lat., 124°50.44′ W. long.;

(131) 40°13.55′ N. lat., 124°34.26′ W. long.;

(132) 40°10.11′ N. lat., 124°28.25′ W. long.;

(133) 40°06.72′ N. lat., 124°21.40′ W. long.;

(134) 40°01.63′ N. lat., 124°17.25′ W. long.;

(135) 40°00.68′ N. lat., 124°11.19′ W. long.;

(136) 39°59.09′ N. lat., 124°14.92′ W. long.;

(137) 39°51.85′ N. lat., 124°10.33′ W. long.;

(138) 39°36.90′ N. lat., 124°00.63′ W. long.;

(139) 39°32.41′ N. lat., 124°00.01′ W. long.;

(140) 39°05.40′ N. lat., 124°00.52′ W. long.;

(141) 39°04.32′ N. lat., 123°59.00′ W. long.;

(142) 38°58.02′ N. lat., 123°58.18′ W. long.;

(143) 38°58.19′ N. lat., 124°01.90′ W. long.;

(144) 38°50.27′ N. lat., 123°56.26′ W. long.;

(145) 38°46.73′ N. lat., 123°51.93′ W. long.;

(146) 38°44.64′ N. lat., 123°51.77′ W. long.;

(147) 38°32.97′ N. lat., 123°41.84′ W. long.;

(148) 38°14.56′ N. lat., 123°32.18′ W. long.;

(149) 38°13.85′ N. lat., 123°29.94′ W. long.;

(150) 38°11.88′ N. lat., 123°30.57′ W. long.;

(151) 38°08.72′ N. lat., 123°29.56′ W. long.;

(152) 38°05.62′ N. lat., 123°32.38′ W. long.;

(153) 38°01.90′ N. lat., 123°32.00′ W. long.; and

(154) 38°00.00′ N. lat., 123°30.00′ W. long.

(xiv) The 250-fm (457-m) depth contour used between the U.S. border with Canada and 38° N. lat., modified to allow fishing in petrale sole areas, is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°40.00′ W. long.;

(7) 47°57.00′ N. lat., 125°37.00′ W. long.;

(8) 47°55.50′ N. lat., 125°28.50′ W. long.;

(9) 47°58.00′ N. lat., 125°25.00′ W. long.;

(10) 48°00.50′ N. lat., 125°24.50′ W. long.;

(11) 48°03.50′ N. lat., 125°21.00′ W. long.;

(12) 48°02.00′ N. lat., 125°19.50′ W. long.;

(13) 48°00.00′ N. lat., 125°21.00′ W. long.;

(14) 47°58.00′ N. lat., 125°20.00′ W. long.;

(15) 47°58.00′ N. lat., 125°18.00′ W. long.;

(16) 47°52.00′ N. lat., 125°16.50′ W. long.;

(17) 47°49.00′ N. lat., 125°11.00′ W. long.;

(18) 47°46.00′ N. lat., 125°06.00′ W. long.;

(19) 47°44.50′ N. lat., 125°07.50′ W. long.;

(20) 47°42.00′ N. lat., 125°06.00′ W. long.;

(21) 47°38.00′ N. lat., 125°07.00′ W. long.;

(22) 47°30.00′ N. lat., 125°00.00′ W. long.;

(23) 47°28.00′ N. lat., 124°58.50′ W. long.;

(24) 47°28.88′ N. lat., 124°54.71′ W. long.;

(25) 47°27.70′ N. lat., 124°51.87′ W. long.;

(26) 47°24.84′ N. lat., 124°48.45′ W. long.;

(27) 47°21.76′ N. lat., 124°47.42′ W. long.;

(28) 47°18.84′ N. lat., 124°46.75′ W. long.;

(29) 47°19.82′ N. lat., 124°51.43′ W. long.;

(30) 47°18.13′ N. lat., 124°54.25′ W. long.;

(31) 47°13.50′ N. lat., 124°54.69′ W. long.;

(32) 47°15.00′ N. lat., 125°00.00′ W. long.;

(33) 47°08.00′ N. lat., 124°59.82′ W. long.;

(34) 47°05.79′ N. lat., 125°01.00′ W. long.;

(35) 47°03.34′ N. lat., 124°57.49′ W. long.;

(36) 47°01.00′ N. lat., 125°00.00′ W. long.;

(37) 46°55.00′ N. lat., 125°02.00′ W. long.;

(38) 46°51.00′ N. lat., 124°57.00′ W. long.;

(39) 46°47.00′ N. lat., 124°55.00′ W. long.;

(40) 46°34.00′ N. lat., 124°38.00′ W. long.;

(41) 46°30.50′ N. lat., 124°41.00′ W. long.;

(42) 46°33.00′ N. lat., 124°32.00′ W. long.;

(43) 46°29.00′ N. lat., 124°32.00′ W. long.;

(44) 46°20.00′ N. lat., 124°39.00′ W. long.;

(45) 46°18.16′ N. lat., 124°40.00′ W. long.;

(46) 46°16.00′ N. lat., 124°27.01′ W. long.;

(47) 46°15.00′ N. lat., 124°30.96′ W. long.;

(48) 46°13.17′ N. lat., 124°38.76′ W. long.;

(49) 46°10.51′ N. lat., 124°41.99′ W. long.;

(50) 46°06.24′ N. lat., 124°41.81′ W. long.;

(51) 46°03.04′ N. lat., 124°50.26′ W. long.;

(52) 45°56.99′ N. lat., 124°45.45′ W. long.;

(53) 45°49.94′ N. lat., 124°45.75′ W. long.;

(54) 45°49.94′ N. lat., 124°42.33′ W. long.;

(55) 45°45.73′ N. lat., 124°42.18′ W. long.;

(56) 45°45.73′ N. lat., 124°43.82′ W. long.;

(57) 45°41.94′ N. lat., 124°43.61′ W. long.;

(58) 45°41.58′ N. lat., 124°39.86′ W. long.;

(59) 45°38.45′ N. lat., 124°39.94′ W. long.;

(60) 45°35.75′ N. lat., 124°42.91′ W. long.;

(61) 45°24.49′ N. lat., 124°38.20′ W. long.;

(62) 45°14.43′ N. lat., 124°39.05′ W. long.;

(63) 45°14.30′ N. lat., 124°34.19′ W. long.;

(64) 45°08.98′ N. lat., 124°34.26′ W. long.;

(65) 45°09.02′ N. lat., 124°38.81′ W. long.;

(66) 44°57.98′ N. lat., 124°36.98′ W. long.;

(67) 44°56.62′ N. lat., 124°38.32′ W. long.;

(68) 44°50.82′ N. lat., 124°35.52′ W. long.;

(69) 44°46.89′ N. lat., 124°38.32′ W. long.;

(70) 44°50.78′ N. lat., 124°44.24′ W. long.;

(71) 44°44.27′ N. lat., 124°50.78′ W. long.;

(72) 44°32.63′ N. lat., 124°54.24′ W. long.;

(73) 44°23.25′ N. lat., 124°49.78′ W. long.;

(74) 44°13.16′ N. lat., 124°58.81′ W. long.;

(75) 43°57.88′ N. lat., 124°58.25′ W. long.;

(76) 43°56.89′ N. lat., 124°57.33′ W. long.;

(77) 43°53.41′ N. lat., 124°51.95′ W. long.;

(78) 43°51.56′ N. lat., 124°47.38′ W. long.;

(79) 43°51.49′ N. lat., 124°37.77′ W. long.;

(80) 43°48.02′ N. lat., 124°43.31′ W. long.;

(81) 43°42.77′ N. lat., 124°41.39′ W. long.;

(82) 43°24.09′ N. lat., 124°42.57′ W. long.;

(83) 43°19.73′ N. lat., 124°45.09′ W. long.;

(84) 43°15.98′ N. lat., 124°47.76′ W. long.;

(85) 43°04.14′ N. lat., 124°52.55′ W. long.;

(86) 43°04.00′ N. lat., 124°53.88′ W. long.;

(87) 42°54.69′ N. lat., 124°54.54′ W. long.;

(88) 42°45.46′ N. lat., 124°49.37′ W. long.;

(89) 42°43.91′ N. lat., 124°45.90′ W. long.;

(90) 42°38.84′ N. lat., 124°43.36′ W. long.;

(91) 42°34.82′ N. lat., 124°46.56′ W. long.;

(92) 42°31.57′ N. lat., 124°46.86′ W. long.;

(93) 42°30.98′ N. lat., 124°44.27′ W. long.;

(94) 42°29.21′ N. lat., 124°46.93′ W. long.;

(95) 42°28.52′ N. lat., 124°49.40′ W. long.;

(96) 42°26.06′ N. lat., 124°46.61′ W. long.;

(97) 42°21.82′ N. lat., 124°43.76′ W. long.;

(98) 42°17.47′ N. lat., 124°38.89′ W. long.;

(99) 42°13.67′ N. lat., 124°37.51′ W. long.;

(100) 42°13.76′ N. lat., 124°40.03′ W. long.;

(101) 42°05.12′ N. lat., 124°39.06′ W. long.;

(102) 42°02.67′ N. lat., 124°38.41′ W. long.;

(103) 42°02.67′ N. lat., 124°35.95′ W. long.;

(104) 42°00.00′ N. lat., 124°35.88′ W. long.;

(105) 41°59.99′ N. lat., 124°35.92′ W. long.;

(106) 41°56.38′ N. lat., 124°34.96′ W. long.;

(107) 41°53.98′ N. lat., 124°32.50′ W. long.;

(108) 41°50.69′ N. lat., 124°30.46′ W. long.;

(109) 41°47.79′ N. lat., 124°29.52′ W. long.;

(110) 41°21.00′ N. lat., 124°29.00′ W. long.;

(111) 41°11.00′ N. lat., 124°23.00′ W. long.;

(112) 41°05.00′ N. lat., 124°23.00′ W. long.;

(113) 40°54.00′ N. lat., 124°26.00′ W. long.;

(114) 40°50.00′ N. lat., 124°26.00′ W. long.;

(115) 40°44.51′ N. lat., 124°30.83′ W. long.;

(116) 40°40.61′ N. lat., 124°32.06′ W. long.;

(117) 40°37.36′ N. lat., 124°29.41′ W. long.;

(118) 40°35.64′ N. lat., 124°30.47′ W. long.;

(119) 40°37.43′ N. lat., 124°37.10′ W. long.;

(120) 40°36.00′ N. lat., 124°40.00′ W. long.;

(121) 40°31.59′ N. lat., 124°40.72′ W. long.;

(122) 40°24.64′ N. lat., 124°35.62′ W. long.;

(123) 40°23.00′ N. lat., 124°32.00′ W. long.;

(124) 40°23.39′ N. lat., 124°28.70′ W. long.;

(125) 40°22.28′ N. lat., 124°25.25′ W. long.;

(126) 40°21.90′ N. lat., 124°25.17′ W. long.;

(127) 40°22.00′ N. lat., 124°28.00′ W. long.;

(128) 40°21.35′ N. lat., 124°29.53′ W. long.;

(129) 40°19.75′ N. lat., 124°28.98′ W. long.;

(130) 40°18.15′ N. lat., 124°27.01′ W. long.;

(131) 40°17.45′ N. lat., 124°25.49′ W. long.;

(132) 40°18.00′ N. lat., 124°24.00′ W. long.;

(133) 40°16.00′ N. lat., 124°26.00′ W. long.;

(134) 40°17.00′ N. lat., 124°35.00′ W. long.;

(135) 40°16.00′ N. lat., 124°36.00′ W. long.;

(136) 40°10.00′ N. lat., 124°22.75′ W. long.;

(137) 40°03.00′ N. lat., 124°14.75′ W. long.;

(138) 39°49.25′ N. lat., 124°06.00′ W. long.;

(139) 39°34.75′ N. lat., 123°58.50′ W. long.;

(140) 39°03.07′ N. lat., 123°57.81′ W. long.;

(141) 38°52.25′ N. lat., 123°56.25′ W. long.;

(142) 38°41.42′ N. lat., 123°46.75′ W. long.;

(143) 38°39.47′ N. lat., 123°46.59′ W. long.;

(144) 38°35.25′ N. lat., 123°42.00′ W. long.;

(145) 38°19.97′ N. lat., 123°32.95′ W. long.;

(146) 38°15.00′ N. lat., 123°26.50′ W. long.;

(147) 38°08.09′ N. lat., 123°23.39′ W. long.;

(148) 38°10.08′ N. lat., 123°26.82′ W. long.;

(149) 38°04.08′ N. lat., 123°32.12′ W. long.; and

(150) 38°00.00′ N. lat., 123°29.85′ W. long.

(xv) Farallon Islands. The Farallon Islands, off San Francisco and San Mateo Counties, include Southeast Farallon Island, Middle Farallon Island, North Farallon Island and Noon Day Rock. Under California law, commercial fishing for all groundfish and recreational fishing for certain species of groundfish is prohibited between the shoreline and the 10-fm (18-m) depth contour around the Farallon Islands. (See section B.(1) Table 3 (South) and Table 4 (South), section C.(1) Table 5 (South), and section D.(3))

(xvi) Cordell Banks. Cordell Banks are located offshore of California′s Marin County. Recreational fishing for certain species of groundfish is prohibited within a 5 nautical mile radius around a point located at 38°02′ N. lat. and 123°25′ W. long. (See section D.(3))

(18) Rockfish categories. Rockfish (except thornyheads) are divided into categories north and south of 40°10′ N. lat., depending on the depth where they most often are caught: nearshore, shelf, or slope (scientific names appear in Table 2). Nearshore rockfish are further divided into shallow nearshore and deeper nearshore categories south of 40°10′ N. lat. Trip limits are established for “minor rockfish” species according to these categories (see Tables 3-5).

(a) Nearshore rockfish consists entirely of the minor nearshore rockfish species listed in Table 2, which includes California scorpionfish.

(i) Shallow nearshore rockfish consists of black-and-yellow rockfish, China rockfish, gopher rockfish, grass rockfish, and kelp rockfish.

(ii) Deeper nearshore rockfish consists of black rockfish, blue rockfish, brown rockfish, calico rockfish, copper rockfish, olive rockfish, quillback rockfish, and treefish.

(iii) California scorpionfish.

(b) Shelf rockfish consists of canary rockfish, shortbelly rockfish, widow rockfish, yelloweye rockfish, yellowtail rockfish, bocaccio, chilipepper, cowcod, and the minor shelf rockfish species listed in Table 2.

(c) Slope rockfish consists of Pacific ocean perch, splitnose rockfish, darkblotched rockfish, and the other minor slope rockfish species listed in Table 2.

(19) Flatfish complex. Flatfish managed under the FMP include: arrowtooth flounder, butter sole, curlfin sole, Dover sole, English sole, flathead sole, Pacific sanddab, petrale sole, rex sole, rock sole, sand sole, and starry flounder. Where Tables 3, 4, and/or 5 of sections IV.B. and IV.C. refer to landings limits for “all other flatfish,” those limits apply to all flatfish cumulatively taken from the group of flatfish species listed in this section except for those flatfish species listed with species-specific limits.

(20) Application of requirements. Paragraphs IV.B. and IV.C. pertain to the commercial groundfish fishery, but not to Washington coastal tribal fisheries, which are described in section V. The provisions in paragraphs IV.B. and IV.C. that are not covered under the headings “limited entry” or “open access” apply to all vessels in the commercial fishery that take and retain groundfish, unless otherwise stated. Paragraph IV.D. pertains to the recreational fishery.

Table 2.—Minor Rockfish Species (Excludes Thornyheads)
North of 40°10′ N. lat. | South of 40°10′ N. lat.
NEARSHORE
black, Sebastes melanops | black, Sebastes melanops.
black and yellow, S. chrysolmelas | black and yellow, S. chrysolmelas.
blue, S. mystinus | blue, S. mystinus.
brown, S. auriculatus | brown, S. auriculatus.
calico, S. dalli | calico, S. dalli.
China, S. nebulosus | California scorpionfish, Scorpaena guttata.
copper, S. caurinus | China, Sebastes nebulosus.
gopher, S. carnatus | copper, S. caurinus.
grass, S. rastrelliger | gopher, S. carnatus.
kelp, S. atrovirens | grass, S. rastrelliger.
olive, S. serranoides | kelp, S. atrovirens.
quillback, S. maliger | olive, S. serranoides.
treefish, S. serriceps | quillback, S. maliger.
| treefish, S. serriceps.
SHELF
bronzespotted, S. gilli | bronzespotted, S. gilli.
bocaccio, S. paucispinis | chameleon, S. phillipsi.
chameleon, S. phillipsi | dwarf-red, S. rufianus.
chilipepper, S. goodei | flag, S. rubrivinctus.
cowcod, S. levis | freckled, S. lentiginosus.
dwarf-red, S. rufianus | greenblotched, S. rosenblatti.
flag, S. rubrivinctus | greenspotted, S. chlorostictus.
freckled, S. lentiginosus | greenstriped, S. elongatus.
greenblotched, S. rosenblatti | halfbanded, S. semicinctus.
greenspotted, S. chlorostictus | honeycomb, S. umbrosus.
greenstriped, S. elongatus | Mexican, S. macdonaldi.
halfbanded, S. semicinctus | pink, S. eos.
honeycomb, S. umbrosus | pinkrose, S. simulator.
Mexican, S. macdonaldi | pygmy, S. wilsoni.
pink, S. eos | redstriped, S. proriger.
pinkrose, S. simulator | rosethorn, S. helvomaculatus.
pygmy, S. wilsoni | rosy, S. rosaceus.
redstriped, S. proriger | silvergrey, S. brevispinis.
rosethorn, S. helvomaculatus | speckled, S. ovalis.
rosy, S. rosaceus | squarespot, S. hopkinsi.
silvergrey, S. brevispinis | starry, S. constellatus.
speckled, S. ovalis | stripetail, S. saxicola.
squarespot, S. hopkinsi | swordspine, S. ensifer.
starry, S. constellatus | tiger, S. nigorcinctus.
stripetail, S. saxicola | vermilion, S. miniatus.
swordspine, S. ensifer | yelloweye, S. ruberrimus.
tiger, S. nigorcinctus | yellowtail, S. flavidus.
vermilion, S. miniatus
yelloweye, S. ruberrimus
SLOPE
aurora, S. aurora | aurora, S. aurora.
bank, S. rufus | bank, S. rufus.
blackgill, S. melanostomus | blackgill, S. melanostomus.
darkblotched, S. crameri | darkblotched, S. crameri.
redbanded, S. babcocki | Pacific ocean perch (POP), S. alutus.
rougheye, S. aleutianus | redbanded, S. babcocki.
sharpchin, S. zacentrus | rougheye, S. aleutianus.
shortraker, S. borealis | sharpchin, S. zacentrus.
splitnose, S. diploproa | shortraker, S. borealis.
yellowmouth, S. reedi | yellowmouth, S. reedi.

B. Limited Entry Fishery

(1) General. Most species taken in limited entry fisheries will be managed with cumulative trip limits (see paragraph IV.A.(1)(d)), size limits (see paragraph IV.A.(6)), seasons (see paragraph IV.A.(7)), and areas that are closed to specific gear types. The trawl fishery has gear requirements and trip limits that differ by the type of trawl gear on board (see paragraph IV.A.(14)). Cowcod retention is prohibited in all fisheries and groundfish vessels operating south of Point Conception must adhere to CCA restrictions (see paragraph IV.A.(17)(b)). Yelloweye rockfish and canary rockfish retention is prohibited in the limited entry fixed gear fisheries. Most of the management measures for the limited entry fishery are listed above and in the following tables: Table 3 (North), Table 3 (South), Table 4 (North), and Table 4 (South).

A header in Table 3 (North), Table 3 (South), Table 4 (North) and Table 4 (South) generally describes the Rockfish Conservation Area (RCA) (i.e., closed area) for vessels participating in the limited entry fishery. The RCA boundaries are defined by latitude and longitude coordinates (see paragraph IV.A.(17)), except that under state law fishing is prohibited by limited entry vessels from the shoreline to a 10-fm (18-m) depth contour around the Farallon Islands. For a definition of the Farallon Islands, see paragraph IV.A.(17)(f).

Management measures may be changed during the year by announcement in the Federal Register pursuant to the requirements of the APA. However, the management regimes for several fisheries (nontrawl sablefish, Pacific whiting, and black rockfish) do not neatly fit into these tables and are addressed immediately following Table 3 (North), Table 3 (South), Table 4 (North), and Table 4 (South).

Federal commercial groundfish regulations are not intended to supersede any more restrictive State commercial groundfish regulations relating to federally-managed groundfish.

BILLING CODE 3510-22-P

BILLING CODE 3510-22-C

(2) Sablefish. The limited entry sablefish allocation is further allocated 58 percent to trawl gear and 42 percent to nontrawl gear. See footnote e/ of Table 1a.

(a) Trawl trip limits. Management measures for the limited entry trawl fishery for sablefish are listed in Table 3 (North) and Table 3 (South).

(b) Nontrawl (fixed gear) trip limits. To take, retain, possess, or land sablefish during the primary season for the limited entry fixed gear sablefish fishery, the owner of a vessel must hold a limited entry permit for that vessel, affixed with both a gear endorsement for longline or trap (or pot) gear, and a sablefish endorsement (see 50 CFR 660.323(a)(2)(i).) A sablefish endorsement is not required to participate in the limited entry daily trip limit fishery.

(i) Primary season. The primary season begins at 12 noon l.t. on April 1, 2004, and ends at 12 noon l.t. on October 31, 2004. There are no pre-season or post-season closures. During the primary season, each vessel with at least one limited entry permit with a sablefish endorsement that is registered for use with that vessel may land up to the cumulative trip limit for each of the sablefish-endorsed limited entry permits registered for use with that vessel, for the tier(s) to which the permit(s) are assigned. For 2004, the following limits are in effect: Tier 1, 62,000 lb (28,123 kg); Tier 2, 28,000 lb (12,701 kg); Tier 3, 16,000 lb (7,257 kg). (Note: These tier limits are likely to change as new observer data is released in the spring of 2004. Limits will be finalized before the start of the primary season.) All limits are in round weight. If a vessel is registered for use with a sablefish-endorsed limited entry permit, all sablefish taken after April 1, 2004 count against the cumulative limits associated with the permit(s) registered for use with that vessel.

(ii) Daily trip limit. Daily and/or weekly sablefish trip limits listed in Table 4 (North) and Table 4 (South) apply to any limited entry fixed gear vessels not participating in the primary sablefish season described in paragraph (i) of this section. North of 36° N. lat., the daily and/or weekly trip limits apply to fixed gear vessels that are not registered for use with a sablefish-endorsed limited entry permit, and to fixed gear vessels that are registered for use with a sablefish-endorsed limited entry permit when those vessels are not fishing against their primary sablefish season cumulative limits. South of 36° N. lat., the daily and/or weekly trip limits for taking and retaining sablefish that are listed in Table 4 (South) apply throughout the year to all vessels registered for use with a limited entry fixed gear permit.

(iii) Participating in both the primary and daily trip limit fisheries. A vessel that is eligible to participate in the primary sablefish season may participate in the daily trip limit fishery for sablefish once that vessel's primary season sablefish limit(s) have been taken or after October 31, 2004, whichever occurs first. No vessel may land sablefish against both its primary season cumulative sablefish limits and against the daily trip limit fishery limits within the same 24 hour period of 0001 hour l.t. to 2400 hours l.t. If a vessel has taken all of its tier limit except for an amount that is smaller than the daily trip limit amount, that vessel's subsequent sablefish landings are automatically subject to daily and/or weekly trip limits.

(3) Whiting. Additional regulations that apply to the whiting fishery are found at 50 CFR 660.306 and at 50 CFR 660.323(a)(3) and (a)(4).

(a) Allocations. The non-tribal allocations, based on percentages that are applied to the commercial OY of (commercial OY to be announced before the start of the primary season) in 2004 (see 50 CFR 660.323(a)(4)), are as follows:

(i) Catcher/processor sector—TBA(24 percent);

(ii) Mothership sector—TBA (34 percent);

(iii) Shore-based sector—TBA (42 percent). No more than 5 percent (TBA) of the shore-based whiting allocation may be taken before the shore-based fishery begins north of 42° N. lat. on June 15, 2003.

(iv) Tribal allocation—See paragraph V.

(b) Seasons. After the start of a primary season for a sector of the whiting fishery, the season remains open for that sector until the quota is taken and the fishery season for that sector is closed by NMFS. The 2004 primary seasons for the whiting fishery start on the same dates as in 2003, as follows (see 50 CFR 660.323(a)(3)):

(i) Catcher/processor sector—May 15;

(ii) Mothership sector—May 15;

(iii) Shore-based sector—June 15 north of 42° N. lat.; April 1 between 42°-40°30′ N. lat.; April 15 south of 40°30′ N. lat.

(c) Trip limits.

(i) Before and after the regular (primary) season. The “per trip” limit for whiting before and after the regular (primary) season for the shore-based sector is announced in Table 3 (North) and Table 3 (South), as authorized at 50 CFR 660.323(a)(3) and (a)(4). This trip limit includes any whiting caught shoreward of 100 fathoms (183 m) in the Eureka, CA area. The “per trip” limit for other groundfish species before, during and after the regular (primary) season are announced in Table 3 (North) and Table 3 (South) and apply as follows:

(A) Before the primary whiting season, vessels may use either small and/or large footrope gear during a cumulative limit period, but are subject to the more restrictive trip limits for the entire cumulative period.

(B) Once the primary whiting season begins for a sector of the fishery, then the midwater trip limits apply and are additive to the trip limits for other groundfish species for that fishing period (i.e., vessels are not constrained by the lower midwater limits and can harvest up to the footrope-specific trawl limits plus the midwater trawl limits for that cumulative limit period).

(C) Following the primary whiting season, vessels can access either the small and/or large footrope limits, but any landings of other groundfish species made during the primary whiting season count against the cumulative limits for that period.

(ii) Inside the Eureka, CA 100-fm (183-m) contour. No more than 10,000 lb (4,536 kg) of whiting may be taken and retained, possessed, or landed by a vessel that, at any time during a fishing trip, fished in the fishery management area shoreward of the 100 fathom (183 m) contour (as shown on NOAA Charts 18580, 18600, and 18620) in the Eureka, CA area.

(4) Black rockfish. The regulations at 50 CFR 660.323(a)(1) state: “The trip limit for black rockfish (Sebastes melanops) for commercial fishing vessels using hook-and-line gear between the U.S.-Canada border and Cape Alava, WA (48°09′30″ N. lat.) and between Destruction Island, WA (47°40′00″ N. lat.) and Leadbetter Point, WA (46°38′10″ N. lat.), is 100 lb (45 kg) or 30 percent, by weight of all fish on board, whichever is greater, per vessel per fishing trip.” These “per trip” limits apply to limited entry and open access fisheries, in conjunction with the cumulative trip limits and other management measures listed in Tables 4 (North) and Table 5 (North) of section IV. The crossover provisions at paragraphs IV.A.(12) do not apply to the black rockfish per-trip limits.

C. Trip Limits in the Open Access Fishery

(1) General. Open access gear is gear used to take and retain groundfish from a vessel that does not have a valid permit for the Pacific Coast groundfish fishery with an endorsement for the gear used to harvest the groundfish. This includes longline, trap, pot, hook-and-line (fixed or mobile), setnet and trammel net (south of 38° N. lat. only), and exempted trawl gear (trawls used to target non-groundfish species: pink shrimp or prawns, and, south of Pt. Arena, CA (38°57′30″ N. lat.), California halibut or sea cucumbers). Unless otherwise specified, a vessel operating in the open access fishery is subject to, and must not exceed any trip limit, frequency limit, and/or size limit for the open access fishery. Groundfish species taken in open access fisheries will be managed with cumulative trip limits (see paragraph IV.A.(1)(d)), size limits (see paragraph IV.A.(6)), seasons (see paragraph IV.A.(7)), and closed areas. Cowcod retention is prohibited in all fisheries and groundfish vessels operating south of Point Conception, CA must adhere to CCA restrictions (see paragraph IV.A.(17)(b)). Retention of yelloweye rockfish and canary rockfish is prohibited in all open access fisheries. The trip limits, size limits, seasons, and other management measures for open access groundfish gear, including exempted trawl gear, are listed in Table 5 (North) and Table 5 (South).

A header in Table 5 (North) and Table 5 (South) approximates the RCA (i.e., closed area) for vessels participating in the open access fishery. Vessels targeting groundfish may not fish in the RCA. Vessels targeting species other than groundfish may fish in the RCA but may not retain groundfish caught within the RCA nor groundfish caught outside of the RCA boundaries on the same fishing trip. The RCA boundaries are defined by latitude and longitude coordinates (see paragraph IV.A.(17)), except that under State law, fishing is prohibited by open access fixed gear and exempted trawl vessels from the shoreline to a 10-fm (18-m) depth contour around the Farallon Islands. For a definition of the Farallon Islands, see paragraph IV.A.(17)(f).

For the exempted trawl gear fisheries, exempted trawl gear RCAs, if applicable, are detailed in the exempted trawl gear sections at the bottom of Table 5 (North) and Table 5 (South). Retention of groundfish caught by exempted trawl gear is prohibited in the designated RCAs, except that pink shrimp trawl may retain groundfish caught both inside and outside the exempted trawl RCA subject to the limits in Table 5 (North) and Table 5 (South). Retention of groundfish caught by salmon troll gear is prohibited in the designated RCAs, except that salmon trollers may retain yellowtail rockfish caught both inside and outside the non-trawl RCA subject to the limits in Table 5 (North). The trip limit at 50 CFR 660.323(a)(1) for black rockfish caught with hook-and-line gear also applies. (The black rockfish limit is repeated at paragraph IV.B.(4).)

Federal commercial groundfish regulations are not intended to supersede any more restrictive State commercial groundfish regulations relating to federally-managed groundfish.

BILLING CODE 3510-22-P

BILLING CODE 3510-22-C

(2) Groundfish taken with exempted trawl gear by vessels engaged in fishing for ridgeback prawns, California halibut, or sea cucumbers. Trip limits for groundfish retained in the ridgeback prawn, California halibut, or sea cucumber fisheries are in Table 5 (South). The table also generally describes the RCAs for vessels participating in these fisheries.

(a) Participation in the California halibut fishery. A trawl vessel will be considered participating in the California halibut fishery if:

(i) It is not fishing under a valid limited entry permit issued under 50 CFR 660.333 for trawl gear;

(ii) All fishing on the trip takes place south of Pt. Arena, CA (38°57′30″ N. lat.); and

(iii) The landing includes California halibut of a size required by California Fish and Game Code section 8392(a), which states: “No California halibut may be taken, possessed or sold which measures less than 22 in (56 cm) in total length, unless it weighs 4 lb (1.8144 kg) or more in the round, 3 and one-half lbs (1.587 kg) or more dressed with the head on, or 3 lbs (1.3608 kg) or more dressed with the head off. Total length means the shortest distance between the tip of the jaw or snout, whichever extends farthest while the mouth is closed, and the tip of the longest lobe of the tail, measured while the halibut is lying flat in natural repose, without resort to any force other than the swinging or fanning of the tail.”

(b) Participation in the sea cucumber fishery. A trawl vessel will be considered to be participating in the sea cucumber fishery if:

(i) It is not fishing under a valid limited entry permit issued under 50 CFR 660.333 for trawl gear;

(ii) All fishing on the trip takes place south of Pt. Arena, CA (38°57′30″ N. lat.); and

(iii) The landing includes sea cucumbers taken in accordance with California Fish and Game Code, section 8405, which requires a permit issued by the State of California.

(3) Groundfish taken with exempted trawl gear by vessels engaged in fishing for pink shrimp. Trip limits for groundfish retained in the pink shrimp fishery are in Table 5 (North) and Table 5 (South). Notwithstanding section IV.A.(11), a vessel that takes and retains pink shrimp and also takes and retains groundfish in either the limited entry or another open access fishery during the same applicable cumulative limit period that it takes and retains pink shrimp (which may be 1 month or 2 months, depending on the fishery and the time of year), may retain the larger of the two limits, but only if the limit(s) for each gear or fishery are not exceeded when operating in that fishery or with that gear. The limits are not additive; the vessel may not retain a separate trip limit for each fishery.

D. Recreational Fishery

Federal recreational groundfish regulations are not intended to supersede any more restrictive State recreational groundfish regulations relating to federally-managed groundfish.

(1) Washington. For each person engaged in recreational fishing in the EEZ seaward of Washington, the groundfish bag limit is 15 groundfish, including rockfish and lingcod, and is open year-round (except for lingcod). The following sublimits and closed areas apply:

(a) Closed Areas.

(i) Yelloweye Rockfish Conservation Area. The Yelloweye Rockfish Conservation Area, or YRCA, is a “C-shaped” area which is closed to recreational groundfish and halibut fishing. The YRCA is defined by latitude and longitude coordinates specified at 50 CFR 660.304(d).

(ii) Recreational Rockfish Conservation Area. The recreational Rockfish Conservation Area, or recreational RCA, is an area which may be closed to recreational groundfish fishing inseason. If recreational fishing for all groundfish is prohibited seaward of a boundary line approximating the 30-fm (55-m) depth contour, a document will be published in the Federal Register inseason pursuant to the requirements of the APA. Coordinates for the boundary line approximating the 30-fm (55-m) depth contour are listed in section IV.A.(17)(f).

(b) Rockfish. In areas of the EEZ seaward of Washington that are open to recreational groundfish fishing, there is a 10 rockfish per day bag limit. Taking and retaining canary rockfish and yelloweye rockfish is prohibited.

(c) Lingcod. Recreational fishing for lingcod is closed between January 1 and March 12, and between October 17 and December 31. In areas of the EEZ seaward of Washington that are open to recreational groundfish fishing and when the recreational season for lingcod is open (i.e., between March 13-October 16), there is a bag limit of 2 lingcod per day, which may be no smaller than 24 in (61 cm) total length.

(2) Oregon.

(a) Seasons, closed areas. Recreational fishing for groundfish is open from January 1 through December 31 in all areas, except that from June 1 through September 30, recreational fishing for groundfish is prohibited seaward of a recreational RCA boundary line approximating the 40-fm (73-m) depth contour, subject to the provisions in paragraph IV.D.(2)(b). Coordinates for the boundary line approximating the 40-fm (73-m) depth contour are listed in section IV.A.(17)(f). Recreational fishing for all groundfish may be prohibited inseason seaward of a boundary line approximating the 30-fm (55-m) depth contour. If a boundary line approximating the 30-fm (55-m) depth contour is implemented inseason, a document will be published in the Federal Register pursuant to the requirements of the APA. Coordinates for the boundary line approximating the 30-fm (55-m) depth contour are listed in section IV.A.(17)(f).

(b) Bag limits, size limits. The bag limits for each person engaged in recreational fishing in the EEZ seaward of Oregon are two lingcod per day, which may be no smaller than 24 in (61 cm) total length; and 10 marine fish per day, which excludes salmon, tuna, perch species, sturgeon, sanddabs, lingcod, striped bass and baitfish (herring, smelt, anchovies and sardines), but which includes rockfish, greenling, cabezon and other groundfish species. The minimum size limit for cabezon retained in the recreational fishery is 16 in (41 cm) and for greenling is 10 in (26 cm). Taking and retaining canary rockfish and yelloweye rockfish is prohibited. During the all-depth recreational fisheries for Pacific halibut, vessels with halibut on board may not take and retain, possess or land yelloweye rockfish or canary rockfish.

(3) California. Seaward of California (north and south of 40°10′ N. lat.), California law provides that, in times and areas when the recreational fishery is open, there is a 20-fish bag limit for all species of finfish, within which no more than 10 fish of any one species may be taken or possessed by any one person. Retention of cowcod, yelloweye rockfish and canary rockfish is prohibited in the recreational fishery seaward of California all year in all areas.

(a) North of 40°10′ N. lat. For each person engaged in recreational fishing in the EEZ seaward of California north of 40°10′ N. lat. to the California/Oregon border, the following seasons, bag limits, and size limits apply:

(i) RCG Complex. The California rockfish, cabezon, greenling complex (RCG Complex), as defined in state regulations (Section 1.91, Title 14, California Code of Regulations), includes all rockfish, kelp greenling, rock greenling, and cabezon. This category does not include California scorpionfish, also known as “sculpin.”

(A) Seasons. North of 40°10′ N. lat., recreational fishing for the RCG Complex is open from January 1 through December 31.

(B) Bag limits, boat limits, hook limits. North of 40°10′ N. lat., in times and areas when the recreational season for the RCG Complex is open, there is a limit of two hooks and one line when fishing for rockfish, and the bag limit is 10 rockfish per day, of which no more than 2 may be bocaccio. The following daily bag limits also apply: no more than 10 cabezon per day and no more than 10 kelp greenling and 10 rock greenling per day. Multi-day limits are authorized by a valid permit issued by California and must not exceed the daily limit multiplied by the number of days in the fishing trip.

(C) Size limits. The following size limits apply: bocaccio may be no smaller than 10 in (25 cm) total length; cabezon may be no smaller than 15 in (38 cm) total length; and kelp and rock greenling may be no smaller than 12 in (30 cm) total length.

(D) Dressing/Filleting. Cabezon, kelp greenling, and rock greenling taken in the recreational fishery may not be filleted at sea. Rockfish skin may not be removed when filleting or otherwise dressing rockfish taken in the recreational fishery. The following rockfish fillet size limits apply: bocaccio fillets may be no smaller than 5 in (12.8 cm) and brown-skinned rockfish fillets may be no smaller than 6.5 in (16.6 cm). “Brown-skinned” rockfish include the following species: brown, calico, copper, gopher, kelp, olive, speckled, squarespot, and yellowtail.

(ii) Lingcod.

(A) Seasons. North of 40°10′ N. lat., recreational fishing for lingcod is open from January 1 through December 31.

(B) Bag limits, boat limits, hook limits. North of 40°10′ N. lat., in times and areas when the recreational season for lingcod is open, there is a limit of two hooks and one line when fishing for lingcod. The bag limit is two lingcod per day from January 1 through March 31 and one lingcod per day from April 1 through December 31. Multi-day limits are authorized by a valid permit issued by California and must not exceed the daily limit multiplied by the number of days in the fishing trip.

(C) Size limits. Lingcod may be no smaller than 24 in (61 cm) total length from January 1 through March 31 and no smaller than 30 in (77 cm) total length from April 1 through December 31.

(D) Dressing/Filleting. Lingcod fillets may be no smaller than 16 in (41 cm) in length from January 1 through March 31 and no smaller than 21 in (54 cm) from April 1 through December 31 in length.

(b) South of 40°10′ N. lat. For each person engaged in recreational fishing in the EEZ seaward of California south of 40°10′ N. lat., the following seasons, bag limits, size limits and closed areas apply:

(i) Closed Areas.

(A) Cowcod Conservation Areas. Coordinates defining the boundaries of the Cowcod Conservation Areas (CCAs) are described in Federal regulations at 50 CFR 660.304(c). Recreational fishing for all groundfish is prohibited within the CCAs, except that fishing for sanddabs is permitted subject to the provisions in paragraph IV.D.(3)(b)(v) and that fishing for species managed under this section (not including cowcod, canary, and yelloweye rockfish) are permitted in waters shoreward of the 20-fm (37-m) depth contour within the CCAs from March 1 through December 31, subject to the bag limits in this section.

(B) Recreational Rockfish Conservation Areas. The recreational Rockfish Conservation Areas, or recreational RCAs, are areas that are closed to recreational fishing for groundfish.

(1) Between 40°10′ N. lat. and 34°27′ N. lat., recreational fishing for all groundfish, except sanddabs, is prohibited seaward of a boundary line approximating the 30-fm (55-m) depth contour along the mainland coast and along islands and offshore seamounts during January 1 through February 29 and September 30 through December 31; is prohibited seaward of the 20-fm (37-m) depth contour during May 1 through August 31; and is closed entirely during March 1 through April 30 (i.e., prohibited seaward of the shoreline). Coordinates for the boundary line approximating the 30-fm (55-m) depth contour are listed in section IV.A.(17)(f). Under state law, recreational fishing for rockfish, lingcod, and associated species limited to cabezon, greenlings of the genus Hexagrammos, California scorpionfish, California sheephead, and ocean whitefish are prohibited between the shoreline and the 10-fm (18-m) depth contour around the Farallon Islands. For a definition of the Farallon Islands, see paragraph IV.A.(17)(f). Recreational fishing for certain groundfish species is also prohibited in waters of the Cordell Banks, located at 38°02′ N. lat. and 123°25′ W. long., and within a 5 nautical mile radius around this point. This portion of the Cordell Banks is closed to fishing for rockfish, lingcod, cabezon, kelp greenlings and California scorpionfish. (Note: California state regulations also prohibit the retention of other greenlings of the genus Hexagrammos, California sheephead and ocean whitefish.) For a definition of Cordell Banks, see paragraph IV.A.(17)(f).

(2) South of 34°27′ N. lat., recreational fishing for all groundfish, except sanddabs, is prohibited seaward of a boundary line approximating the 60-fm (110-m) depth contour along the mainland coast and along islands and offshore seamounts during March 1 through December 31 and is closed entirely during January 1 through February 29 (i.e., prohibited seaward of the shoreline), except in the CCA where fishing is prohibited seaward of the 20-fm (37-m) depth contour in paragraph (A) of this section. Coordinates for the boundary line approximating the 60-fm (110-m) depth contour are listed in section IV.A.(17)(f).

(ii) RCG Complex. The California rockfish, cabezon, greenling complex (RCG Complex), as defined in State regulations (section 1.91, Title 14, California Code of Regulations), includes all rockfish, kelp greenling, rock greenling, and cabezon. This category does not include California scorpionfish, also known as “sculpin.”

(A) Seasons. Between 40°10′ N. lat. and 34°27′ N. lat., recreational fishing for the RCG Complex is open from January 1 through February 29 and from May 1 through December 31 (i.e., it's closed from March 1 through April 30). South of 34°27′ N. lat., recreational fishing for the RCG Complex is open from March 1 through December 31 (i.e., it's closed from January 1 through February 29). When recreational fishing for the RCG Complex is open, it is permitted only shoreward of the recreational RCA, as described in paragraph IV.D.(3)(b)(i)(B) above.

(B) Bag limits, boat limits, hook limits. South of 40°10′ N. lat., in times and areas when the recreational season for the RCG Complex is open, there is a limit of two hooks and one line when fishing for rockfish, and the bag limit is 10-RCG Complex fish per day (not including canary rockfish, yelloweye rockfish and cowcod, which are prohibited), of which up to 10 may be rockfish, no more than 1 of which may be bocaccio and no more than two of which may be shallow nearshore rockfish. (Note: The shallow nearshore rockfish group off California are composed of kelp, grass, black-and-yellow, China, and gopher rockfishes.) Also within the 10-RCG Complex fish per day limit, no more than two fish per day may be greenling (kelp and/or other greenlings) and no more than 3 fish per day may be cabezon. Lingcod, California scorpionfish and sanddabs taken in recreational fisheries off California do not count toward the 10 RCG Complex fish per day bag limit. Multi-day limits are authorized by a valid permit issued by California and must not exceed the daily limit multiplied by the number of days in the fishing trip.

(C) Size limits. The following size limits apply: Bocaccio may be no smaller than 10 in (25 cm) total length, cabezon may be no smaller than 15 in (38 cm), and kelp and other greenlings may be no smaller than 12 in (30 cm).

(D) Dressing/Filleting. Cabezon, kelp greenling, and rock greenling taken in the recreational fishery may not be filleted at sea. Rockfish skin may not be removed when filleting or otherwise dressing rockfish taken in the recreational fishery. The following rockfish filet size limits apply: Bocaccio filets may be no smaller than 5 in (12.8 cm) and brown-skinned rockfish filets may be no smaller than 6.5 in (16.6 cm). “Brown-skinned” rockfish include the following species: brown, calico, copper, gopher, kelp, olive, speckled, squarespot, and yellowtail.

(iii) California scorpionfish. California scorpionfish only occur south of 40°10′ N. lat.

(A) Seasons. Between 40°10′ N. lat. and 34°27′ N. lat., recreational fishing for California scorpionfish is open from January 1 through February 29 and from May 1 through December 31 (i.e., it's closed from March 1 through April 30). South of 34°27′ N. lat., recreational fishing for California scorpionfish is open from March 1 through April 31 and from November 1 through December 31 (i.e., it's closed from January 1 through February 29 and from May 1 through October 31). When recreational fishing for California scorpionfish is open, it is permitted only shoreward of the recreational RCA, as described in paragraph IV.D.(3)(b)(i)(B) above.

(B) Bag limits, boat limits, hook limits. South of 40°10′ N. lat., in times and areas where the recreational season for California scorpionfish is open, and the bag limit is 5 California scorpionfish per day. California scorpionfish do not count against the 10 RCG Complex fish per day limit. Multi-day limits are authorized by a valid permit issued by California and must not exceed the daily limit multiplied by the number of days in the fishing trip.

(C) Size limits. California scorpionfish may be no smaller than 10 in (25 cm) total length.

(D) Dressing/Filleting. California scorpionfish fillets may be no smaller than 5 in (12.8 cm).

(iv) Lingcod.

(A) Seasons. Between 40°10′ N. lat. and 34°27′ N. lat., recreational fishing for lingcod is open from January 1 through February 29 and from May 1 through December 31 (i.e., it's closed from March 1 through April 30). South of 34°27′ N. lat., recreational fishing for lingcod is open from March 1 through December 31 (i.e., it's closed from January 1 through February 29). When recreational fishing for lingcod is open, it is permitted only shoreward of the recreational RCA, as described in paragraph IV.D.(3)(b)(i)(B) above.

(B) Bag limits, boat limits, hook limits. South of 40°10′ N. lat., in times and areas when the recreational season for lingcod is open, there is a limit of two hooks and one line when fishing for lingcod. The bag limit is two lingcod per day from January 1 through March 31 and one lingcod per day from April 1 through December 31. Lingcod do not count against the 10-RCG Complex fish per day limit. Multi-day limits are authorized by a valid permit issued by California and must not exceed the daily limit multiplied by the number of days in the fishing trip.

(C) Size limits. In times and areas when the recreational season for lingcod is open, lingcod may be no smaller than 24 in (61 cm) total length from January 1 through March 31 and no smaller than 30 in (77 cm) total length from April 1 through December 31.

(D) Dressing/Filleting. In times and areas when the recreational season for lingcod is open, lingcod fillets may be no smaller than 16 in (41 cm) in length from January 1 through March 31 and no smaller than 21 in (54 cm) from April 1 through December 31 in length.

(v) Sanddabs. South of 40°10′ N. lat., recreational fishing for sanddabs is permitted both shoreward of and within the closed areas, as described in section IV.D.(3)(b)(i) above. Recreational fishing for sanddabs is permitted within the closed areas, subject to a limit of up to 12 hooks, “Number 2” or smaller, which measure 11 mm (0.44 inches) point to shank, and up to 2 lb (0.91 kg) of weight per line. There is no bag limit, season, or size limit for sanddabs, however, it is prohibited to fillet sanddabs at sea.

V. Washington Coastal Tribal Fisheries

In 1994, the United States formally recognized that the four Washington coastal treaty Indian tribes (Makah, Quileute, Hoh, and Quinault) have treaty rights to fish for groundfish in the Pacific Ocean, and concluded that, in general terms, the quantification of those rights is 50 percent of the harvestable surplus of groundfish that pass through the tribes usual and accustomed fishing areas (described at 50 CFR 660.324). For further information, see the proposed rule for this action at 69 FR 1380, January 8, 2004.

The Assistant Administrator (AA) announces the following tribal allocations for 2004, including those that are the same as in 2003. Trip limits for certain species were recommended by the tribes and the Council and are specified here with the tribal allocations.

A. Sablefish

The tribal allocation is 728.5 mt, 10 percent of the total catch OY, less 3 percent estimated discard mortality.

B. Rockfish

(1) For the commercial harvest of black rockfish off Washington State, a harvest guideline of: 20,000 lb (9,072 kg) north of Cape Alava, WA (48°09′30″ N. lat.) and 10,000 lb (4,536 kg) between Destruction Island, WA (47°40′00″ N. lat.) and Leadbetter Point, WA (46°38′10″ N. lat.).

(2) Thornyheads are subject to a 300-lb (136-kg) trip limit.

(3) Canary rockfish are subject to a 300-lb (136-kg) trip limit.

(4) Yelloweye rockfish are subject to a 100-lb (45-kg) trip limit.

(5) Yellowtail rockfish taken in the tribal mid-water trawl fisheries are subject to a cumulative limit of 150,000 lb (13,608 kg) per 2-month period for the entire fleet. Landings of widow rockfish must not exceed 10 percent of the weight of yellowtail rockfish landed in any two-month period. These limits may be adjusted by an individual tribe inseason to minimize the incidental catch of canary rockfish and widow rockfish.

(6) Other rockfish, including minor nearshore, minor shelf, and minor slope rockfish groups are subject to a 300-lb (136-kg) trip limit per species or species group, or to the non-tribal limited entry trip limit for those species if those limits are less restrictive than 300 lb (136 kg) per trip.

(7) Rockfish taken during open competition tribal commercial fisheries for Pacific halibut will not be subject to trip limits.

C. Lingcod

Lingcod are subject to a 450-lb (204-kg) daily trip limit and a 1,350-lb (612-kg) weekly limit.

D. Flatfish and Other Fish

Treaty fishing vessels using bottom trawl gear will be subject to the limits applicable to the non-tribal limited entry trawl fishery for Pacific cod, English sole, rex sole, arrowtooth flounder, and other flatfish. Treaty fishing vessels are restricted to a 30,000 lb (13,608 kg) per 2-month limit for petrale sole for the entire year.

E. Pacific Whiting

Whiting allocations will be announced when the final OY is announced.

Classification

These final specifications and management measures for 2004 are issued under the authority of, and are in accordance with, the Magnuson-Stevens Act, the FMP, and 50 CFR part 660 subpart G (the regulations implementing the FMP).

The 2004 specifications and management measures are intended to protect overfished and other depressed stocks while also allowing as much harvest of more abundant groundfish stocks as possible during the course of the year. NMFS received the Council's recommendations on specifications and management measures in September 2003. Because of the timing of the receipt, development, review, and analysis of the fishery information necessary for publishing the proposed rule for the specifications and management measures, the proposed rule could not be made available for public comment prior to January 8, 2004. The timing of this final rule balances the need to publish and make effective a final rule as early as possible in the calendar year against the need to provide public comments on the proposed rule.

Except for amendments to § 660.370, a 30-day delay in effectiveness for this final rule would in fact be a 60-day delay, because most of the trip limits are 2-month limits, so most fishers could exceed the entire 2-month limit before the rules went into effect after 30 days. In addition, none of the large RCAs would be in place, thus a delay in effectiveness would allow fishing in an area this final rule closes for conservation purposes. For example, if fishing were permitted in areas that this rule designates as RCAs, overharvests of overfished species would occur. Depending on the extent of the overharvest, fishing for co-occurring abundant stocks would need to be more severely restricted, or possibly closed for the remainder of the year to protect overfished species. If overfished species harvest levels were completely taken early in the fishing year, fishing opportunities for co-occurring abundant stocks would have to be closed for the remainder of the year to protect overfished stocks. Thus, excessive harvest could cause harm to overfished species. Delay in publishing these measures could also require unnecessarily restrictive measures, including possible fishery closures, later in the year to make up for the excessive harvest that would be caused by late implementation of these regulations. Thus, a delay in effectiveness could ultimately cause economic harm to the fishing industry and associated fishing communities. For these reasons, the AA finds good cause under 5 U.S.C. 553(d)(3) to waive the requirement to delay the effective date of this rule for 30 days, except for amendments to § 660.370, which are effective April 8, 2004.

The Council prepared an FEIS for this action; a notice of availability was published on January 16, 2004 (69 FR 2593). A copy of this FEIS is available from the Council (see ADDRESSES). On February 26, 2004, NMFS issued a ROD that documents the agency's final decisions concerning the decision by the NMFS Northwest Region to approve the Council's preferred OY alternative for 2004 groundfish ABC and OY specifications and management measures for Pacific Coast groundfish. The 2004 specifications and management measures are expected to have positive effects on the biological environment and negative effects on fishing communities and the socio-economic environment. The 2004 management regime is structured to protect overfished groundfish species and includes the depth based management regime introduced in 2003 that closes large areas of the continental shelf to groundfish fishing. Closure of important fishing areas is expected to have significant impacts on the human environment.

This final rule has been determined to not be significant for purposes of Executive Order 12866.

Pursuant to Executive Order 13175, this final rule was developed after meaningful consultation and collaboration with tribal officials from the area covered by the FMP. Under the Magnuson-Stevens Act at 16 U.S.C. 1852(b)(5), one of the voting members of the Pacific Council must be a representative of an Indian tribe with federally recognized fishing rights from the area of the Council's jurisdiction. In addition, regulations implementing the FMP establish a procedure by which the tribes with treaty fishing rights in the area covered by the FMP request new allocations or regulations specific to the tribes, in writing, before the first of the two Council meetings at which the Council considers groundfish specifications and management measures. The regulations at 50 CFR 660.324(d) further states “the Secretary will develop tribal allocations and regulations under this paragraph in consultation with the affected tribe(s) and, insofar as possible, with tribal consensus.” The tribal management measures in this final rule were developed following these procedures. The tribal representative on the Council made a motion to adopt the tribal management measures, which was passed by the Council, and those management measures, which were developed and proposed by the tribes, are included in this proposed rule.

NMFS prepared an FRFA describing the impact of this action on small entities. The IRFA was summarized in the proposed rule published on January 8, 2004 (69 FR 1380). The following is the summary of the FRFA. The need for and objectives of this final rule are contained in the SUMMARY and in the Background section under SUPPLEMENTARY INFORMATION. NMFS did not receive any comments on the IRFA or on the proposed rule regarding the economic effects of this final rule.

These final 2004 annual specifications and management measures allow West Coast commercial and recreational fisheries participants to fish the harvestable surplus of more abundant groundfish stocks, while also ensuring that those fisheries do not exceed the allowable catch levels intended to protect overfished and depleted stocks. The form of the specifications, in ABCs and OYs, follows the guidance of the Magnuson-Stevens Act, the national standard guidelines, and the FMP for protecting and conserving fish stocks. Annual management measures include trip and bag limits, size limits, time/area closures, gear restrictions, and other measures intended to allow year-round West Coast groundfish landings without compromising overfished species rebuilding measures.

Approximately 1,560 vessels participate in the West Coast groundfish fisheries. Of those, about 410 vessels are registered to limited entry permits issued for either trawl, longline, or pot gear. About 1,150 vessels land groundfish against open access limits while either directly targeting groundfish or taking groundfish incidentally in fisheries directed at non-groundfish species. All but 10-20 of those vessels are considered small businesses by the Small Business Administration. There are also about 450 groundfish buyers on the West Coast, approximately 5 percent of which are responsible for about 80 percent of West Coast groundfish purchases. In the 2001 recreational fisheries, there were 106 Washington charter vessels engaged in salt water fishing outside of Puget Sound, 232 charter vessels active on the Oregon coast and 415 charter vessels active on the California coast.

The Magnuson-Stevens Act requires that actions taken to implement FMPs be consistent with the 10 national standards. National standard 8 (section 301(a)(8)) requires that conservation and management measures, consistent with the conservation requirements of the Act, “take into account the importance of fishery resources to fishing communities in order to (A) provide for the sustained participation of such communities and (B), to the extent practicable, minimize adverse economic impacts on such communities.” Commercial and recreational fisheries for Pacific Coast groundfish contribute to the economies and shape the cultures of numerous fishing communities in Washington, Oregon, and California. Meeting the needs of fishing communities has become increasingly difficult because the Council manages a fishery that is overcapitalized and contains stocks that are overfished. In recommending this year's specifications and management measures, the Council tried to accommodate some of the needs of those communities within the constraints of Magnuson-Stevens Act requirements to rebuild overfished stocks, prevent overfishing, and minimize bycatch. In general, the Council recommended the largest harvest of the more abundant stocks as possible, consistent with conservation needs of the fish stocks.

The Council considered five alternative specifications and management measures regimes for 2004: The no action alternative, which would have implemented the 2003 management regime for 2004; the low OY alternative, which set a series of conservative groundfish harvest levels that were either intended to achieve high probabilities of rebuilding within TMAX for overfished species or modest levels of harvest for more abundant stocks; the high OY alternative, which set harvest levels that were either intended to achieve lower probabilities of rebuilding within TMAX for overfished species or higher harvest levels for more abundant stocks, within Council harvest parameters described earlier in this document; the medium OY alternative, which set harvest levels intermediate to those of the low and high alternatives; and the Council OY alternative (preferred alternative) which was the same as the medium OY alternative, but with more precautionary OY levels for bocaccio and darkblotched rockfish and more precautionary recreational fisheries management than the medium OY alternative. Each of these alternatives included both harvest levels (specifications) and management measures needed to achieve those harvest levels, with the most restrictive management measures corresponding to the lowest OYs.

Each of the alternatives analyzed by the Council was expected to have different overall effects on the economy. Among other factors, the FEIS for this action reviewed alternatives other than the no action alternative for expected declines in revenue and income from 2003 levels. The low OY alternative was expected to reduce commercial ex-vessel revenue by $11.5 million in 2004, reduce overall commercial harvest income by $6.2 million, and reduce recreational fishery income (mainly charter businesses) by $95 million. The high OY alternative was expected to increase commercial ex-vessel revenue by $3.3 million in 2004, increase overall commercial harvest income by $6.9 million, and increase recreational fishery income by $122 million. The medium OY alternative was expected to increase commercial ex-vessel revenue by $3.3 million in 2004, increase overall commercial harvest income by $4.8 million, and increase recreational fishery income by $112 million. The Council's OY alternative was expected to increase commercial ex-vessel revenue by $2.8 million in 2004, increase overall commercial harvest income by $4 million, and increase recreational fishery income by $55 million. The Council's OY alternative was chosen as the preferred alternative because it met the conservation requirements of the Magnuson-Stevens Act, while reducing to the extent possible the adverse economic impacts of these conservation measures on the fishing industries and associated communities.

For the 2003 management cycle, NMFS had introduced depth-based management, which had a greater effect on both commercial and recreational fisheries income between 2002 and 2003 than retaining depth-based management will have between 2003 and 2004. The modest increases in income expected for the various fishing communities in 2004 are expected to result from a larger bocaccio OY based on a new bocaccio stock assessment. With a larger bocaccio OY, fisheries that target more abundant stocks that co-occur with bocaccio will have greater access to those stocks in 2004.

The Small Business Regulatory Enforcement Act of 1996 requires a plain language guide to assist small entities in complying with this final rule. NMFS has produced a public notice for the 2004 fishing season that includes trip limit tables and descriptions of the 2004 management measures. Contact NMFS to request a copy of this public notice (see ADDRESSES) or see the NMFS Northwest Region's groundfish Web site at http://www.nwr.noaa.gov/1sustfsh/gdfsh01.htm.

List of Subjects in 50 CFR Part 660

Administrative practice and procedure, American Samoa, Fisheries, Fishing, Guam, Hawaiian Natives, Indians, Northern Mariana Islands, Reporting and recordkeeping requirements.

Dated: February 27, 2004.
Rebecca Lent,
Deputy Assistant Administrator for Regulatory Programs, National Marine Fisheries Service.

For the reasons set out in the preamble, 50 CFR part 660 is amended as follows:

PART 660—FISHERIES OFF WEST COAST STATES AND IN THE WESTERN PACIFIC

l. The authority citation for part 660 continues to read as follows:

Authority: 16 U.S.C. 1801 et seq.

2. In § 660.302, the definitions of “Closure,” “Fishery Management Area,” and “Trip limits” are revised and the definitions for “Exempted gear,” “Legal fish,” and “North-South management area” are added in alphabetical order to read as follows:

§ 660.302 Definitions.

* * * * *

Closure, when referring to closure of a fishery, means that taking and retaining, possessing, or landing the particular species or species group is prohibited. Unless otherwise announced in the Federal Register, offloading must begin before the time the fishery closes.

* * * * *

Exempted gear means all types of fishing gear except longline, trap (or pot), and groundfish trawl gear. Exempted gear includes trawl gear used to take pink shrimp, ridgeback prawns, California halibut south of Pt. Arena, CA, and sea cucumber south of Pt. Arena, CA under the authority of a State of California limited entry permit for the sea cucumber fishery.

* * * * *

Fishery management area means the EEZ off the coasts of Washington, Oregon, and California between 3 and 200 nm offshore, and bounded on the north by the Provisional International Boundary between the United States and Canada, and bounded on the south by the International Boundary between the United States and Mexico. All groundfish possessed between 0-200 nm offshore or landed in Washington, Oregon, or California are presumed to have been taken and retained from the EEZ, unless otherwise demonstrated by the person in possession of those fish.

* * * * *

Legal fish means fish legally taken and retained, possessed, or landed in accordance with the provisions of 50 CFR part 660, the Magnuson-Stevens Act, any document issued under part 660, and any other regulation promulgated or permit issued under the Magnuson-Stevens Act.

* * * * *

North-South management area means the management areas defined at § 660.304(a) or defined and bounded by one or more of the commonly used geographic coordinates at § 660.304(b) for the purposes of implementing different management measures in separate sections of the U.S. West Coast.

* * * * *

Trip limits. Trip limits are used in the commercial fishery to specify the maximum amount of a fish species or species group that may legally be taken and retained, possessed, or landed, per vessel, per fishing trip, or cumulatively per unit of time, or the number of landings that may be made from a vessel in a given period of time, as follows:

(1) A per trip limit is the total allowable amount of a groundfish species or species group, by weight, or by percentage of weight of legal fish on board, that may be taken and retained, possessed, or landed per vessel from a single fishing trip.

(2) A daily trip limit is the maximum amount of a groundfish species or species group that may be taken and retained, possessed, or landed per vessel in 24 consecutive hours, starting at 0001 hours local time (l.t.) Only one landing of groundfish may be made in that 24-hour period. Daily trip limits may not be accumulated during multiple day trips.

(3) A weekly trip limit is the maximum amount of a groundfish species or species group that may be taken and retained, possessed, or landed per vessel in 7 consecutive days, starting at 0001 hours l.t. on Sunday and ending at 2400 hours l.t. on Saturday. Weekly trip limits may not be accumulated during multiple week trips. If a calendar week includes days within two different months, a vessel is not entitled to two separate weekly limits during that week.

(4) A cumulative trip limit is the maximum amount of a groundfish species or species group that may be taken and retained, possessed, or landed per vessel in a specified period of time without a limit on the number of landings or trips, unless otherwise specified. The cumulative trip limit periods for limited entry and open access fisheries, which start at 0001 hours l.t. and end at 2400 hours l.t., are as follows, unless otherwise specified:

(i) The 2-month or “major” cumulative limit periods are: January 1-February 28/29, March 1-April 30, May 1-June 30, July 1-August 31, September 1-October 31, and, November 1-December 31.

(ii) One month means the first day through the last day of the calendar month.

(iii) One week means 7 consecutive days, Sunday through Saturday.

* * * * *

3. In § 660.303, paragraphs (d)(1) and (d)(5)(i)(D) are added to read as follows:

§ 660.303 Reporting and recordkeeping.

* * * * *

(d) * * *

(1) Declaration reports for trawl vessels intending to fish in a conservation area. The operator of any vessel registered to a limited entry permit with a trawl endorsement; any vessel using trawl gear, including exempted gear used to take pink shrimp, ridgeback prawns, California halibut and sea cucumber; or any tribal vessel using trawl gear must provide NMFS with a declaration report, as specified at § 660.303(d)(5) of this section to identify the intent to fish within the CCA, as defined at § 660.304, or any trawl RCA, as defined in the groundfish annual or biennial management measures that are published in the Federal Register.

* * * * *

(5) * * *

(i) * * *

(D) Trawl gear including exempted gear used to take pink shrimp, ridgeback prawns, California halibut south of Pt. Arena, CA, and sea cucumber.

* * * * *

4. In § 660.304, the second paragraph (c)(2) is correctly redesignated as paragraph (c)(2)(ii), paragraph (d) is redesignated as paragraph (c)(3), paragraph (e) is redesignated as paragraph (d), and paragraph (b) is added to read as follows:

§ 660.304 Management areas, including conservation areas, and commonly used geographic coordinates.

* * * * *

(b) Commonly used geographic coordinates.

(1) Washington/Oregon border—46°16′ N. lat.

(2) Cape Falcon, OR—45°46′ N. lat.

(3) Cape Lookout, OR—45°20′15″ N. lat.

(4) Cape Blanco, OR—42°50′ N. lat.

(5) Oregon/California border—42°00′ N. lat.

(6) Cape Mendocino, CA—40°30′ N. lat.

(7) North/South management line—40°10′ N. lat.

(8) Point Arena, CA—38°57′30″ N. lat.

(9) Point San Pedro, CA—37°35′40″ N. lat.

(10) Point Lopez, CA—36°00′ N. lat.

(11) Point Conception, CA—34°27′ N. lat.

* * * * *

5. In § 660.306, paragraphs (b), (aa), (bb), and (cc) are added to read as follows:

§ 660.306 Prohibitions.

* * * * *

(b) Retain any prohibited species (defined in § 660.302 and restricted in § 660.323(c)) caught by means of fishing gear authorized under this subpart or unless authorized by part 600 of this chapter. Prohibited species must be returned to the sea as soon as practicable with a minimum of injury when caught and brought on board.

* * * * *

(aa) Fishing in conservation areas. Fish with any trawl gear, including exempted gear used to take pink shrimp, ridgeback prawns, California halibut south of Pt. Arena, CA, and sea cucumber; or with trawl gear from a tribal vessel or with any gear from a vessel registered to a groundfish limited entry permit in a conservation area unless the vessel owner or operator has a valid declaration confirmation code or receipt for fishing in a conservation area as specified at § 660.303(d)(5).

(bb) Operate any vessel registered to a limited entry permit with a trawl endorsement and trawl gear on board in a Trawl Rockfish Conservation Area or a Cowcod Conservation Area (as defined at § 660.302), except for purposes of continuous transiting, with all groundfish trawl gear stowed in accordance with § 660.322(b)(8), or except as authorized in the annual or biennial groundfish management measures published in the Federal Register.

(cc) Operate any vessel registered to a limited entry permit with a longline or trap (pot) endorsement and longline and/or trap gear onboard in a Nontrawl Rockfish Conservation Area or a Cowcod Conservation Area (as defined at § 660.302), except for purposes of continuous transiting, or except as authorized in the annual or biennial groundfish management measures published in the Federal Register.

6. In § 660.323, the introductory text to paragraph (c) is added to read as follows:

§ 660.323 Catch restrictions.

* * * * *

(c) Prohibited species. Groundfish species or species groups under the PCGFMP for which quotas have been achieved and/or the fishery closed are prohibited species. In addition the following are prohibited species: * * *

* * * * *

7. In § 660.335, paragraph (e)(3)(i) is revised to read as follows:

§ 660.335 Limited entry permits-renewal, combination, stacking, change of permit ownership or permit holdership, and transfer.

(e) * * *

(3) * * *

(i) Changes in vessel registration on permits will take effect no sooner than the first day of the next major limited entry cumulative limit period following the date that SFD receives the signed permit transfer form and the original limited entry permit. Major cumulative limit periods are defined as two-month trip limit periods in § 660.302. Unless otherwise specified in the Federal Register, the major cumulative limit periods begin on January 1, March 1, May 1, July 1, September 1, and November 1. No transfer is effective until the limited entry permit has been reissued as registered with the new vessel.

* * * * *

8. In § 660.370, paragraphs (a) and (b) are added to read as follows:

§ 660.370 Overfished species rebuilding plans.

* * * * *

(a) Darkblotched rockfish. The target year for rebuilding the darkblotched rockfish stock to BMSY is 2030. The harvest control rule to be used to rebuild the darkblotched rockfish stock is an annual harvest rate of F=0.032.

(b) Pacific ocean perch (POP). The target year for rebuilding the POP stock to BMSY is 2027. The harvest control rule to be used to rebuild the POP stock is an annual harvest rate of F=0.0257.

[FR Doc. 04-4744 Filed 3-1-04; 11:32 am]

BILLING CODE 3510-22-P